OFFICE OF PERSONNEL MANAGEMENT

SES Positions That Were Career Reserved During 1999

AGENCY: Office of Personnel Management.

ACTION: Notice.

SUMMARY: As required by the Civil Service Reform Act of 1978, this gives notice of all positions in the Senior Executive Service (SES) that were career reserved during 1999.

FOR FURTHER INFORMATION CONTACT: Charles Vaughn, Office of Executive Resources Management, (202) 606-1927.

SUPPLEMENTARY INFORMATION: Below is a list of titles of SES positions that were career reserved at any time during calendar year 1999, regardless of whether those positions were career reserved on December 31, 1999. Section 3132(b)(4) of title 5, United States Code, requires that the head of each agency publish such list by March 1 of the following year. OPM is publishing a consolidated list for all agencies.

Office of Personnel Management.
Janice R. Lachance,
Director.

Positions That Were Career Reserved During Calendar Year 1999
Agency and organization | Career reserved positions
Advisory Council on Historic Preservation:
OFC of the Exec Director | Executive Director. Special Assistant.
Department of Agriculture:
OFC of the Inspector General | Asst Inspector General for Investigations.
| Dep Asst Inspector General for Investigation.
| Asst Inspector General for Audit.
| Dep Assistant Inspector General for Audit.
| Dep Assistant Inspector General for Audit.
| Asst Inspector Gen for Pol Dev & Res Mgmt.
| Dep Asst Insp Gen for Invest Immediate Office.
| Deputy Inspector General.
Office of the Chief Economist | Dir Ofc of Risk Assessment & Cost-benefit ANL. Dir Global Change Program Office. Director, Office of Energy Policy and New Uses.
World Agricultural Outlook Board | Chairperson Director, USDA Program Outreach Division.
Office of Chief Information Officer | Deputy Chief Information Officer Associate Deputy Director, NTIC.
Office of Operations | Director Office of Operations.
Office of the Chief Financial Officer | Deputy Chief Financial Officer Project Manager.
National Finance Center | Director, Applications Systems Division.
| Dir, Info Resources Management Division.
| Director, Financial Services Division.
| Dir. Thrift Savings Plan Division.
| Deputy Director.
Rural Housing Service | Conroller Deputy Administration for Operations & Mgmt Director Centralized Servicing Center.
Rural Business Service | Deputy Administrator for Business Programs.
Agricultural Marketing Service | Director, Fruit & Vegetable Division.
| Director, Cotton Division.
| Director, Dairy Division.
| Director, Livestock Division.
| Director, Tobacco Division.
| Agricultural Marketing SVC, Dir Poultry Div.
| Director, Compliance Staff.
| Director.
| Director.
Grain Inspection, Packers & Stockyards Administration | Dir Field Management Division.
Animal & Plant Health Inspection Service | Deputy Administrator for Management & Budget, Deputy Administrator.
Veterinary Services | Director, Northern Region.
| Dir, SE Region, Veterinary Services.
| Director, Western Region.
| Director, South Central Region.
| Dep Admr, Animal Damage Control.
| Dir, Operational Support, Veterinary Services.
| Dir, Natl Ctr for Veterinary Epidemiology.
Plant Protection & Quarantine Service | Dep Admr, International Services.
| Director, South Central Region.
| Director, Western Region.
| Director, Operational Support PPQ.
| Director.
Food Safety and Inspection Service | Asst Dep Admin (Admin Mgt).
| Deputy Administrator.
| Deputy Administrator.
| Deputy Administrator.
| U.S. Coordinator for Codex Alimentarius.
| Assistant Deputy Administrator.
| Director.
| Associate Deputy Administrator.
| Assistant Deputy Administrator.
| Deputy Administrator.
| Assistant Deputy Administrator.
| Assistant Deputy Administrator.
| Assistant Deputy Administrator.
| Deputy Administrator.
| Associate Deputy Administrator.
| Assistant Deputy Administrator.
| Assistant Deputy Administrator.
| Asst Deputy Administrator.
| Assistant Deputy Administrator.
| Director.
| Deputy Administrator.
| Director.
| Assistant Deputy Administrator.
| Assistant Deputy Administrator.
| Assistant Deputy Administrator.
| Assistant Deputy Administrator.
| Associate Deputy Administrator.
| Deputy Administrator.
| Administrator.
Food and Consumer Service | Deputy Admin for Financial Management.
| Deputy Admr for Management.
| Director, Office of Analysis and Evaluation.
Farm Service Agency | Controller.
| Assistant Dept Administrator for Mgmt.
| Director Management Services Division.
| Director, Budget Division.
| Deputy Administrator for Farm Loan Programs.
Foreign Agricultural Service | Dir, Grain & Feed Div.
| Assistant Deputy Administrator Management.
| Director, Cotton, Oilseeds, Tobacco and Seeds Division.
Risk Management Agency | Asst Manager for Research & Development Director, Insurance Services Division.
Agriculture Research Service | Asst Administrator for Technology Transfer.
| Assistant Administrator for Genetic Resources.
| Dep Admin for Admin & Financial Mgmt.
| Director, Office of Pest Management Policy.
| Director, National Animal Disease Center.
| Associate Administrator, Special Interagency Programs.
| Associate Deputy Admin Financial Management.
National Program Staff Office | Deputy Administrator National Program Staff.
| Assoc Dep Admr.
| Assoc Deputy Administrator for Animal PPV&S
| Assoc Dep Admin for Natural Resources & SAS.
| Associate Deputy Administrator for Crop Production, Product Value and Safety.
Beltsville Area Office | Director Beltsville Area Office.
| Assoc Dir Beltsville Area.
| Dir US National Arboretum.
| Dir Beltsville Human Nutrition Research Ctr.
| Director Plant Sciences Institute.
| Dir Livestock & Poultry Sciences Institute.
| Dir Natural Resources Institute.
North Atlantic Area Office | Director, Eastern Regl Research Center.
| Director, North Atlantic Area.
| Assoc Dir, North Atlantic Area.
| Director, Plum Island Animal Disease Center.
| Director, North Atlantic Area.
South Atlantic Area Office | Associate Dir South Atlantic Area.
| Supervisory Research Geneticist.
| Director, South Atlantic Area.
| Dir, Center for Medical A&V Entomology.
Midwest Area Office | Dir Midwest Area.
| Assoc Dir, Midwest Area.
| Supervisory Veterinary Medical Office.
| Dir Natl Ctr for Agri Utilization.
Midsouth Area Office | Dir, Southern Regional Res Center, New Orlean.
| Director, Mid-South Area.
| Associate Director, Mid South Area.
Southern Plains Area Office | Director Southern Plains Area.
| Assoc Dir, Southern Plains Area.
| Dir, Subtropical Agricultural Res Laboratory.
Northern Plains Area Office | Director, Northern Plains Area.
| Associate Director, Northern Plains Area Ofc.
| Dir R.L. Hruska US Meat Animal Res Center.
Pacific West Area Office | Director, Western Regional Research Center.
| Dir, Western Human Nutrition Research Center.
| Director, Pacific West Area Office.
| Associate Director, Pacific West Area Office.
| Dir, Western Cotton Research Laboratory.
| Supervisory Soil Scientist.
Cooperative State Res Education, & Extension Service | Deputy Administrator Partnerships.
| Deputy Admin for Rural, Economic & Social Dev.
| Special Asst to the Administrator, CSREES.
Economic Research Service | Admr, Economic Research Service.
| Associate Administrator-Economic Rsch Svc.
| Dir, Natural Res & Environment Division.
| Director, Information Services Division.
| Budget Coordinator and Strategic Planner.
| Dir Food & Consumer Economics Division.
| Director, Market and Trade Economics Division.
National Agricultural Statistics Service | Admr, National Agricultural Statistics Serv.
| Dir Estimates Div.
| Dir, Systems & Information Division.
| Director, Survey Management Division.
| Deputy Administrator for Field Operations.
| Associate Administrator.
| Dir Census Division.
Natural Resources Conservation Service | Director Engineering Division.
| Dir Ecological Sciences and Technology Divisi.
| Dir, Consv Planning and App.
| Dir, Community Asst & Rural Development Div.
| Dir, Soils (Soil Scientist).
| Director, Strategic Planning Division.
| Director, Operations Management and Oversight.
| Dir Conservation Operations Division.
| Dep. Chief for Mgnt & Strategic Planning.
| Spec Asst to the Dep Chf for Soil S/R Assesmt.
| Natural Resources Manager.
| Special Asst to the Chief (Program Manager).
| Deputy Chief for Strategic Planning and Accountability.
| Director, Resource Conservation & Community Development Division.
| Director, Resource Inventory Division.
| Director, Animal Husbandry and Clean Water Programs Division.
| Regional Conservationist—Northern Plains.
| Director, Resource Economics & Social Sciences Division.
Forest Service | Dep Chf for Administration.
| Associate Deputy Chief-Administration.
| Dir Forest Pest Mgmt Staff.
| Dir Fiscal & Accounting Services.
| Director, Fire and Aviation Staff.
| Deputy Chief for Operations.
| Deputy Chief Financial Operations.
| Deputy Chief, Business Operations.
| Chief Operating Officer.
Research | Director, Vegetation Management & Protection Research Staff.
| Director, Resource Valuation and Use Research Staff.
| Director, Wildlife, Fish & Watershed Research Staff.
| Director, Science Policy, Planning, and Information Staff.
Natl Forest System | Dir, Range Management Staff.
| Dir, Recreation, Mgmt Staff.
| Dir Timber Management Staff.
| Director, Engineering Staff.
| Director, Lands Staff.
| Dir Land Management Planning Staff.
| Dir, Wildlife & Fisheries Mgmt Staff.
| Dir, Minerals & Geology Staff.
| Director, Watershed & Air Management Staff.
| Dir, Recreation, Heritage, & Wilderness Res.
State & Private Forestry | Dir Cooperative Forestry.
Field Units | Ne Area Dir, State & Private Forestry, U Darb.
| Dir N Eastern Forest Experiment Station.
| Dir, North Central Forest Exp Station.
| Dir, Pacific NW Forest & Range Exp Station.
| Dir, Pacific SW For & Range Exper Stat.
| Director Rocky Mt Forest & Range Exper Stat.
| Dir S Eastern Forest Experiment Station.
| Director, Forest Products Laboratory.
| Dep Regional Forester, Pacific NW Region.
International Forest System | Dir International Institute of Tropical Forest.
American Battle Monuments Commission:
Office of Executive Director | Executive Director.
Department of Commerce:
Commerce Department | Deputy Director for Financial Service/Deputy CFO. Chief Financial Officer and Chief Administrative Officer.
Office of the Chief Financial Officer and Assistant Secretary for Administration | Director for Y2K Outreach. Deputy Director, Office of Budget. Deputy Chief Information Officer. Director for Administrative Services.
Office of the General Counsel | Asst General Counsel for Finance & Litigation. Director, Office of Intelligence Liaison.
Director for Human Resources Management | Director for Human Resources Management. Dep Dir of Human Resources Management.
Director for Financial Management | Dir for Financial Management.
Office of Budget Mgmt & Info & Chief Information Offcr | Director, Office of Budget. Chief Information Officer.
Director for Executive Budgeting & Assistance Mgmt | Dir for Federal Asst & Management Support.
Office of Security and Administrative Services | Director, Office of Security. Director, Office of Acquisition Management.
Office of the Assistant Secretary for Administration | Director for Technology Management. Deputy Assistant Secretary for Security.
Office of Inspector General | Asst Inspect Genrl for Compliance Admin. Asst Inspector General for Syst Evaluation.
Office of Counsel to the Inspector General | Counsel to the Inspector General.
Office of Inspections and Program Evaluation | Assistant Inspector General for Inspections and Program Evaluation.
Office of Audits | Assistant Inspector General for Auditing.
Office of Investigations | Asst Inspector General for Investigations.
Economics and Statistics Administration | Director, STAT-USA.
Bureau of the Census | Assistant Director for Marketing and Customer Liaison. Chief, Human Resource Division.
Office of the Director | Assoc Dir for Field Operations.
| Chief Decennial Sys & Contracts Magnt Office.
| Principal Assoc Dir and Chief Financial Offc.
| Principal Associate Director for Programs.
| Chief, Policy & Strategic Planning Division.
| Assistant to the Director.
Administrative and Customer Services Division | Chief Admin & Customer Services Division.
Associate Director for Information Technology | Assoc Dir for Information Technology.
Data Preparation Division | Chief National Processing Center.
Associate Director for Economic Programs | Associate Director for Economic Programs. Assistant Director for Economic Programs.
Economic Planning and Coordination Division | Chf, Economic Planning & Coordination Div.
Economic Statistical Methods and Programming Division | Chf, Economic Statistical M&P Division.
Agricutlure and Financial Statistics Division | Chief Company Statistics Division.
Services Division | Chief Service Sector Statistics Division.
Foreign Trade Division | Chf, Foreign Trade Div.
Governments Division | Chf, Government Div.
Manufacturing and Construction Division | Chf, Manufacturing & Construction Division.
Associate Director for Decennial Census | Associate Director for Decennial Census. Asst to the Assoc Dir for Decennial Census. Assistant Director for Decennial Census.
Decennial Management Division | Chief Decennial Management Division.
Geography Division | Chf, Geography Div.
Decennial Statistical Studies Division | Chief, Decennial Statistical Studies Div.
Associate Director for Demographic Programs | Associate Dir for Demographic Progs. Chf, Population Div. Chief Demographic Surveys Division.
Housing & Household Economic Statistics Division | Chf, Housing & Household Econ Statistics Div.
Demographic Statistical Methods Division | Chief, Statistical Methods Division.
Associate Director for Methodology & Standards | Chief, Planning, Research, and Evaluation Division. Assoc Dir for Methodology & Standards.
Statistical Research Division | Chief Statistical Research Division.
Bureau of Economic Analysis | Associate of Economic Analysis.
Office of the Director | Director.
| Dep Dir, Bur of Economic Analysis.
| Chief Economist.
| Chf Statistician.
Associate Director for Regional Economics | Assoc Dir for Regional Economics.
Associate Director for International Economics | Assoc Dir for International Economics.
Assoc Director for Natl Income, E&W Accounts | Assoc Dir for Natl Inc, Exp, Wealth Accounts.
| Chf Natl Income & Wealth Div.
| Chief International Investment Division.
| Chief, Computer Systems and Services Division.
Director of Administration | Director of Administration.
Office of the Asst Secretary for Export Enforcement | Deputy Assistant Secretary for Export Enforcement.
| Director Office of Export Enforcement.
Office of the Asst Secretary for Economic Development | Chief Financial Officer/Chief Administrative Officer (CFO/CAO).
Office of the Under Secretary | Chief, Financial Officer & Director of Admin.
Office of Consumer Goods | Director Office of Consumer Goods.
DAS for Market Access and Compliance | Dir Trade Compliance Center.
Market Access and Compliance | Director, Office of Eastern Europe, Russia, and Independent States.
Deputy Assistant Secretary for Agreement Compliance | Associate Director for Management.
National Oceanic and Atmospheric Administration | Chief Financial Officer/Chief Admin Officer.
| Dir Staff Ofc for International Programs.
| Director, Office of Operations, Management and Information.
Office of International Affairs | Chief Financial Officer/Admin Officer.
Office of Finance and Administration | Director, Budget Office.
| Chief Information Officer.
| Dir. for Human Resources Management.
| Dir. Finance Office/Comptroller (FO/COMPT).
Office of High Performance Computing and Communications | Dir for High Performance Computing Commun.
Systems Acquisition Office | Information Technology Acquisition Manager.
National Ocean Service | Chf Fin Ofcr/Chf Adm Ofcr (Dir M&B Ofc).
| Director, National Centers for Coastal Ocean Science and Scientists for NOS.
| Deputy Director, National Centers for Coastal Ocean Science.
| Dir, Office of National Geodetic Survey (NGS).
Strategic Environmental Assessments Division | Chf, Strategic Environmental Assessments Div.
Coastal Monitoring and Bioeffects Assessment Division | Chief Coastal Monitoring Bioeffects Asses Div.
Hazardous Materials Response and Assessment Division | Chf, Hazardous Materials R&A Division.
Office of Assistant Administrator, Weather Services | Dir, Ofc of Aeronautical Charting/Cartography.
Management and Budget Office | Dep Chf Fin Ofc/Chief ADM Officer.
Office—Fed Coordinator—Meteorology | Senior Advisor. Dir, Ofc of the Fed Coord for Meterology.
Office of Meteorology | Dir, Office of Meteorology.
Service Division | Chief, Service Division.
Office of Hydrology | Director, Office of Hydrology.
Hydrologic Operations Division | Chief, Hydrologic Services Division.
Hydrologic Research Laboratory | Chief, Hydrologic Research Laboratory.
Office of Systems Development | Director, Office of Systems Development.
Techniques Development Laboratory | Chief, Techniques Devel Laboratory.
Office of Systems Operations | Dir, Office of Systems Operations.
Systems Integration Division | Chief, Systems Integration Division.
Systems Operations Center | Chief Telecommunications Operations Center.
Engineering Division | Chief, Engineering Division.
WSR-88D Operational Support Facility | Dir, Nexrad Operational Support Facility.
National Data Buoy Center | Director, NOAA Buoy Office.
Eastern Region | Dir Eastern Region NWS.
Southern Region | Dir Southern Region, Ft Worth.
Central Region | Director Central Region.
Western Region | Dir, Salt Lake City Region.
Alaska Region | Dir, Alaska Region, Anchorage.
National Centers for Environmental Prediction | Dir Nat'l Severe Storms Lab.
| Dir Nat'l Severe Storms Lab.
| Dir Nat'l Ctr for Environmental Prediction.
| Director, Environmental Modeling Center (EMC) and Deputy Director for Science.
NCEP Central Operations | Director, Central Operations. Director, Aviation Weather Center (AWC).
Hydrometeorological Prediction Center | Chf, Meteorological Operations Division.
Climate Prediction Center | Dir Climate Prediction Ctr (CPC)
Storm Prediction Center | Director, Storm Prediction Center.
Tropical Prediction Center | Dir Tropical Prediction Ctr/Natl Hurricane Ct.
National Marine Fisheries Service | Dir Seafood Inspection Program.
| Dir Ofc of Inspection Fisheries (SF).
| Dir Ofc of Sustainable Fisheries (SF).
| Director, Office of Habitat Protection.
Office of Fisheries Conservation and Management | Chief Intergovernmental & Recreational F&M.
Office of Protected Resources | Dir Ofc of Science & Technology.
Northeast Fisheries Science Center | Science & Research Dir Northeast Region.
Southeast Fisheries Science Center | Science & Research Dir.
Northeast Fisheries Science Center | Science & Research Dir.
Southwest Fisheries Science Center | Science & Research Dir Southwest Region.
Alaska Fisheries Science Center | Science and Research Director.
Office of Asst Administrator Satellite, Data Info Serv | Sr Sci for Environ Satel, D&I Serv (NESDIS) Director, Information Technology Mgmt Office.
Director NPOESS Integrated Program | Systems Program Director.
National Climatic Data Center | Director, National Climatic Data Center.
National Oceanographic Data Center | Dir, Natl Oceanographic Data Center.
National Geophysical Data Center | Dir, National Geophysical Data Center.
Office of Systems Development | Dir Ofc of Sys Development.
Ofc of Asst Administrator, Ocean & Atmospheric Research | Program Director for Weather Research.
| Director, Weather and Air Quality Research.
| Dep Asst Admr for Extramural Research.
National Sea Grant College Program | Director, National Sea Grant College Program.
Aeronomy Laboratory | Director, Aeronomy Laboratory.
Air Resources Laboratory | Director Air Resources Laboratory.
Atlantic Ocean and Meteorology Laboratory | Dir, Atlantic Oceanographic & Meterological.
Geophysical Fluid Dynamics Laboratory | Director.
Great Lake Environmental Research Laboratory | Dir Great Lakes Environmental Research Lab.
Pacific Marine Environmental Research Laboratory | Dir Pacific Marine Environmental Lab.
Space Environment Center | Dir Space Environment Laboratory.
Environmental Technology Laboratory | Director.
Forecast Systems Laboratory | Director, Forecast Systems Laboratory.
Climate Monitoring and Diagnostics Laboratory | Dir Climate Monitoring & Diagnostics Lab.
Institute for Telecommunication Sciences | Assoc Admr for Telecommunication Science.
ITS, Systems and Networks Division | Deputy Dir for Systems & Networks.
Patent and Trademark Office | Dep Admin for Legislative & International Aff.
Chemical Patent Exam Groups | Group Director—110.
| Group Director—120.
| Group Director—120.
| Group Director—130.
| Group Director—150.
| Deputy Group Director—110.
| Group Director—180.
| Deputy Group Director—150.
Office of Asst Commissioner for Patents | Administrator for Search & Information Res.
Electrical Patent Exam Groups | Dep Asst Comm for Patent Process Services.
| Deputy Group Director—1300.
| Group Director for—260.
| Group Director—210.
| Group Director for—230.
| Group Director—240.
| Group Director—250.
| Deputy Group Director—250.
| Deputy Group Director—260.
| Deputy Group Director—230.
Mechanical Patent Exam Groups | Group Director—310.
| Group Director—320.
| Group Director—330.
| Group Director—340.
| Group Director—350.
Office of Asst Commissioner for Trademarks | Chairman, Trademark Trial & Appeal Board.
| Deputy Asst Commissioner for Trademarks.
| Director, Trademark Examining Operation.
National Institute of Standards and Technology | Deputy Director, NIST Center for Neutron Research.
| Chief, Optical Technology Division.
| Director, Information Technology and Applications Office.
Office of the Director, NIST | Director for Administration and Chief Financial Officer.
| Deputy Director for Management Services.
| Deputy Director for Safety and Facilities.
| Executive Director, Visiting Committee on Advanced Technology Program.
Office of Quality Programs | Director for Quality Programs Dep Dir, Ofc of Quality Programs.
Program Office | Director, Program Office Deputy Director, Information Tech Laboratory.
Office of International and Academic Affairs | Dir International & Academic Affairs Chief Financial Officer.
Office of the Director for Technology Services | Deputy Director, Technology Services.
Manufacturing Extension Partnership Program | Assoc Dir for National Programs.
| Dir, Manufacturing Extension Partnership Prog.
| Dep Dir, Manufacturing Ext Partnership Prog.
Directors Office, Technology Innovation | Dir, Ofc of Technol Evaluation & Assessment.
Directors Ofc, Advanced Technology Program | Dir Information Technology Laboratory.
| Associate Dir for Policy & Operations.
| Dep Director, Advanced Technology Program.
| Director, Advanced Technology Program.
| Dir, Materials & Manufacturing Technology Ofc.
| Dir Electronics & Photonics Tech Office.
Electronics and Electrical Engineering Laboratory Ofc | Dir, Electronics & Electrical Eng Laboratory.
| Chief Optoelectronics Division.
| Deputy Directory.
| Dir, Office of Microelectronics Programs.
Manufacturing Engineering Laboratory Office | Chief, Office of Manufacturing Programs.
| Dep Dir, Manufacturing Engineering Laboratory.
| Dep Dir, Manufacturing Engineering Laboratory.
Precision Engineering Division | Chief, Precision Engineering Division.
Intelligent Systems Division | Chief, Intelligent Systems Division.
Chemical Science and Technology Laboratory Office | Chief, Process Measurements Division.
| Dir, Chemical Sci & Technology Laboratory.
| Dep Dir, Chemical Sci & Technol Laboratory.
Physical and Chemical Properties Division | Chief, Physical & Chemical Properties Div.
Analytical Chemistry Division | Chief, Analytical Chemistry Division.
Physics Laboratory Office | Mgr, Fundamental Constants Data Center.
| Director, Physics Laboratory.
| Deputy Director, Physics Laboratory.
Electron and Optical Physics Division | Chief Electron & Optical Physics Division.
Atomic Physics Division | Chief Quantrum Metrology Division Chief Atomic Physics Division.
Time and Frequency Division | Chief, Time and Frequency Division.
Quantum Physics Division | Senior Scientist & Fellow of JILA.
| Senior Scientist & Fellow of JILA.
| Chief, Quantum Physics Division.
Materials Science and Engineering Laboratory Office | Dir, Materials Sci & Eng Laboratory.
Ceramics Division | Dep Dir, Materials Sci & Eng Lab Chief, Ceramics Division.
Materials Reliability Division | Chief Materials Reliability Div.
Reactor Radiation Division | Chief, Reactor Radiation Division.
| Group Leader Neutron Condensed Matter Science.
| Chief, Reactor Operations.
Building and Fire Research Laboratory | Chief, Fire Safety Engineering Division.
| Dir, building & Fire Research Laboratory.
| Dep Dir, Building & Fire Research Laboratory.
| Chief, Fire Safety Engineering Division.
Building Materials Division | Chf, Building Materials Div.
Building Environment Division | Chief, Building Environment Division.
Fire Science Division | Chief, Fire Science Division.
Computer Systems Laboratory Office | Associate Director for Program Implementation.
Advanced Network Technologies Division | Chief Advanced Network Technologies Div.
Computing and Applied Mathematics Laboratory Office | Associate Director for Computing Chief High Perf Systems & Services Division.
National Technical Information Service | Deputy Director, Natl Technical Info Service.
O/AD for Financial & Administrative Management | Assoc Dir for Finance & Administration Comptroller.
Commodity Futures Trading Commission:
Office of the General Counsel | Deputy General Counsel (Litigation).
| Deputy General Counsel (Opinions & Review)
| Deputy General Counsel (Reg & Adm)
| Deputy General Counsel
Office of the Executive Director | Dep Exec Dir.
| Dir, Ofc in Information Resources Mgmt.
| Director, Office of Financial Management.
Division Economic Analysis | Dep Chf Economist.
| Chief Counsel.
| Associate Director for Surveillance.
Division of Enforcement | Deputy Director (Western Operations).
| Deputy Director (Eastern Operations).
| Associate Director.
| Associate Director.
| Associate Director.
Division of Trading and Markets | Deputy Director (Contract Markets).
| Chief Counsel.
| Counsel for Special Projects.
Consumer Product Safety Commission:
Ofc of Executive Dir | Assistant Executive Director for Compliance.
| Associate Executive Dir for Field Operations.
| Asst Exec Director for Information Services.
Office of Hazard Identification & Reduction | Assoc Exec Dir for Engineering Science.
| Associate Executive Director for Economic.
| Asst Exec Dir for Hazard I&R.
| Deputy Assistant Executive Director for Hazard Identification and Reduction.
| Assoc. Exec. Director for Epidemiology.
Corporation for National and Community Service:
Department of the Chief Financial Officer | Senior Director for Budget & Trust Operations.
Office of the Secretary of Defense:
Office of the Secretary | Asst to the Secry of Def Intelligence Oversig. Deputy Assistant to the Secretary of Defense (Intelligence Oversight).
Office of Under Secretary for Policy | Foreign Relations and Defense Policy Manager. Foreign Relations and Defense Policy Manager.
Office of the ASD (Strategy & Requirements) | Principal Director for Strategy.
| Director for Nuclear Safety and Security NATO Policy.
| Dusd for Technology Security Policy/Director, Technology Security.
Office of Assistant Secretary (SOLIC) | Dep Asst secy of Defense (Forces & Resources).
| Director for Programs, Resources and Assessments.
| Dir Requirements & Technology & Acquisition.
Director Operational Test and Evaluation | Dep Dir for Live Fire Test & Evaluation.
| Associate Director for Test and Evaluation Studies & Analyses.
| Deputy Director for Resources and Ranges.
Ofc of Inspector General | Deputy Inspector General.
| Asst Inspector General for Investigations.
| Dep Asst Inspector Gen for Investigations.
| Dep Asst Inspector General for Inspections.
| Asst Insp Gen for Adm & Info Management.
| Dep Asst Inspector Gen for Adm & Info Mgmt.
| Dir, Audit Planning & Technical Support.
| Director, Logistics and Support.
| Director, Contract Management.
| Director, Financial Management.
| Deputy Asst Inspector General for Auditing.
| Asst Inspector General for Auditing.
| Dir for Investigative Operations.
| Dep Asst Inspector Gen for Program Evaluation.
| Director, Readiness & Operational Support.
| Director, Acquisition Management Directorate.
| Asst Inspector General for Policy & Oversight.
| Director, Audit Followup Directorate.
| Dep Asst Insp Gen for Criminal Invest P&O.
| Dep Asst Inspect General Audit Policy Ovesight.
| Director, Office of Departmental Inquiries.
| Deputy Inspector General for Intelligence.
Ofc of Asst Secy of Defense (Reserve Affairs) | Principal Director (Manpower and Personnel).
Ofc Dep Asst Secy (Civilian Personnel P/E Opportunity) | Principal Director and Director, Workforce Relations and Development.
ODASD (Requirements & Resources) | Director, Program and Budget Coordination.
Department of Defense Education Activity | Chief of Educational Support Policy & Legisl.
| Associate Director for Management.
| Deputy Director Dept of Defense Education.
Office Assistant Sec Health Affairs | Dir Info Management Tech & Reengineering.
| Director Acquisition Management & Support.
| General Counsel.
Office of Asst Secy of Def for Public Affairs | Director, AFIS.
| Dir Armed Forces Radio & Television Service.
| Deputy Director, American Forces Information Service.
Deputy Comptroller (Program Budget) | Dir, Prog & Fin Control. Dep Dir for Program & Financial Control.
Deputy Comptroller (Management Systems) | Deputy Chief Financial Officer.
Washington Headquarters Services | Director of Personnel and Security.
| Dir, Freedom of Information & Security Review.
| Director Real Estate and Facilities.
| Dep Dir, Real Estate & Facilities.
| Dep Dir, Personnel and Security.
Office of the General Counsel | Deputy General Counsel (IG). Dir Def Ofc of Hearings & Appeals.
Ofc of Under Secy of Def for Acq & Technology | Executive Director, Defense Science Board. Dep Dir Arms Control Implementation Compl.
Principal Deputy Under Secretary of Defense (Acquisition & Technology) | Director for Defense Procurement.
| Deputy Dir, Cost Pricing & Finance.
| Dep Dir, Contract Pol & Administration.
| Director, Pacific Armaments Cooperation.
| Dep Dir, Def Syst Procurement Strategies.
| Dir Planning & Analysis.
| Dep Dir, Foreign Contractor.
| Dep Dir Mayor Policy Initiatives.
| Dir OSD Studies & FFRDCA.
| Director Ind Capabilities & Assessments.
| Assistant Deputy Under Secretary of Defense (Acquisition Process & Policies).
| Principal Assistant Deputy Under Secretary of Defense (Acquisition Reform).
| Director, Acquisition Resources and Analysis.
Asst to the Sec of Def for Nuclear & Chemical & Biological Defense Programs | Das of Def (Nuclear Treaty Programs). Deputy Assistant to the Under Secretary of Defense (Nuclear Matters)
Office of the Director of Defense Research & Engineering | Dep Dir Naval Warfare. Dep Dir Munitions.
| Sr Staff Special for Air Superiority Systems.
| Dep Dir Land Warfare.
| Dep Dir Electronic Warfare.
| Special Asst Concepts & Plans.
| Deputy Director Defensive Systems.
| Princ Dep Dir, Strategic & Tactical Systems.
| Deputy Director Air Warfare.
| Asst Dep Dir, Arms Control I&C.
| Dir for Infor Tech.
| Director, Sensor & Electronics Technology.
| Dir Weapons Technology.
| Deputy Director, Developmental Test and Evaluation.
| Assistant Deputy Under Secretary of Def (FDP).
| Director for Life Sciences.
| Director for Science and Technology Plans and Programs.
| Assistant Deputy Under Secretary of Defense (Dominant Maneuver).
Ofc of Asst Secy (Command, Control, Commun & Intel) | Director, Program Analysis & Integration.
| Director, Counterintelligence.
| Director, International Affairs.
Director, Strategic & Theater Nuclear Forces | Director, IT Acquisition and Investment.
Deputy Assistant Secretary of Defense (Intelligence) | Director, Intelligence Policy and Collection.
Deputy Assistant Secretary of Defense (Defense-Wide C3) | Deputy Director, Communications and C2 Battle Management.
Director for Special Technology | Director, Technology and Evaluation.
Defense Advanced Research Project Agency (DARPA) | Dir, Contracts Management Office.
| Special Asst, Information Technology.
| Dep Dir for Warfare Info Technology.
| Deputy Director Darpa.
| Prog Manager (Joint Applications Study Group).
| Director, Tactical Technology Office.
| Deputy Director for Management.
| Program Manager (Acquisition Innovation).
| Director, Microsystems Technology Office.
Office of the Joint Chiefs of Staff | Dep Dir for Wargaming, Simulation & Analysis.
Ballistic Missile Defense Organization | Deputy for Program Operations.
| Director, Contracts Directorate.
| Deputy for Technology.
| Asst Dep for Theater Air & Missile Defense.
| Deputy for System Integration.
| Chief Architect/Engineer.
| Deputy Chief Architect/Engineer.
| Asst Deputy for Technical Operations.
| Deputy for System Development.
| Executive Director.
| Deputy Program Manager, National Missile Defense Joint Program Office.
Defense Contract Audit Agency | Deputy Director, DCAA.
| Assistant Director, Operations.
| Asst Dir, Policy & Plans.
| Director, Field Detachment.
| Director, DCAA.
| Deputy Regional Director, Western Region.
Regional Managers | Regional Director, Eastern.
| Regional Director, Northeastern.
| Regional Director, Central.
| Regional Director, Western.
| Regional Director, Mid-Atlantic.
| Dep Regional Director Eastern Region.
| Deputy Regional Director Northeastern Region.
| Deputy Regional Dir Central Region.
| Dep Reg Dir Mid Atlantic Region.
Defense Logistics Agency | Special Asst for Integrity in Contracting.
| Chief Actuary.
| Dir, Defense Manpower Data Center.
| Dep Gen Counsel (Acquisition & Contract Mgmt).
| Dep Commander, Def Construction Supply Ctr.
| Director CPMS.
| Deputy Commander Defense Distribution Center.
| Exe Dir, Resource, Planning & Performance Dir.
| Chief Information Officer.
| Dir, Civilian Personnel Mgmt Service.
| Director, Defense Property Accountability System (DPAS) Program Management Office.
| Director Defense Energy Support Center.
| Executive Director Human Resources.
| Executive Director, International Logics.
| Executive Director Logistics Management.
| Director, Defense Automated Printing Service.
| Executive Director, Business Operations.
| Deputy Chief Information Officer.
Office of Deputy Director, Acquisition | Executive Director, Contract Mgmt Operations. Dep Commander, Def Contract Mgmt Command.
Ofc of Staff Dir—Small & Disadvantaged Business Until | Staff Dir, Small & Disadv Busin Utilization.
Office of General Counsel | General Counsel, DLA. Deputy General Counsel (Administration).
Office of the Comptroller | Comptroller.
Office of Deputy Director, Material Management | Executive Director Procurement.
| Deputy Commander, Defense General Supply Ctr.
| Executive Dir, Info System & Technology Dir.
| Deputy Commander (DLSC).
Defense Personnel Support Center | Deputy Commander, DPSC.
Defense Training & Performance Data Center | Deputy Dir Defense Manpower Data Center.
Defense Contract Management | Executive Director, Program Integration.
Defense Information Systems Agency | Dep Director for Strategic Plans & Policy.
| Special Assistant for Liaison Activities.
| Chief, Technology & Standards Division.
| Professor of Information Science.
| Special Asst/Infrstructure & Info Assurance.
| Dir, Joint Electronic Commerce Prog Office.
| Chief Engineer, Information Systems Security.
| Technical Adv, C4I Sys, Program & Info Assurance.
| Chief, Networks Division.
| Advisor for Cross Program Integration.
| Chief Spectrum Anal & Mangnt Division.
| Commander, DISA Westhem.
| Deputy Chief Engineering Executive for Electronic Commerce.
| Chief, Policy, Plans, and Appropriated Programs Division.
| Chief, Defense Computing Business Office.
| Chief, Defense Information Systems Network Business Office.
| Principal Information for 2000 Operations.
| Deputy Chief Engineering Executive for Information Processing.
| Associate Deputy Director for Acquisition Strategy.
| Assistant for Program Oversight.
| Defense Message Systems Implementation/Integration Manager.
| Chief Engineering Executive for Information Transport.
Office of the Director | Deputy Manager National Commun Systems. Inspector General.
Directorate for Strategic Plans and Policy | Chief, Information Officer. Tech Adviso, Strategic Plans, Program & Policy.
DISA (Field Activity) | Dep Comm Ctr for Computer Systems Engineering.
Directorate for C4 & Intelligence Programs | Tech Dir Joint Intero & Eng Comm (JIEO).
| Tech Dir Adv Info Tech Services Joint Prog.
| Dep Dir for C4I Programs.
| Dep Dir for C4I Modeling, Simulation & Assess.
| Chief Current Network Operations.
Directorate for Operations | Asst Deputy Dir for Operations.
| Technical Director, Space Information Syst Office.
Directorate DISA, for Logistics, F & S Projects | Dep Dir for Procurement & Logistics. Chief Management Support Operations DISA West.
Directorate for Personnel and Manpower | Dep Dir for Personnel & Manpower.
Directorate for Engineering & Interoperability | Assoc for Technical & Management Support.
Directorate for C4 Modeling, Simulation and Assessment | Assoc Deputy Director for C41 Modeling, S&A.
Directorate for Enterprise Integration | Deputy Director for Joint RA&I.
Comptroller Directorate | Comtroller.
Defense Threat Reduction Agency | Staff for Spec Tech Program.
| Chief, Weapons Lethality Division.
| Dir, Acquisition Management.
| Deputy Director, Operations Directorate.
| Director for Electronics and Systems.
| Director for Weapons Effects.
| Chief, Simulation and Test Division.
| Director for Programs.
| Prog Dir, Hard Target Defeat Program Office.
| Program Director, Special Programs Office.
| Dir for Counterproliferation Programs.
| Comptroller.
| Deputy Director, On Site Inspection Plans and Resources.
Defense Security Assistance Agency | Chief Information Officer.
Defense Finance & Accounting Service | Deputy Director, Cleveland Center. Deputy Director Defense Finance and Accounting Service.
Defense Security Service | Dir, Defense Investigative Service.
| Special Asst to the Director.
| Deputy Director for Policy.
| Dir DOD Polygraph Institute.
| Chief Operating Officer.
| Comptroller.
Defense Commissary Agency | Executive Director for Operations.
Department of Air Force:
Office of the Secretary | Association Director, Legislative Liaison.
Office of Administrative Assistant to the Secretary | Administrative Assistant. Dep Admin Assistant.
Office of Small & Disadvantaged Business Utilization | Dir, Ofc of Small, & Disadv Bus Utilization.
Office of the Inspector General | Dep Asst Inspector Gen/Spec Investigations.
Office of ASAF for Financial Management & Comptroller | Principal Dep Asst Secry (Financial Mgmt).
ODAS Budget | Director of Budget Investment.
| Director of Budget Management & Execution
| Deputy for Budget.
ODAS Cost & Economics | Dep Asst Secy (Cost of Economics).
Office of ASAF for Acquisition | Principal DAS (Acquisition & Mgmt).
Centralized Rep Support Team Office | DIR, Centralized Rep Support Team.
ODAS Science, Technology & Engineering | DAS (Science, Technology & Engineering).
ODAS Management Policy & Program Integration | Dep Asst Secy (Mgmt Pol & Prog Integration).
ODAS Contracting | Assoc Dep Asst Sect (Contracting).
Air Force Program Executive Office | Program Exec Officer, Info Systems.
| Prog Exec Ofcr, Conventional Strike.
| Prog Executive Officer Logistics Systems.
| Program Executive Officer Space.
OFC Of ASAF for Manpower, Reserve Affairs, Install & Env. | Dep for Air Force Review Boards.
Air Force Base Conversion Agency | Dir Air Force Base Conversion Agency.
Office of the Chief of Staff | Air Force Historian.
Test and Evaluation | Deputy Dir Test & Evaluation.
Deputy Chief of Staff, Communications & Information | Director of CIO Support, AFCIC.
Deputy Chief of Staff, Installations & Logistics | Deputy Director of Supply.
Civil Engineer | Deputy Civil Engineer.
Services | Director of Services.
Maintenance | Associate Director of Maintenance.
Logistics Support & Integration | Director of Plans & Integration. Deputy Dir or Global Combat Support System.
Supply | Chief Modification & O&M Programs Division. Chief, Combat Support Division.
Filed Operating Agencies | Dir AF Center for Environmental Excellence.
Deputy Chief of Staff, Plans, Programs | Asst Deputy Chief of Staff Plans & Programs.
Manpower, Organization & Quality | Deputy Director, Manpower and Organization.
Programs | Associate Director or Programs & Evaluation.
Stategic Planning | Dep Dir of Strategic Planning.
Deputy Chief of Staff, Personnel | Asst Deputy Chief of Staff Personnel.
| Dir of Personnel Force Development.
| Dep Dir Personnel Management.
| Director, Palace Compass Program Management Office.
Deputy Chief or Staff, Air and Space Operations. | Dep Dir of Operational Requirements.
| Assoc Dir Modeling Simulation & Analysis.
| Director Nuclear Weapons and Counter Proliferation Agency.
| Associate Director for Ranges and Airspace.
| Associate Director for Civil Aviation.
Air Force Material Command | Executive Director.
Personnel | Director, Personnel.
Contracting | Deputy Director Contracting.
Logistics | Deputy Director, Logistics.
| Deputy Director for Depot Maintenance.
| Deputy Director for Supply Management.
Enginerring & Technical Management | Director, Engineering & Technical Mgmt.
Financial Management & Comptroller | Dep Director, Financial Mgmt & Comptroller.
Communications & Information | Director, Communications & Information.
Plans & Programs | Deputy Director, Plans & Programs.
Space and Missile Systems Center | Executive Director. Director Contracting.
Electronic Systems Center | Director, Plans & Advanced Programs.
| Executive Director.
| Prog Dir Strategic & Nuclear Deterrence C2.
| Director, Material Systems Group.
| Program Director, Defense Information Infrastructure Air Force.
| Director, Information Programs Office.
| Director, Contracting.
Standard Systems Center | Director, Standard Systems Center.
Aeronautical Systems Center | Executive Director.
| Director System Management.
| Program Director, Mobility Spo.
| Dir Financial Management & Comptroller.
Development Planning | Dir Advanced Systems Analysis.
Engineering Directors | Dir Systems Engineering.
Directors of Engineering | Dir of Engineering F-22.
| Director of Engineering, C-22
| Director of Engineering Propulsion.
| Director of Engineering Joint Strike Fighter.
Systems Program Officers | Prog Dir Joint Air-to-Surface Standoff Miss. Program Dir Air to Joint SPO.
Human Systems Center | Executive Director.
Air Force Research Laboratory | Executive Director, AFRL.
| Director, Plans & Programs.
| Assoc Dir for Investment Strategy.
| Director, AFRL Washington Office.
| Dir High Perf Computing Modernization.
Air Vehicles Directorate | Assoc Dir for Air Platforms.
Space Vehicles Directorate | Director, Space Vehicles. Assoc Dir for Space Vehicles.
Information Directorate | Dir Information.
Air Armaments Center | Director, Plans and Programs.
Directed Energy Directorate | Director Directed Energy.
Materials and Manufacturing Directorate | Director, Materials & Manufacturing. Assoc Dir for Manufacturing Tech & Afford.
Sensors Directorate | Director Sensors. Associate Director for Sensors.
Propulsion Directorate | Director, Propulsion.
Human Effectiveness Directorate | Director, Human Effectives.
Arnold Engineering Development Center | Executive Director.
Air Force Development Test Center | Executive Director.
Air Force Flight Test Center | Executive Director.
Air Logistics Center, San Antonio | Director, Financial Management.
| Executive Director.
| Product Group Manager, Propulsion Systems.
| Dir, Privatization & Realignment.
Air Logistics Center, Oklahoma City | Director, Financial Management.
| Director, Commodities Management.
| Executive Director.
| Director, Contracting.
Air Logistics Center, Warner Robins | Director, Financial Management.
| Director, Technology & Industrial Support.
| Executive Director.
| Director, Contracting.
Air Logistics Center, Ogden | Director, Financial Management.
| Executive Director.
| Director Commodities.
| Director, Contracting.
Air Logistics Center, Sacramento | Director, Financial Management.
| Executive Director.
| Director, Contracting.
Air Force Audit Agency | Asst Aud Gen (Materiel & Systems Audits).
| Auditor General of the Air Force.
| Asst Aud Gen (Field Activities).
| Asst Aud Gen (Operations).
| Asst Aud Gen (Financial & Support Audits).
Air Combat Command | Senior Technical Director ASC2 Agency.
Air Education & Training Command | Provost, Air University.
Air Mobility Command | Principal Dep Dir of Operations for Transport.
Air Force Reserve Command | Air Commander 4th Air Force.
| Air Commander 10th Air Force.
| Air Commander 22nd Air Force.
| Assistant Vice Commander.
| Director, Plans.
| Director of Operations.
AF Space Command | SR Scientist & Tech Advisor for AFSPACECOM.
AF Operational Test & Eval Ctr | Technical Director.
U.S. Central Command | Scientific Advisor.
U.S. Strategic Command | Assoc Dir for Strategic Planning. Dep Dir Comd Ctrl Comm Computer & Intel Sys.
Department of Army:
Office Deputy Under Secretary of Army (OPS Research) | Spec Asst for Air & Missile Defense.
| Asst Dep Under Secy of the Army for Oper Res.
| Special Assistant for Electronic Systems.
| Dir, Test and Evaluation Management Agency.
Office Deputy Under Secretary of the Army (Intl Affairs). | Dir of International Dev & Security Asst.
Office Administrative Asst to the Sec of Army | Adm Asst to the Secy of the Army.
| Dep Admin Asst to the Secy of the Army.
| Dir Single Agency Mgr for Pentagon Info Tech.
| Chief, Technical Officer & Director Engineering & Product Development.
Office of the General Counsel | Deputy General Counsel (Ethics & Fiscal).
Ofc Asst Secretary Army (Civil Works) | Deputy ASA (Management & Budget). DAS of the Army (Policy & Legislation).
Ofc Asst Sec Army (Financial Management & Comptroller | Assistant Deputy ASA for Army Budget.
| Deputy for Cost Analysis.
| Dir of Investment.
| DAS of the Army (Financial Operations).
| Spec Adv for Economic Pol & Productivity Prog.
| Director for Business Resources.
Ofc Asst Sec Army (Manpower & Reserve Affairs) | Director for Civilian Personnel Mgmt & Ops.
| Deputy Asst Secy of the Army (ARBA).
| Deputy Assistant Secretary of the Army (Civilian Personnel Policy).
Ofc Asst Sec Army (Acquisition, Logistics and Technology) | DAS for Res & Tech/Chief Scientist.
| Deputy Asst Secy of the Army (Procurement).
| Dep Asst Secy for Plans & Programs.
| Director for Research.
| Director for Technology.
| Director for Assessment & Evaluation.
| Director, Procurement Policy and Acquisition Reform.
HQDA Army Acquisition Executive | Dep Prog Mgr for Chem Demilitarization Oper.
| Deputy PEO, Armored Systems Modernization.
| Dep Prog Exec Ofcr, Command & Control Systems.
| Deputy Prog Executive Officer Comm Systems.
| Program Executive Officer Stamis.
| Dep Program Executive Officer for Aviation.
| Dep Peo, Intelligence & Electronic Warfare.
| Deputy Prog Executive Ofcr, Missile Defense.
| Program Manager, National Missile Defense.
| Dep Prog Executive Ofcr Tactical Missiles.
| Prog Manager for Chemical Demi Operations.
| Dep Prog Executive Officer for Fire Supp Sys.
Ofc of Dir of Info Sys for Comm, Contl, Comms/Computers | Dir of Army Information Vice Director to the Disc4.
Army Audit Agency | The Auditor General.
| Deputy Auditor General.
| Director, Logistical & Financial Audits.
| Dir, Acquisitions & Force Mgmt.
| Director, Policy and Operations Management.
Operations Test & Evaluation Command (OCSA FOA) | Tech Dir, Test & Exper Command Dir Evaluation Analysis Center.
Army Center or Military History (OCSA FOA) | Chief Historian.
Office, Assistant Chief of Staff for Installation Mgmt | Dep Asst Chief of Staff for Installation Mgmt.
Office, Deputy Chief of Staff for Logistics | Asst Dir for Transportation.
| Director for Resources and Management.
| Executive Director, Strategic Logistics Agcy.
| Chief Aviation Logistics Office.
| Associate Dir for Supply & Maintenance.
Office Dep Chf of Staff for Operations & Plans | Tech Adv to the DCSOPS Director, Army Model & Simulation Office.
Office, Dep Chief of Staff for Personnel | Director of Manprint.
Army Research Institute (DCSPER FOA) | Dir, Manp & Pers Res Lab & Assoc Dir, Ari Dir, US Army Res Inst & Chief Psychologist.
U.S. Total Army Personnel Command (DCSPER FOA) | Director, Army Declassification Activity.
National Guard Bureau | Program Executive Officer for Information Systems & Chief Information Officer.
Walter Reed Army Institute of Research | Chief Dept of Pharmacology.
USA Space and Missile Defense Command | Prin Assistant Resp for Contracting
| Dir, Advanced Technology Directorate.
| Director, Weapons Directorate.
| Dir, Miss Def Battle Integration Ctr.
Training and Doctrine Command (TRADOC) | Asst Deputy Chief of Staff for Resources Mgmt.
| ADCOS for Training Policy Plans and Programs.
| Deputy to the Commanding Gen, CASCOM.
| Asst Dep Chief of Staff for Base Ops Support.
| Asst Dep Chief of Staff for Combat Develop.
| Dep Chief of Staff for Base Operations Supp.
TRADOC Analysis Center | Director of Operations.
| Director of Operations.
| Director.
U.S. Army Nuclear and Chemical Agency | Dir, U.S. Army Nuclear & Chemical Agency.
Military Traffic Mgmt Command | Special Asst for Transportation Engineering Deputy to the Commander.
U.S. Army Forces Command | Deputy Director Resource Management
| Asst DCS for Pers & Inst Mgnt.
| Assistant Deputy Chief of Staff for Logistics and Readiness.
US Army Signal Command | Technical Director/Chief Engineer.
U.S. Army Corps of Engineers | Dir of Real Estate.
| Director of Human Resources.
| Director Resource Management.
| Director, U.S. Army Center for Public Works.
| Principal Asst Responsible for Contracting.
| Dep to the Commander for Prog & Tech Mgnt.
| Deputy Chief of Staff for Corporate Information.
Directorate of Research & Development | Deputy Chief of Staff for Research & Development.
| Asst Dir for Research & Dev (Civil Works Prog).
| Asst Dir Research & Dev (Military Prog).
Directorate of Civil Works | Chief, Programs Management Division.
| Chief, Planning Division.
| Principal Assistant for Civil Works.
| Chief Engineering Division.
| Chf, Ops, Construction & Readiness Division.
| Chief Policy Review & Analysis Division.
Directorate of Military Programs | Chief Construction Division.
| Deputy Director, Military Programs.
| Chief, Engineering Division.
| Chief, Programs Management Division.
| Chief, Environmental Restoration Division.
Directors of Programs Management | Dir Programs Management, MVD.
| Dir Programs Management, NAD.
| Director of Programs Management.
| Director Programs Management.
| Dir Programs Management, POD.
| Dir of Programs Management, SAD.
| Dir Programs Management, SPD.
| Dir Programs Management, SWD.
Directors of Engineering & Technical Services | Director of Engineering & Technical Services.
| Dir Engineering & Technical Services, NWD.
| Dir Engineering & Technical Services, NAD.
| Dir Engineering & Technical Services, LRD.
| Dir Engineering & Technical Services, NWD.
| Dir Engineering & Technical Services, LRD.
| Dir Engineering & Technical Services, POD.
| Dir Engineering & Technical Services, SAD.
| Dir Engineering & Technical Services, SPD.
| Dir of Engineering & Technical Services, SWD.
Engineer Waterways Experiment Station, COE | Director, Geotechnical Laboratory.
| Director Hydraulics Laboratory.
| Director Environmental Lab.
| Director, Structures Laboratory.
| Director Coastal Engineering Research Center.
Engineer Waterways Experiment Station, COE | Dir Waterways Experiment Station.
Engineer Topographic Laboratories, C of Engineers | Director.
Construction Engineering Res Lab Champaign, IL | Director.
Cold Regions Research & Engineering Lab Hanover, NH | Director.
U.S. Army Material Command | Deputy Chief of Staff for Corporate Information/CIO.
Office of Dcs for Logistic & Operations | Asst Dep Chief of Staff for Logs & Operations.
Office Deputy Commanding General | Principal Deputy for Logistics.
| Principal Deputy for Acquisition.
| Principal Deputy for Technology.
Office of Dcs for Research, Dev and Acquisition | ADCS for RDA Science Technology & Engineering ADCS for RDA—Business OPS/Director AMC Tocr Program.
Office of Deputy Chief of Staff for Ammunition | Asst Deputy Chief of Staff for Ammunition.
Office of Dcs for Acquisition | Asst Dep Chief of Staff for Res DAAC & P Mgmt.
Office of Deputy Chief of Staff for Personnel | Dep Chief of Staff for Personnel.
Office of the Deputy Chief of Staff for Res Management | ADCS for Resource Mgmt/Exec Dir for Busin Deputy Chief of Staff for Resource Management.
USA Security Assistance Command | Deputy.
US Army Industrial Operations Command | Deputy to the Commander.
U.S. Army Soldier & Biological Command (SBCCOM) | Deputy to the Commander Director for Operations, Remediation and Restoration.
US Army (SBCCOM)—Edgewood Biological Chemical Center | Director, Engineering Directorate. Dir, Res & Technology Directorate. Technical Director.
Natick Soldier Center | Director, Natick Rd & E Center.
US Army Communications Elect Comd (CECOM) | Director CECOM Acquisition Center.
| Assoc Dir, CECOM Acq Center—Washington Operations Office.
| Deputy to the Commander.
CECOM Research, Development & Engineering Center | Dir—Night Vision/Electro Sensors Directorate.
| Dir, Space & Terrestrial Comm Directorate.
| Dir, I&E Warfare Directorate.
| Dir, Software Engineering Directorate.
| Director/Army Systems Engineer.
| Dire for C4I Log & Readiness Center.
| Assoc Tech Dir Research Devel & Engineering Ctr.
| Director, Command, Ctrl & Syst Integration Dir.
U.S. Army Research Laboratory | Director.
| Dir, Research & Technology Integration.
| Director US Army Research Laboratory.
| Associate Director for Plans, Programs and Budget.
| Dep Dir Info Sci/Tech/Dir of Atmospherics Res.
| Director, Engineering Sciences Directorate.
| Director, Physical Science Directorate.
| Deputy Director.
Survivability/Lethality Analysis Directorate | Director, Survivability/Lethality Analysis Directorate.
Information Science and Technology Directorate | Dir, Information Sci & Technology Directorate.
Sensors and Electron Devices Directorate | Deputy Director and Director Electron Devices Research Director.
Corporate Information and Computing Center | Dir Corporate Information & Computing Ctr.
Weapons and Material Research Directorate | Deputy Director and Directorate Materials Research Director.
Human Research and Engineering Directorate (ARL) | Director, Human R&E Directorate.
U.S. Army Aviation and Missile Command (AMCOM) | Executive Director, Acquisition Center.
| Executive Dir, Integrated Materiel Mgmt Ctr.
| Deputy Executive Director for Tmde.
| Deputy to the Commander.
| Deputy to the Commander.
| Executive Director Acquisition Center.
| Executive Dir Integrated Material Magnt Ctr.
Missile Res Development & Engineering Center (RDEC) | Director for Propulsion.
| Dir for Systems Simulation & Development.
| Tech Dir for M&D Res, Dev. & Eng Center.
| Dir for System Engineering & Production.
| Associate Director for Systems, Missiles
| Director for Weapons Sciences.
| Dir for Missile Guidance.
Aviation Research, Development and Engineering Center | Techn Dir (Aviation) & Ed-US Army Ard & Ec.
| Director of Aviation Engineering.
| Dir of Aeroflight Dynamics.
| Dir of Advanced Syst/Assoc Dir for Technol.
| Assoc Dir for Tech Appl/Dir of Spec Prog.
Tank—Automotive and Armaments Comd (TACOM) | Director of Acquisition Center.
| Director, Integrated Materiel Mgmt Center.
| Dir US Army Armament & Chemical A&L Act.
| Deputy to the Commander.
Tank—Automotive Res, D&E Center (TARDEC) | Vice President for Research.
| President/Director.
| Vice President for Customer Engineering.
| Vice President for Product Development.
US Army Armament Research, D&E Center (ARDEC) | Technical Director for Armament.
| Asst Technical Director (System Development & Engineering).
| A/Tech/Dir (Systems Concepts & Technology).
Warleads, Energetics & Combat Support Armaments Center | Dir, WE & Combat Support Armaments Center.
Fire Support Armaments Centers | Senior Technical Executive for Fire Support.
Close Combat Armaments Center | Senior Technical Executive for Close Combat.
US Army Simulation, Training & Instrumentation Command | Deputy to the Commander.
US Army Test and Evaluation Command, (TECOM) | Tech Dir & Chf Sci.
| Director, Technical Mission
| Dir, Joint Prog OFC for Test & Evaluation
US Army Materiel Systems Analysis Activity | Director.
| Chief, Combat Integration Division.
Headquarters, US Army, Europe | Asst Dep Chf of Staff, Personnel (CIV Pers).
| Asst Dep Chief of Staff Eng for Eng & Housing.
| Asst Dep Chf of Staff for Eng (Intl Affairs).
| Deputy Chief of Staff for Resource Management.
U.S. Army Military District of Washington | Director of Cemetery Operations.
U.S. Southern Command | Spec Asst for Technology & Requirements Integ.
Department of Navy:
Office of the Secretary | Chief Information Officer.
Office of the Under Secretary of the Navy | Senior Advisor for Small Business Support Assistant for Administration.
Office of the Auditor General | Auditor General of the Navy.
Naval Audit Service | Eastern U.S. Audit Services Facilitator.
| Director, Plans and Policy.
| Dir, Naval Audit Service Western Region.
| Dir, Naval Audit Service Capital Region.
| Dir Program & Financial Audits Directorate.
Naval Criminal Investigative Service | Dir Naval Criminal Invest Service.
| Asst Dir of Counterintelligence.
| Special Agent in Charge Norfolk Field Ofc.
| Special Agent in Charge.
| Deputy Director, NCIS.
Ofc of the Asst Secy of Navy (Manpwr & Res Affs) | Dir, Human Resources Operations Center.
| Assist Gen Coun (Manpower & Reserve Affairs).
| Director, Plans, Programs & Diversity.
| Dep A/S of the Navy (Civilian Persnl P/EEO).
OAS of Navy (Installations & Environment) | Asst General Counsel (Install & Environment).
OAS of the Navy (Research, Dev & Acquisition) | Director, Navy Acquisition R&S Improvement.
| Director, Procurement Policy.
| Head, Contract Policy.
| Asst Gen Coun (Res. Dev & Acquisition).
| Dir, Intl Agreements, TTSARB & Special Proj.
| Director, Acquision Career Management.
| Dasn Plann & Programming & Resource.
| Dep Dir Navy International Programs Office.
Program Executive Officers | Chief Systems Engineer, Theater Air Defense.
| Deputy Program Executive Officer for DD-21.
| Deputy PEO for Aircraft Carriers.
| Director, Plans & Programs Division.
| Chf Engr.
| Asst for Fire Control & Guidance Systems.
| Branch Head, Reentry Systems Branch.
| DEP P/E Officer for Unmanned Aerial Vehicles.
| Dep Prog Exec Officer for Theater Air Defense.
| Technical Plans Officer.
| Head, Res Branch & De Dir, Plans & Progs Div.
| Assistant for Missile Engineering Systems.
| DEP P/E Officer for Cruise Missiles Program.
| Prog Manager for Comm Satellite programs.
| Dep Prog Officer Submarines.
| Program Executive Officer, Undersea Warfare.
| Asst for Systems Integration & Compatibility.
| Dep Prog Exec Ofcr for ASW, A/S Mission Prog.
| Dep Prog Exec Ofcr for Tactical Air Programs.
| Deputy PEO, Mine Warfare.
| Prog Exec Officer for Space Comms & Sensors.
| Aegis Deputy Program Manager.
| Prog Exec Officer ASW Assault & Spec Miss Pro.
| Chief Engineer, PEO, SCS.
| Deputy Program Mgr., Future Carrier Program Office.
Ofc of the Asst Secy of Navy (Fin Mgmt Comptroller) | Assoc Dir, Budget & Reports/Fiscal Manag Div.
| Asst General Counsel (Financial Management).
| Dir, Investment & Dev Div.
| Dir, Financial Mgmt Pol & Systems Division.
| Dir, Budget Evaluation Group.
| Dir Resource Allocation & Analysis Division.
| Director, Financial Management Division.
| Director, Business and Civilian Resources Division.
Naval Center for Cost Analysis | Dir Naval Center for Cost Analysis.
Office of the Naval Inspector General | Deputy Naval Inspector General.
Office of the General Counsel | Special Counsel for Litigation.
Chief of Naval Operations | Asst Dep Chf of Naval Operations (Logistics).
| Dep Dir of Naval Training.
| Asst Dep Chief Naval Oper Res Warfare.
| Asst Dep Chf of Naval Oper Manpower/Personnel.
| Head, Readiness & Sustainability Branch.
| Associate Director, Assessment Division.
| Tech Dir, Submarine & SSBN Security Program.
| Technical Director.
| Deputy Director for Programming.
| Head Assessement & Affordability Branch.
| Assoc Dir, Expeditionary Warfare Division.
| Dir Naval History/Dir, Naval Historical Ctr.
| Head Deep Submergence Systems Branch.
| Dep Dir Envir Protection Safety Occp Heal Div.
| Director Strategic Sealift Division.
Bureau of Naval Personnel | ACNP for MPN Financial Management.
Bureau of Medicine & Surgery | Dep Commander for Fin Mgmt & Comptroller.
Military Sealift Command | Counsel. Comptroller. Asst Dep Comdr for Business Operations.
Naval Meteorology & Oceanography Comm, Stennis SC, MS
Ofc of Commander in Chf/Allied Forces/Southern Eur | Dir Joint Train Analysis & Simulation Ctr.
| Dep Dir Fleet Maintenance.
| Director, Joint Battle Lab.
| Director, Command, Control Communications and Computers Systems
| Deputy Director, Shore Activities Readiness.
Ofc of the Commander-in-Chief, U.S. Pacific Command | Chief Information Officer.
Cincpacflt | Deputy Director Fleet Maintenance.
| Deputy Director Shore Installation Management.
| Executive Director, Planning & Resources.
| Fleet Human Resources Mgr and Policy Director.
Ofc of the Chief of Naval Education and Training | Conptroller.
Naval Recruiting Command | Deputy Commander.
Naval Air Systems Command Headquarters | Acquisition Reform, Strategy and Metrics Executive.
| Executive Dir, Corporate Operations.
| Deputy Commander for Acquisition & Operations.
| Executive Director for Logistics.
| Executive Director for Contracts.
| Deputy Comptroller.
| Counsel, Naval Air Systems Command.
| Assoc Director Weapons Sys Eng Division.
| Deputy Head, Avionics Dept.
| Deputy Head Air Vehicle Dep.
| Dep Head Logistics Management.
| Head, Tactical A&M Contracts Department.
| Head Aircraft Support Dept.
| Head Cost Department.
| Deputy Acquisition Executive.
| Executive Director for Engineering.
| Dir Industrial Operations.
| Head Concepts Analysis Evaluation Plan Dept.
| Head Propulsion & Power Systems Dept.
| Dep Head Aircraft Sys Engineering Department.
| Head Logistics Support Department.
| Deputy Commander, Naval Air Sys Command.
| Head, Cruise Missiles, Uav & Navair Programs, Contracts Department.
| Dir Budget Formulation Justification Exe Div.
| Deputy Counsel, Navair.
| Executive Dir for Industrial Capabilities.
| Dir Naval Aviation Science & Tech Office.
| Asst Commander for Corporate Operations.
| Joint Eng Data Mgmt I&C Syst Prog Manager.
| Head Air Asw Assault & Special Mission Prog.
| Special Asst for Navy test & Evaluation.
Naval Air Warfare Center Aircraft Division Lakehurst | Director, Engineering & Research HD Supp Equip Aircraft Launch & Recovery Dept.
Naval Air Warfare Center Aircraft Division | Exec Dir, T&E Group Nawc-Aircraft Div
| Head, Avionics Department.
| Dir of Atlantic Ranges & Facilities Dept.
Naval Air Warfare Center Weapons Div, China Lake, CA | Head, Res and Technology Division.
| Head, Pacific Ranges & Facilities Depart.
| Head, Avionics Dept.
| Head Test Evaluation Engineering Department.
| Head, Syst Engineering Department.
| Director for Test & Evaluation.
| Head Weapons Engineering Dept
| Dir for Eng, Nawc-Weapons Division.
| Director of Corporate Operations.
| Head, Threat/Target Syst Depart.
Naval Training Systems Center | Executive Director Dir of Acq, Analysis, Engineering & Research.
Space & Naval Warfare Systems Command | Exec Dir, Contracts.
| Deputy Comptroller.
| Counsel Space & and Naval Warfare Systems Com.
| Chief Engineer Command Sys Prog Directorate.
| Executive Dir, Space Tech Systems Prog Dir.
| Exec Dir, Undersea Surveillance Prog Dir.
| Exe Dir, Intelligence S&R System Prog Dir.
| Dir of Tech Head Engineering Tech Group.
| Prog Dir Command C&C System Program Dir.
| Prog Dir, I&E Warfare Syst Program Dir.
| Deputy Commander.
| Deputy Chief Engineer.
| Dir Strategic Corporate Plann & Devel Office.
| Exec Dep Dir Info Supp Sys Progr Directorate.
Space and Naval Warfare Systems Center | Head Intelligence S&R Department.
| Executive Director.
| Head Navigation & Applied Sciences Dept.
| Head, Command and Control Department.
| Dep Exec Dir Sci Tech Engineering.
| Head Communication & Information Sys Dept.
| Dep Executive Dir for Corporate Operations.
Space and Naval Warfare Systems Center, Charleston | Executive Director.
Naval Facilities Engineering Command | Director Navy Crane Center.
| Counsel Naval Facilities Engineering Command.
| Deputy Comptroller.
| Director for Contracts Support.
| Chief Engineer.
| Dir of Real Estate Support.
| Dir of Base Closure.
| Director of Environment.
Naval Sea Systems Command | Executive Director.
| Counsel Naval Sea Systems Command.
| Executive Director for Contracts.
| Executive Director/Deputy Comptroller.
| Director, Reactor Materials Divisions.
| Director, Secondary Plant Components Division.
| Head, Advanced Reactor Branch.
| Director, Hydrodynamics Group.
| Dep Dir Surface Ship Design & Sys Eng Group.
| Dir Cost Engineering & Industrial Analysis.
| Dir, Shipbuilding Contracts Division.
| Assistant Deputy Cdr for Industrial Ops.
| Executive Director, Surface Ship Directorate.
| Exec Dir Submarine Directorate.
| Dep Commander for Warfare Systems.
| Director, Corporate Operations.
| Chief Information Officer.
| Executive Director for Logistics, M&I OPS.
| Dep Prog Mgr/Techn Dir, New Attack Submarines.
| Dep Prog Mgr for S&A Submarine Program.
| Dep Prog Manager, Aircraft Carrier Prog Ofc.
| Director, Auxillary and Crew Systems Group.
| Dir Reactor Plant Components Auxil Equip Div.
| Dep Dir/Advanced Submarine Reactor S&SF Mgmt.
| Dir Surface Ship Systems Division.
| Dir, Reactor Plant Safety & Analysis Division.
| Dir, Ship S&S Integrity Group.
| Dir Power Systems Group.
| Director, Materials Engineering Office.
| Exec Dir, Ship Design & Engrng Directorate.
| Program Manager for Commissioned Submarines.
| Dir, Surface Systems Contracts Division.
| Dep Cdr Ssd/Dep Peo for Clw & Auxiliary Ships.
| Director, Office of Resources Management.
| Dir, Reactor Refueling Division.
| Deputy Counsel, Naval Sea Systems Command.
| Dir Environmental Protection Office.
| Deputy Dir Environmental Health & Safety.
| Program Manager, Commercial Ship/Craft Program Office.
| Asst Deputy Commander, Fleet Maintenance Policy and Process Division.
| Asst Deputy Cdr Fleet Logistics Support.
| Director, Fleet Readiness Division.
| Deputy Program Mgr., Stnd., Missile Program Mgmt. Office.
Norfolk Naval Shipyard | Naval Shipyard Nuclear Engineering & Plan Mgr. Nuclear Eng & Planning Manager Budget Naval Ship.
Naval Surface Warfare Center | Technical Director.
Naval Undersea Warfare Center | Technical Director.
Naval Surface Warfare Center, Crane Division. | Executive Director.
Naval Undersea Warfare Center Div, Keyport, WA | Executive Director.
Naval Surface Warfare Center, Pt. Hueneme Division | Executive Director.
Naval Surface Warfare Center, Indian Head Division | Director.
Coastal Systems Station | Executive Director.
| Head, Coastal Sci, Technology & Analysis Dept.
| Head, Coastal Warfare Systems Department.
Naval Surface Warfare Center, Carderock Division | Director.
| Assoc Dir for Hydromechanics/Head, Hd.
| Assoc Dir for Syst/P&H Ship S/P Directorate.
| Assoc Dir for Ship A/E S/H S/Directorate.
| Assoc Dir for SS & M/HSS & M Directorate.
| Associate Director for Machinery.
Naval Surface Warfare Center, Dahlgren Division | Head, Weapons Systems Department.
| Head, Combat Systems Department.
| Exec Director.
| Deputy Executive Director.
| Head Strategic & Strike Systems Dept.
| Head, Systems Res & Technology Department.
| Head Joint Warfare Applications Dept.
| Dir, Combat Systems Design & Eng Group.
| Head Warfare Analysis & Systems Dept.
Naval Undersea Warfare Center Division, Newport, RI | Head, Submarine Sonar Department.
| Executive Director.
| Head Test and Evaluation Dept.
| Director for Submarine Combat Systems.
| Director, Submarine Warfare Systems.
| Director, Surface Undersea Warfare.
| Hd, Submarine Electromagnetic Sys Dept.
| Head Combat Control Systems Department.
| Head Torpedo Systems Technology Dept.
Naval Supply Systems Command Hdqtrs | Asst Dep Commander for Fin Mgmt/Comptroller.
| Counsel.
| Executive Director Office of Special Projects.
| Assistant Commander for Fleet Logistics Ops.
| Executive Director.
Naval Inventory Control Point | Vice Commander.
Navy Fleet Material Support Office | Executive Director.
U.S. Marine Corps Headquarters Office | Dep Dir Facilities & Services Division.
| Dir Contracts Division.
| Counsel for the Commandant.
| Director of Administration and Resources.
| Deputy Counsel for the Commandant.
| Director Dep Chf for Prog & Resourc Fiscal Div.
| Asst Dep Chf of Staff for Installations & Log.
| Assistant to the Deputy Commandant of the Marine Corps for M & RA.
| Asst Dep. Chf of Staff for Requirements & Prog.
Marine Corps Systems Command | Director, C41.
| Executive Director.
| Deputy for Financial Management.
Marine Corps Logistics Base, Albany GA Office of Naval Research | Deputy Commander for Logistics Operations.
| Dir, Ship Structures & Systems S&T Div.
| Dir, Mechanics & Energy Conversion S&T Div.
| Director, Marine Corps Science & Technology.
| Executive Director/Technical Director.
| Head Special Programs Department.
| Executive Dir for Acquisition Management.
| Dir Financial Management Comptroller.
| Patent Counsel.
| Counsel, Office of Naval Research.
| Head Engineering.
| Dir Strike Technology Division.
| Dir Math Computer & Information Science Div.
| Dir OAS S&T Processes & Prediction Division.
| Dir OAS at Sensing & Systems Division.
| Head Industrial Programs Department.
| Dir Congitive & Neural Science & Tech Div.
| Head, Human Systems S&T Department.
| Dir, Bimolecular & Biosyst Sci & Techn Div.
| Head Info Electronics & Surveil Sci Tech Dept.
| Dir of Surveillance Communications Electronic.
| Director, Electronics Division.
| Head Ocean Atmosphere Space Sci Tech Dept.
| Associate Technical Director.
| Director, Naval Fleet/Force Tech Innovation Office.
| Dir Materials Sci and Technology Division.
| Assoc for Intergration OAS St Sensing Sys Div.
Naval Research Laboratory | Chf Sci, Lab for Structure of Matter.
| Dir of Research.
| Assoc Dir of Res For Matl Sci & Comp Technol.
| Superintendent, Chemistry Division.
| Superintendent, Optical Sciences Div.
| Superintendent Space Science Div.
| Supt, Radar Div.
| Supt, Materials Sci and Tech Division.
| Supt, Acoustics Div.
| Superintendent, Plasma Physics Div.
| Superintendent Electronics Technology Div.
| Superintendent, Info Technol Div.
| Supt, Tactical Electronic Warfare Div.
| Chief Scientist Lab for Compt Phy Fluid Dynam.
| Superintendent, Remote Sensing Division.
| Assoc Dir of Res for Business Operations.
| Chief Sci & Head, Beam Physics Program.
| Superintendent, Marine Meteorology Division.
| Mgr, Joint Space Systems Technology Programs.
| Assoc Dir Res for Ocean & Atmospheric Sci Tec.
| Superintendent Ctr Bio/Molecular Science Eng.
| Head Elect Warfare Strategic Planning Org.
| Assoc Dir of Res for Warfare Sys & Senors Res.
| Superintendent, Space Syst Development Dep.
| Superintendent, Oceanography Division.
| Superintendent, Spacecraft Engineering Dep.
| Dir, Naval Center for Space Technology.
| Superintendent, Marine Geosciences Division.
Defense Nuclear Facilities Safety Board:
Defense Nuclear Facilities Safety Board | Dep Gen Counsel for Pol & Litigation
| Deputy General Manager.
| Tech Adv for Hazards Anal & Health Physics.
| Technical Advisor for Technical Studies.
| Technical Lead for Engineering Programs.
| Technical Lead for Nuclear Weapons Programs.
| Technical Lead for Materials Processing & Environmental Restoration Programs.
| Technical Lead for Materials Processing & Environmental Restoration.
Department of Education:
Ofc of the Chief Financial Officer | Director, Grants and Contracts Service.
| Deputy Chief Financial Officer.
| Director, Fin Rep & Systems Operations.
| Dir Financial Management Operations.
Office of the Chief Information Officer | Deputy Chief Information Officer. Chief Information Officer.
Office of Management | Dir Admin Resource Management Service.
| Chairperson, Education Appeal Board.
| Dir Human Resources Group.
Office of Inspector General | Assistant Inspector General for Audits.
| Dep Asst Gen for Audit Operations.
| Dep Asst Inspector Gen for Techn Audit Svc.
| Associate Inspector General.
| Counsel to the Inspector General.
| Deputy Inspector General.
| Asst Inspector General for Operations.
| Asst Inspec General for Operations East Area.
| Asst Inspec Gen for Investigation Services.
| Asst Inspector General for Audit Services.
| Deputy Assistant IG for Audit Services.
Office of the General Counsel | Asst Gen Coun For Busin & Adm Law.
| Asst General Counsel for Educational Equity.
| Asst Gen Counsel for Regulations.
| Asst Gen Coun for Div of Legislative Counsel.
| Asst Gen Coun for Postsecondary Ed & Ed Res.
Office of Educational Research and Improvement | Special Assistant to Assistant Secretary.
National Center for Education Statistics | Assoc Commr/Surveys & Cooperative Syst Group.
| Associate Commr for Data Collection and Dissemination.
| Assoc Comr for Stat Std & Methodology Div.
| Assoc Commissioner Educ Assessment Division.
Student Financial Assistance | Chief Financial Officer.
Department of Energy:
Office of Counterintelligence | Deputy Director.
Offfice of Security and Emergency Operations | Dir Ofc of Classification & Technology. Director, Office of Security Affairs.
Office of Safeguards & Security Evaluations | Director. Deputy Director.
Office of Chief Financial Officer | Dir Ofc of Budget.
| Dep Dir Ofc of Budget.
| Director, Budget Analysis Division.
| Director Capital Accounting Center.
| Director, Budget Operations Division.
| Dir Ofc of Dep Accounting & Fin Sys Dev.
| Dir Ofc of Financial Policy.
| Dir Ofc Compliance and Audit Liaison.
| Deputy Controller.
| Controller.
Asst Secy for Defense Programs | Assoc Dep Asst Secy for Military Application.
| Nuclear Weapons Complex Project Manager.
| Assoc Das for Human & Administrative Res.
| Assoc Das for Program A&F Management.
Office of Economic Impact & Diversity | Dir of Sm and Disadv Bus Utilz.
Asst Secy for Energy Efficiency & Renewable Energy | Assoc Dep Asst Secretary for Utility Tech. Manager, Golden Field Office.
Asst Secy for Environment, Safety & Health | Dir Nuclear Operations & Analysis.
| Dir Office of Environmental Compliance.
| Deputy Director Ofc of ES&H Evaluations.
| Dir Office of Enforcement & Investments.
| Dir Ofc of Nuclear Safety Policy & Standards.
| Dir Occupational Safety & Health Policy.
Energy Information Administration | Dir, Ofc of Oil and Gas.
| Dir Ofc of Coal Nucl Elec & Altern Fuels.
| Director, Ofc of Energy Markets & End Use.
| Director Economics & Statistic Division.
| Director, Statistical and Methods Group.
| Director Quality Assurance Division.
| Director, Natural Gas Division.
| Director, Petroleum Division.
| Dir, Ofc of Integration Nal & Forecasting.
| Director, Coal 7 Electrical Power Division.
| Director, Electrical Power Division.
| Director, International Economic & Greenhouse Gases Division.
| Dir Survey Mgmt Div.
| Director, Information Technology Group.
Asst Secy for Environmental Management | Director, Office of Research & Development.
| Assoc DAS for Oversight & Self-Assessment.
| Director, Office of Acquisition Management.
| Director, Office of Budget.
Office of Science | Dir Chem Sci Div.
| Dir Adv Egy Proj Div.
| Chf Processes and Tech Br.
| Dir High En Physics Div.
| Director, Human Health & Assessment Div.
| Deputy Dir for Management.
| Dir, Health Effects & Life Sci Research Div.
| Deputy Dir for Nuclear Safety Safeguard.
| Dir, Office of Assessment & Support.
| Assoc Dir Ofc of Computational & Tech Research.
| Director, Financial Management Division.
Office of Field Management | Dir, Ofc of Resource Management & Services.
Albuquerque Operations Office | Director, Weapons Surety Division.
| Dir Transportation Safeguards Div.
| Dir, Production Assurance & Ops Division.
| Dir, Weapons Programs Div.
| Dir of Emergency Plans & Operations.
| Asst Manager for Management & Administration.
| Carlsbad Area Office Manager.
| Chief Financial Officer.
| Director, Ops Management Division.
Chicago Operations Office | Acquisition & Asst Group Manager.
| Fermi Group Manager
| Asst Mgr for Laboratory Management.
| Chief Financial Officer.
Idaho Operations Office | Assistant Manager for Administration.
| Chief Financial Officer.
| Asst Mgr Ofc of Program Execution.
| Asst Manager for Applied E&T Transfer.
Nevada Operations Office | Chief Counsel.
| Assistant Manager for Administration.
| Asst Manager for Business & Financial Service.
Ohio Field Office | Manager Ohio Filed Ofc.
| Deputy Manager, Ohio Field Office.
| Director, Fernald Environmental Management Projects.
Oakland Operations Office | Field Chf Fin Officer and Business Manager Assoc Manager for Site Management.
Oak Ridge Operations Office | Asst Manager for Administration Chief Financial Officer.
Rocky Flats Office | Manager, Rocky Flats Field Office.
| Deputy Manager, Rocky Flats Field Office.
| Dep Asst Mgr for Matl Stabilization & Disp.
Richland Operations Office | Asst Mgr Business Mgmt & Chief Fin Ofcr Source Evaluation Board Advisor.
Savannah River Operations | Asst Manager for Business & Logistics.
Office of Hearings & Appeals | Dep Dir for Legal Analysis.
| Dep Dir for Financial Analysis.
| Dep Dir for Econ Analysis.
Office of Management and Administration | Dir HQ Personnel Operations Div.
| Director, Office of Administration.
| Associate Dir, Office of Resource Mgmt.
| Dep Dir of Administrative Services (Wash, DC).
| Dep Dir of Personnel.
| Director, Office of Procurement and Assistance Policy.
| Dir Ofc of Mgnt Sys (Competition Advocate).
| Director Ofc Contract & Resource Management.
| Executive Assistant to the Director.
| Dir, Headquarters & Executive Personnel Serv.
| Chief Information Officer/Director of Information Management.
Office of Inspector General | Asst Inspector General for Investigations.
| Manager, Western Regional Audit Office.
| Director, Audit Policy, Plans & Programs.
| Manager, Eastern Regional Audit Office.
| Dir Capitol Regional Audit Office.
| Deputy Asst Inspector Gen for Investigations.
| Spec Asst for Policy and Planning.
| Counsel to the Inspector General.
| Dir, Office of Contractor Employee Protection.
| Asst Inspector General for Resource Mgmt.
| Principal Deputy Inspector General.
| Assistant Inspector General for Audits.
| Deputy Inspector General for Inspections.
| Deputy Inspector General for Audits.
| Director for Financial Audits.
Office of Fissile Materials Disposition | Deputy Director.
Office of Nuclear Energy, Science & Technology | Dir Advanced Submarine Systems Division.
| Dir Instrumentation & Control Div.
| Asst Program Manager for Surface Ships.
| Deputy Director for Naval Reactors.
| Senior Naval Reactors Rep (Pearl Harbor).
| Director Nuclear Technology Div.
| Dir Reactor Engineering Division.
| Head, Core Manufacturing Branch.
| Dep Director Reactor Materials Division.
| Director, Fiscal Division.
| Asst Manager for Operations.
| Program Manager for Shipyard Matters.
| Dir Nuclear Components Division.
| Senior Naval Reactors Representative.
| Manger, Idaho Branch Office.
| Program Manager Submarine Technology Develop.
| Assoc Dir, Isotope Production & Distribution.
| Prog Mgr for Analysis & Regulatory Matters.
| Director Acquisition Division.
| Director for Submarine Refuelings.
| Senior Naval Reactors Representative.
| Dep Program Mgr for Commissioned Subs.
| Prog Mgr Prototype & Mooored Training Ship.
| Dir Regulatory Affairs.
Office of Nonproliferation and National Security | Special Asst to the Ast Secretary.
| Dir Ofc of Security Affairs.
| Dep Dir, Ofc of Security Affairs.
Western Area Power Administration | Asst Admr for Mgmt Svcs.
| Chief Administrative Officer.
| Chief Financial Officer.
Environmental Protection Agency:
Office of the Chief Financial Officer | Deputy Chief Financial Officer.
Office of the Comptroller | Deputy Comptroller.
| Dir Ofc of the Comptroller.
| Deputy Comptroller
| Director, Annual Planning & Budget Division.
| Director, Financial Services Division.
Office of Planning, Analysis & Accountability | Director, Office of Planning Analy & Account.
Ofc of the Asst Admr for Admin & Resources Management | Director, Ofc of Pol & Resource Mgmt Principal Dep Asst Admr for Amd & Res Mgmt.
Office of Administration | Dir Ofc of Administration.
| Deputy Dir Ofc of Administration.
| Dir, Facilities & Support Services Division.
| Dir, Sfty, Health & Environmental Mgmt Div.
Office of Information Resources Management | Dir, Ofc of Information Resources Management Dep Dir Ofc of Information Resources Mgmt.
Ofc of Administration & Resources Mgmt—Cincinnati OH | Dir Ofc of Admin and Resources Management.
Office of Administration & Resources Mgmt—Rtp, NC | Director Office of Administration & Res Mgmt.
Ofc of Human Resources and Organizational Services | Dir Office of Human Resources & Org Services.
| Dep Dir Ofc of Human Resources & Org Services.
| Assoc Director for Reengineering & Automation.
| Dir Exec Resources & Special Programs Staff.
| Director, Org & Management Consulting Serv.
| Dir Strategic Planning & Policy Systems.
Office of Acquisition Management | Dir, Superfund/Rcra Regl Procurement Ops/Div.
| Director, Office of Acquisition Management.
| Dep Dir, Office of Acquisition Management.
Office of Grants and Debarment | Dir, Grants Admin Div.
| Director, Office of Grants & Debarment.
| Dep Dir Ofc of Grants and Debarment.
Office of the Asst Admr for Enf & Comp Assurance | Director, Ofc of Environmental Justice.
Office of Federal Activities | Dir, International Enforcement Program Div.
Office of Regulatory Enforcement | Director, Office of Regulatory Enforcement.
| Dep Dir, Office of Regulatory Enforcement.
| Dir Air Enforcement Division.
Office of Criminal Enforcement, Forensics & Training | Dir Natl Enforcement Training Institute.
| Dir Ofc of Criminal Enforce Forensics Train.
| Director, Criminal Investigations Division.
| Deputy Director, Office of Criminal Enforcement, Forensics Training.
Office of Compliance | Director, Office of Compliance.
| Dir, Enforcement Planning, T&D Division.
| Dir, Manufacturing E&T Division.
| Deputy Director, Office of Compliance.
| Dir Import Export Program.
Office of Site Remediation Enforcement | Director, Ofc of Site Remediation Enforcement Dep Dir, Ofc of Site Remediation Enforcement.
Federal Facilities Enforcement Office | Dir Federal Facilities Enforcement Office.
Office of the Inspector General | Deputy Inspector General Asst. Inspector General for Planning, Analysis & Results.
Office of Investigations | Assist Inspector Gen for Investigations Dep Asst Inspector General for Investigations.
Office of Audit | Asst Inspector General for Audits.
| Prin Dep Asst Inspector Gen for A&F Audits.
| Dep Asst Inspector General for External Audits.
| Dep Asst Inspector General for Internal Audit.
Office of Management | Assistant Inspector General for Management.
Office of Wastewater | Director, Municipal Support Division Deputy Director, Municipal Support Division.
Office of Science and Technology | Dir, Standards & Applied Science Division Dir, Health & Ecological Criteria Division.
Office of Wetlands, Oceans and Watersheds | Dir, Assessment & Watershed Protection Div.
| Dir, Oceans & Coastal Protection Division.
| Director, Wetlands Division.
| Director, Engineering & Analysis Division.
Office of Ground Water & Drinking Water | Dir, E&P Implementation Division.
| Director, Standards & Risk Mgmt Division.
| Dir Implementation & Assistance.
Ofc of the Asst Admr for Solid Waste and Emgy Resp | Director, Outreach and Special Projects Staff Director, Federal Facilities Restoration and Reuse Office.
Office of Solid Waste | Dir Hazardous Waste Identification Division.
| Dir Permits & State Prog Division.
| Director, Hazardous Waste Minimization & Management Division.
Office of Air Quality Planning and Standards | Dir, Emission Standards Division.
| Dir Air Quality Strategies & Standards Div.
| Dir Emissions Monitoring & Analysis Division.
| Deputy Dir Ofc of Air Quality Planning & Stds.
Office of Mobile Sources | Dir Advanced Technology Support Division Dir Fuels & Energy Division.
Office of Radiation & Indoor Air | Director, Indoor Environments Division.
Office of Atmospheric Programs | Director, Acid Rain Division Director, Atmospheric Pollution Prevention Division.
Office of the Asst Admr for Prevention P&T Substances | Dir Ofc of Program Management Operations.
Office of Pesticide Programs | Dir-Registration Division.
| Dir, Biological & Economic Analysis Division.
| Dir, Spec Review & Reregistration Division.
| Dir, Envir Fate and Effects Division.
| Dir Policy & Special Projects Staff.
| Dir Antimicrobials Division.
| Dir Field & External Affairs Division.
| Dir Inf Resources & Services Division.
| Director, Biopesticides and Pollution Prevention Division.
Office of Pollution Prevention and Toxics | Director, Environmental Assistance Division.
| Dir, Economic Exposure and Technology Div.
| Director, Chemical Control Division.
| Director, Information Management Division.
| Dir, Pollution Prevention Div.
| Dir Chemical Management Division.
| Dir Health Effects Division.
| Director, of Risk Assessment Division.
Office of Resources Management and Administration | Dir Ofc of Resources Mgnt & Admin.
Office of Science Policy | Director, Office of Science Policy.
National Health & Environmental Effects Res Lab (RTP) | Dir Natl Health & Envir Effects Res Lab (RPT).
| Assoc Dir for Health NHEERL (RTP).
| Association Director for Ecology NHEERL (RTP).
| Deputy Director for Management.
Western Ecology Division—Corvallis | Dir Western Ecology Division Corvallis.
Gulf Ecology Division—Gulf Breeze | Director, Gulf Ecology Division.
Mid-Continent Ecology Division | Director, Mid-Continent Ecology Division.
National Exposure Research Laboratory (RTP) | Dir Natl Exposure Res Laboratory (RTP).
| Dep Dir for Management NERL (RTP).
| Assoc Dir for Ecology NERL (RTP).
Environmental Sciences Division—Las Vegas | Dir Environmental Sciences Division.
Ecosystems Research Division—Athens | Dir Ecosystems Res Div Athens.
National Risk Mgmt Research Laboratory (Cincinnati) | Dir Natl Risk Mgmt Lab (CINN).
| Dep Dir for Mgmt NRML (CINN).
| Assoc Dir for Health NRML (CINN).
| Director, Water Supply & Water Resources Division.
Air Pollution Prevention and Control Division—RTP | Dir Air Pollution Prevention & Control Div.
Subsurface Processes and Systems Division—ADA | Dir Sub-Surface Process & Systems Division.
National Center for Environmental Assessment | Dir Natl Ctr for Environmental Assessment.
| Associate Director for Health, NCEA.
| Associate Director for Ecology NCEA.
| Deputy Director for Management.
National Center for Environmental Assessment—Washington | Dir Natl Ctr Environ Assessment.
National Center for Environmental Assessment—RTP | Dir Natl Ctr Environ Assessment.
National Center for Environmental Assessment—Cincinnati | Dir Natl Ctr for Environmental Assessment.
Natl Center for Environmental Res & Quality Assurance | Deputy Dir for Mgmt (NCERQA).
| Dir Environmental Engineer Research Division.
| Associate Director for Science (NCERQA).
| Dir Natl Ctr for Env Res & Quality Assurance.
Region I—Boston | Regional Counsel.
| Dir Ofc of Ecosystem Protection.
| Dir Ofc of Site Remediation Restoration.
| Asst Regional Administrator.
| Dir, Ofc of Administration & Resources Mgmt.
| Special Assistant to Regional Administrator.
| Director, Office of Environmental Stewardship.
Region II—New York | Asst Regl Admr for Policy and Management.
| Regional Counsel.
| Dir, Office of Emergency & Remedial Response.
| Dir Div of Environmental Plnng & Protection.
| Dir, Div of Enforcement & Compliance Asst.
| Dir, Div of Environmental Science & Assessment.
| Director, Caribbean Environmental Protection Division.
Region III—Philadelphia | Director, Water Management Division.
| Regional Counsel.
| Director, Hazardous Waste Mgmt Div.
| Asst Reg Admin for Policy & Management.
| Dir, Air Management Division.
| Dir Chesapeake Bay Program Office.
| Director, Science & Ecosystem Support Div.
| Director, Air Protection Division.
| Director, Hazardous Site Cleanup Division.
Region IV—Atlanta | Dir Water Management Division.
| Asst Regional Admin for Policy and Mgmt.
| Regional Counsel.
| Director Waste Management Division.
| Director, Air, Pesticides and Toxics Management Division.
Region V—Chicago | Director Air Management Division.
| Director Water Management Division.
| Director, Resources Management
| Regional Counsel.
| Dir Waste Pesticides & Toxics Division.
| Dir Great Lakes Natl Prog Ofc.
| Director Superfund Division.
Region VI—Dallas | Asst Regional Admr for Management.
| Regional Counsel.
| Director, Compliance A&E Division.
| Dir Superfund Division.
| Dir Water Quality Protection Division.
| Dir Multimedia Plann & Permitting.
Region VII—Kansas City | Regional Counsel.
| Asst Regional Admin for Policy & Management.
| Dir Superfund Division.
| Dir Air RCRA and Toxics Division.
| Dir Water Wetlands & Pesticides Division.
Region VIII—Denver | Dir Ecosystems Protection & Remediation.
| Dir Ofc of Pollution Prevention State Tribal.
| Dir Ofc of Tech & Mgmt Services.
| Regional Counsel.
Region IX—San Francisco | Director, Water Management Division.
| Director, Air Management Division.
| Regional Counsel.
| Asst Regional Admr for Policy & Management.
| Dir, Strategic Planning & Emerging Issues.
| Dir Superfund Division.
| Director, Cross Media Division.
| Director, Water Management Division.
Region X—Seattle | Regional Counsel.
| Asst Reg Admr for Environmental Cleanup Ofc.
| Asst Regl Admr for Policy & Management.
| Dir Superfund Division.
| Director, Water Management Division.
| Director, Office of Ecosystems and Communities.
| Director, Office of Environmental Cleanup.
Equal Employment Opportunity Commission:
Office of the Chairman | Inspector General.
Office of Field Programs. | District Director (Baltimore).
| Dist Dir (New York).
| Dist Dir (Atlanta).
| Dist Dir (Houston).
| District Director (Detroit).
| Dist Dir (San Francisco).
| Dist Dir (Dallas).
| Dist Dir (Chicago).
| Dist Dir (St Louis).
| Dist Dir (Miami).
| Dist Dir (Indianapolis).
| Dist Dir (Memphis).
| District Director (Los Angeles).
| Dist Dir (Denver).
| Dist Dir (Birmingham).
| Dist Dir (New Orleans).
| Dist Dir (Phoenix).
| District Dir (San Antonio).
| Dist Dir (Charlotte).
| District Director (Seattle).
| District Director (Cleveland).
| Dist Dir (Philadelphia).
| District Director (Milwaukee).
| Program Manager.
Field Management Programs | Director Field Management Programs.
Field Coordination Programs | Director Field Coordination Programs.
Federal Communications Commission:
Office of Inspector General | Inspector General.
Office of the Managing Director | Assoc Managing Director/Human Resources Mgmt.
Office of Engineering & Technology | Assistant Bureau Chief for Technology.
Compliance and Information Bureau | Chief Enforcement Division.
Common Carrier Bureau | Chief, Competitive Pricing Division. Chief Accounting & Audits Division.
Mass Media Bureau | Chief Audio Services Division.
| Chief Video Services Division.
| Chf, Enforcement Div.
Federal Emergency Management Agency:
Office of the Director. | Chief of Staff.
Office of Financial Management | Chief Financial Officer.
| Deputy Chief Financial Officer.
| Senior Procurement Executive.
Office of Human Resources Management | Director, Ofc of Human Resources Management.
Office of Inspector General | Deputy Inspector General.
| Asst Inspector General for Auditing.
| Asst Inspector General for Investigations.
Mitigation Directorate | Sr Policy Advisor to the Associate Director. Director, Program Support Division.
Response & Recovery Directorate | Div Dir, Human Services Support Division. Div Dir, Infrastructure Support Division.
Federal Insurance Administration | Deputy Administrator.
Federal Energy Regulatory Commission (DOE):
Ofc of Chief Accountant | Director, Division of Accounting Systems.
| Director, Division of Gas and Oil Operations.
| Dir, Div of Planning & Policy Development.
| Chief Accountant and Deputy Director.
Ofc of Hydropower Licensing | Dir Div of Dam Safety & Inspections.
Federal Labor Relations Authority:
Office of the Chair | Solicitor, Chief Counsel.
Office of Member | Chief Counsel.
Office of Member | Chief Counsel.
Federal Service Impasses Panel | Exec Director FSIP.
Ofc of the Executive Director | Executive Director.
Ofc of the General Counsel | Deputy General Counsel, Director of Operations & Resources Management.
Regional Offices | Regional Director, Washington, D.C.
| Regional Director, Boston.
| Regional Director, Atlanta.
| Regional Director, Dallas.
| Regional Director, Chicago Illinois.
| Regional Director, San Francisco.
| Regional Director, Denver.
Federal Maritime Commission:
Office of the Secretary | Secretary.
Office of the General Counsel | Dep Gen Cnsl for Reports Opinions & Decisions.
Office of the Managing Director | Dep Managing Dir, Deputy Managing Director.
Bureau of Tariffs, Certification and Licensing | Prog Mgr (Dir Bur of Tariffs C&L).
Bureau of Administration | Dir, Bureau of Administration.
Bureau of Economics & Agreement Analysis | Prog Manager (Dir Bur of E&A Analysis).
Bureau of Enforcement. | Deputy Director Bureau of Enforcement. Dir Bureau of Enforcement.
Federal Retirement Thrift Investment Board:
Federal Retirement Thrift Investment Board | Director of Investments.
| Director of Contracts & Administration.
| Director of Automated Systems.
| Director of Accounting.
| Director of Communications.
| Associate General Counsel.
| Director of the Office of Benefits & Investments.
Federal Trade Commission:
Office of the Inspector General | Inspector General.
Ofc of Executive Director | Deputy Exec Dir for Management.
| Chief Information Officer.
| Deputy Executive Director.
General Services Administration:
Office of Management and Workplace Programs | Director of Human Resources. Dir of Management Services.
Office of the Chief People Officer | Chief Information Officer.
Office of Governmentwide Policy | Deputy Associate Admin for Acquisition Policy.
| Director, Governmentwide Information Systems.
| Deputy Assoc Administrator for Real Property.
| Director of Intergovernmental Solutions.
Office of Inspector General | Asst Inspector Gen for Auditing.
| Deputy Inspector General.
| Deputy Asst Inspector General for Auditing.
| Counsel to the Inspector General.
| Asst Inspector Gen for Investigations.
| Dep Asst Inspector General for Investigations.
Office of the Chief Financial Officer | Director of Finance.
| Director of Budget.
| Chief Financial Officer.
| Dir of Financial Management Systems.
Public Buildings Service | Assistant Commr for Fed Protective Service.
| Dep Asst Commissioner for Property Management.
| Asst Comm for Portfolio Management.
| Dep Asst Comr for Special Projects.
| Asst Comr for Property Acq & Realty Services.
| Asst Commr for Business Development.
| Assistant Commr for Property Disposal.
| Assistant Commissioner for Property Devel.
| Asst Commissioner for Strategic Innovations.
| Asst Commissioner for Financial & Info System.
| Assistant Commissioner for Business Performance.
Federal Technology Service | Assistant Commissioner for Serv Development.
| Assistant Reg Admin for Fed Tech Service.
| Assistant Commissioner for Service Delivery.
| Asst Commr for Info Technology Integration.
| Assistant Commissioner for Regional Services.
| Asst Commissioner for SP & Business Dev.
| Asst Commissioner for Acquisition.
| Senior Executive Blue Pages Project.
| Assistant Commissioner for Information Security.
| Assistant Commissioner for Sales.
Office of the Chief Information Officer | Assistant Chief Information Officer. Assistant Chief Information Officer.
Federal Supply Service | Asst Commissioner for Acquisition.
| Asst Comr for Transportation & Property Mgt.
| Asst Comm for Bus Management & Marketing.
| Asst Comm for Distribution Mgt.
| Dep Asst Commissioner for Acquisition.
| Asst Chief Information Officer.
| Asst Comm for Vehicle Acquisition & Leasing Svc.
New England Region | Asst Reg Admr for Public Bldg Service.
Northeast & Caribbean Region | Asst Reg Admr for Public Blds Service. Asst Reg Admr for Federal Supply Service.
Mid-Atlantic Region | Asst Reg Admr for Public Blds Service. Asst Regl Admr Federal Supply Service.
National Capital Region | Assistant Regional Administration, PBS, Ncr.
Southeast Sunbelt Region | Asst Reg Admr for Public Blds Service. Asst Reg Admr for Federal Supply & Services.
Great Lakes Region | Asst Reg Admr for Public Blds Service.
The Heartland Region | Asst Reg Admr for Public Blds Service.
Greater Southwest Region | Asst Reg Admr for Public Blds Service.
| Asst Regional Admin for Federal Tech Service.
| Asst Reg Admr for Federal Supply Service.
Rocky Mountain Region | Asst Reg Admr for Public Blds Service.
Pacific Rim Region | Asst Regl Admr for Public Buildings Services.
| Asst Reg Admr for Federal Supply Service.
| Senior Advisor.
Northwest/Arctic Region | Asst Regional Administrator, PBS Region 10.
Department of Health and Human Services:
Odas for Budget | Dir Div of Integrity & Organ Review.
Odas for Finance | Dep Asst Sec, Finance. Dir, Office of Financial Policy.
Odas for Grants & Acquisition Management | Dep Asst Secy, Ogam.
OAS for Planning and Evaluation | Dept to Deputy Asst Secry for Plann & Evaluat.
OAS for Public Health and Science | Dir Div of Research Investigations.
| Dir Ofc of HIV/AIDS Policy.
| Dep Dir Ofc of Management.
| Reg Health Administrator.
| Director, Office of Research Integrity.
Associate General Counsel Divisions | Assoc Gen Coun, Business & Adm Law Division. Dep Assoc Gen Counl, Bus & Adm Law Div.
Office of the Inspector General | Principal Dep Inspector General.
| Deputy Inspector General for Mgmt & Policy.
| DEO Inspector General for Legal Affairs.
Odig for Investigations | Dep Insp Gen for Investigations.
| Asst Insp General for Criminal Investigations.
| Asst Insp Gen for Civil & Adm Remedies.
| Asst Insp Gen for Investigation P&O.
| Dep Insp General for Enforcement & Compliance.
Odig for Audit Services | Dep Inspector General for Audit Services.
| Asst Insp Gen for Adm of C/F & Agin Audits.
| Asst Inspector Gen for Health Care Fin Audits.
| Asst Inspector Gen for Audit Pol & Oversight.
| Asst Insp Gen for Public Health Serv Audits.
Odig for Evaluation & Inspections | Dep Insp Gen for Evaluation & Inspections.
Program Support Center | Dir Program Support Center. Dep Dir of Operations.
Office of Financial Management Service | Director, Financial Management Service.
Office of Program Support | Dir Ofc of Financial Management.
Health Care Financing Administration | Director, Ofc of Internal Customer Suupport.
Office of the Actuary (OACT) | Dir, Ofc of the Actuary (Chief Actuary).
Center for Beneficiary Services (CBS) | Deputy Director, Center for Beneficiary Services (Medicare Contractor Mgmt).
Center for Medicaid and State Operations (CMSO) | Director, Ofc of Medicare & Medicaid Cost Est.
Office of Information Services (OIS) | Director, Office of Information Services (Chief Information Officer) Dep Dir Ofc of Info Services.
Office of Financial Management (OFM) | Deputy Director, Ofc of Financial Management.
| Dep Dir Ofc Financial Management.
| Dir Program Integrity Group.
| Dir Financial Services Group.
Substance Abuse & Mental Health Services Administration | Assoc Admin for Policy & Prog Coordinator.
Center for Substance Abuse Prevention | Director, Division of Workplace Programs Dir, Div of State & Community Systems Dev.
Center for Mental Health Services | Director Center for Mental Health Services Dir Div of State & & Community Systems Develop.
Centers for Disease Control & Prevention | Director, Financial Management Office.
Natl Institute for Occupational Safety & Health | Assoc Director for Management & Operations.
National Center for Chronic Disease Prevention & Hlth Promotion | Director, Office on Smoking and Health.
Center for Veterinary Medicine | Director, Office of Surveillance.
Office of Chief Counsel | Deputy Chief Counsel for Program Review.
Office of Management and Systems | Director, Office of Financial Mgmt.
Office of Regulatory Affairs | Assoc Comr for Regulatory Affairs.
| Dep Assoc Comr for Regulatory Affairs.
| Regl Food & Drug Director, NE Region.
| Regl Food & Drug Director, Mid-Atlantic Region.
| Regl Food & Drug Director, Southeast Region.
| Regl Food & Drug Director, Southwest Region.
| Regl Food & Drug Director, Pacific Region.
| Dir Ofc of Criminal Investigations.
Center for Biologics Evaluation and Research | Dir Div of Biostatistics & Epidememiology.
| Dir Ofc of Therapeutics Research & Review.
| Dir Ofc of Blood Research & Review.
| Dir Ofc of Sys & Management.
| Director, Office of Compliance and Biologics Quality.
| Special Advisor.
Center for Drug Evaluation and Research | Dir, Center for Drug Evaluation & Research.
| Director, Office of Management.
| Assoc Dir for Med Pol Dir Ofc of Drug Eval I.
| Dir, Div of Neuropharmacological Drug Prod.
| Dir, Div of Midical Imaging S&D Products.
| Director, Office of Generic Drugs.
| Associate Director for Drug Monograph.
| Dir, Office of Epidemiology & Biostatistics.
| Dep Dir, Ofc of Epidemiology & Biostatistics.
| Director, Office of Compliance.
| Dir, Div of Scientific Investigations.
| Director, Division of Biopharmacentics.
| Dep Ctr for Pharmaceutical Science.
| Senior Advisor for Policy.
| Deputy for Scientific & Medical Affairs.
| Dir Ofc of Drug Evaluation V.
Center for Devices and Radiological Health | Dir Office of Device Evaluation.
| Dir, Division of Cardiovascular Devices.
| Dir, Div of General & Restorative Devices.
| Dir, Office of Compliance.
| Dir, Office of Science and Technology.
| Dir, Div of Reproductive Abdominal Ear Throat.
Center for Food Safety and Applied Nutrition | Director, Office of Seafood
| Dir Ofc of Premarket Approval.
| Dir Ofc of Field Programs.
| Dir, Ofc of Plant & Diary Foods & Beverages.
| Director, Office of Food Labeling.
| Dir, Ofc of Pol, P&S Initiatives.
Center for Veterinary Medicine | Director, Office of Science Dir, Ofc of New Animal Drug Evaluation.
National Center for Toxicological Research | Director, Div of Biometry.
Health Resources & Services Administration | Director, Office of Special Programs Director, Office of Science and Epidemiology.
Bureau of Health Resources Development | Dep Dir, Bureau of Health Resources Dev.
Office of the Director | Director, Div of Financial Management.
| Director, Division of Contracts & Grants.
| Associate Director for Extramural Affairs.
| Associate Director for Disease Prevention.
| Dir, Ofc of Medical Applications of Research.
| Associate Director for Administration.
| Director, Office of Policy for Extramural Research Administration.
| Assistant Director for Financial Management.
| Senior Advisor for Policy.
| Chief Operating Officer.
| Director, Office of Reports and Analysis.
Natl Heart, Lung, & Blood Institute | Dir Div of Lung Diseases.
| Dir, Div of Blood Diseases & Resources.
| Director, Division of Extramural Affairs.
| Assoc Dir for International Programs.
| Dir Ofc of Biostatics Research.
| Dep Dir Div of Heart Vascular Diseases.
| Dep Dir Div of Epidem & Clinical Application.
| Director, Epidemiology and Biometry Program.
| Director, National Center for Sleep Disorders.
Intramural Research | Chf Lab of Biochemical Genetics.
| Chf Lab of Biochemistry.
| Chief Lab of Biophysical Chemistry.
| Chief Macromolecules Section.
| Chf, Intermediary M & B Section.
| Chf, Lab of Kidney & Electrolyte Metabolism.
| Chief Lab of Cardiac Energetics.
| Chief, Metabolic Regulation Section.
National Cancer Institute | Assoc Dir for Intramural Management.
| Assoc Director for Extramural Management.
| Associate Director, Cancer Diagnosis Program.
| Chief Financial Officer.
| Associate Director, Referral Review and Program Coordination.
| Deputy Director for Administrative Operations.
Division of Cancer Biology, Diagnosis and Centers | Chf, Microbial G & B Section, Lab of Biochem.
| Chief, Lab of Biochem Intramural Res Prog.
| Assoc Dir, Extramural Research Program.
| Dep Dir, Div of Cancer Biology Diag & Centers.
| Chief Dermatology Br, Intramural Res Prog.
| Chief, Cell Mediated Immunity Section.
| Chief, Lab of Tumor & Biol Immunology, IRP.
| Dir, Div of Cancer Biology Diagnosis & Ctrs.
| Assoc Dir, Ctrs Training & Resources Prog.
Division of Cancer Etiology | Chief Lab of Biology.
| Chief Laboratory of Molecular Carcinogenesis.
| Chf Lab of Experimental Pathology
| Dir, Div of Cancer Etiology.
Division of Cancer Prevention & Control | Dep Dir, Div of Cancer Prevention & Control.
| Associate Dir, Surveillance Program, DCPC.
| Assoc Dir, Early D & C Oncology Program.
Division of Extramural Activities | Dir, Div of Extramural Activities Deputy Dir, Div of Extramural Activities.
Division of Cancer Treatment | Chf-Radiation Oncology Br Assoc Dir,Cancer Therapy Evaluation Program.
Natl Institute of Diabetes & Digestive & Kidney Dis | Dir Div Kidney Urologic & Hematologic Diseases.
| Dir Division of Extramural Activities.
| Chf, Lab of Molecular & Cellular Biology.
| Dep Dir for Management & Operations.
| Associate Director for Management and Operations.
Intramural Research | Chief Section on Biochemical Mechanisms.
| Chf Sect on Metabolic Enzymes.
| Chf Sect on Physical Chemistry.
| Chief, Section on Molecular Structure.
| Chief Theoretical Biophysics Section.
| Chief, Laboratory of Bio-Organic Chemstry.
| Chief Oxidation Mechanisms Section L B C
| Chief Laboratory of Biochemistry & Metabolism.
| Clinical Dir & Chief, Kidney Disease Section.
| Chief, Section on Molecular Biophysics.
| Chf, Sec Carbohydrates Lab of Chemistry/NIDDK.
| Chief, Laboratory of Neuroscience, NIDDK.
| Chf, Laboratory of Medicinal Chemistry.
| Chief, Morphogenesis Section.
Natl Inst of Arthr & Musculoskeletal & Skin Diseases | Director, Extramural Program Deputy Dir.
National Library of Medicine | Dep Dir, Natl Lib of Medicine.
| Dep Dir for Res and Education.
| Associate Director for Library Operations.
| Assoc Dir for Extramural Programs.
| Dir, LHNC for Biomedical Commun.
| Dep Dir Lister Hill Natl Ctr for Biomed Comms.
| Director, Information Systems.
| Dir Natl Ctr for Biotech Info.
| Assoc Dir for Health & Info Prog Development.
| Associate Director for Administrative Management.
Natl Inst of Allergy & Infectious Diseases | Dir, Div of Allergy/Immunology/Transplantatn.
| Chf, Lab of Parasitic Diseases.
| Dir, Div of Microbiology/Infectious Diseases.
| Chief, Lab of Immunogenetics.
| Dir, Div of Extramural Activities.
| Ch, Lab of Microbial Structure and Function.
| Chief Lab of Molecular Microbiology.
| Dir, Div Acquired Immunideficiency Syndrome.
| Chief, Biological Resources Branch.
| Head, Lymphocyte Biology Section.
| Chief, Laboratory of Infectious Diseases.
| Dep Dir Div of Acquired Immunodeficiency.
| Head Epidemiology Section.
| Chief, Laboratory of Malaria Research.
| Dir Div Intramural Research.
| Dep Chief Lab of Imm & Head Lymp Biol Section.
Natl Inst on Aging | Scientific Director Gerontology Rsch Cntr.
| Clin Director and Chief Clin Physiology Br.
| Associate Dir for Behavioral Sciences Res.
| Assoc Dir Biology of Aging Program.
| Assoc Dir, Office of Extramural Affairs.
| Assoc Dir, Epidemi, Demo, & Biometry Program.
| Assoc Dir, Ofc of Plnng, A & I Activities.
| Assoc Dir Neurosci & Neuropsych of Aging Prog.
| Associate Director for Administration.
Natl Inst of Child Health & Human Development | Chief, Laboratory of Molecular Genetics.
| Chf, Endocrinology & Reproduction Research Br
| Director Ctr Forres for Mothers & Children
| Director Cntr for Population Research.
| Chief, Section on Growth Factors.
| Assoc Dir for Prevention Research.
| Chief Laboratory of Mamalian Genes & Develop.
| Chief, Section on Molecular Endocrinology.
| Chief Section Neuroendocrinology.
| Chief Section on Microbial Genetics.
| Chief, Laboratory of Comparative Ethology.
| Associate Director for Administration.
| Dir, Natl Center for Medical Rehab Research.
Natl Inst of Dental Research | Chief, Laboratory of Immunology Dir, Extramural Program Associate Director for Management.
Natl Inst of Environmental Health Sciences | Chf Lab of Pulmonary Pathobiology.
| Head Mutagenesis Section.
| Head Mammalian Mutagenesis Section.
| Senior Scientific Advisory.
| Associate Director for Management.
| Chief Lab of Molecular Carcinogenesis.
| Dir Natl Inst of Environmental Health Science.
| Dir Environmental Toxicology Program.
Natl Inst of General Medical Sciences | Dir Genetics Program.
| Assoc Dir for Program Activities
| Director, Division of Pharamcology, Physiology, and Biological Chemistry.
| Dir Bio Phys Sciences Program Branch.
| Dep Dir Natl Institute of General Med Sci.
| Dir, Minority Opportunities in Res Prog Br.
| Associate Director for Administration and Operations.
Natl Inst of Neurological Disorders and Stroke | Dir, Div of Fundamental Neurosciences.
| Associate Director for Administration.
| Dir, Basic Neurosci Prog/Chf/Lab of Neurochem
| Chf, Lab of Molecular & Cellular Neurobiology.
Intramural Research | Chief Lab of Central Nervous System Studies
| Chf, Dev & Metabolic Neurology Branch.
| Deputy Chief, Lab of Central Nervous Sys Stud.
| Chief, Neuroimaging Branch.
| Chief, Laboratory of Neurobiology.
| Chief, Laboratory of Neura Control.
| Chief Brain Structural Platicity Section.
| Chief Stroke Branch.
Natl Eye Institute | Chief Laboratory of Retinal Cell & Mol Biolog Chief, Lab of Molecular & Dev. Biology Chief, Laboratory of Sensorimotor Research.
Natl Inst on Deafness & Other Communication Disorders | Director, Division of Human Communication Chief Laboratory of Cellular Biology Associate Director for Administration Director, Division of Extramural Research.
NIH Clinical Center | Associate Director for Planning Assoc Chf, Position Emission T&R Deputy Director for Magament and Operations.
Division of Computer Research & Tech | Chief, Computer Center Branch Deputy Director Assoc Dir Ofc of Computing Resources Services.
John E Fogarty Intl Center | Assoc Dir for Int'l Advance Studies.
National Center for Research Resources | Dir, Natl Center for Research Resources Dir, Gen Clinical Res Ctr for Res Resources Dep Dir, Natl Center for Research Resources.
Division of Research Grants | Associate Director for Referral and Review Assoc Dir for Statistics & Analysis Director, Division of Physiological Systems Director, Division of Clinical & Population-Based Studies.
National Center for Nursing Research | Director National Cntr for Nursing Research.
National Center for Human Genome Research | Deputy Director. Dir Div of Intramural Res Natl Ctr H G R Chief Diag Devel Br Natl Ctr Human Gen Res Chf, Lab of Genetic Dis Res Natl Ctr for HGR Associate Director for Management.
National Institute on Drug Abuse | Assoc Dir for Planning & Resources Management.
| Dir, Office of Extramural Program Review.
| Director Division of Clinical Research.
| Dir, Medications Development Division.
| Chief, Neuroscience Research Branch.
| Associate Director for Clinical Neuroscience & Medical Affs.
| Division of Treatment Research & Development.
National Institute of Mental Health | Dep Dir, National Institute of Mental Health.
| Associate Director for Special Populations.
| Associate Director for Prevention.
| Exec Ofcr, Natl Institute of Mental Health.
| Dir, Ofc of Legislative Analysis & Coord.
| Dir, Div of Neuroscience & Behavioral Sci.
| Chief, Neuropsychiatry Branch.
| Chief, Child Psychiatry Branch.
| Chief, Biological Psychiatry Branch.
| Chief, Laboratory of Clinical Science.
| Chief, Section on Histopharmacology.
| Director, Office on Aids.
| Director, Division of Mental Disorders, Behavioral Research and Aids.
| Director, Division of Services and Intervention Research.
National Institute on Alcohol Abuse & Alcoholism | Dir, Natl Institute on Alcohol A&A Director, Division of Basic Research.
Agency for Healthcare Research and Quality | Dir Ctr for Outcomes & Effectiveness Research.
Department of Housing and Urban Development:
Office of the General Counsel | Assoc Gen Coun for Program Enforcement.
Office of the Inspector General | Asst Inspector General for Investigations.
| Assistant Inspector General for Audit
| Deputy Inspector General.
| Asst Inspector General for Management & Pol.
| Deputy Asst Inspector Gen for Audit Operation.
| Dep Asst Inspector Gen for P&O.
| Dep Asst Inspector General for Investigation.
| Counsel to the Inspector General.
Office of the Chief Financial Officer | Assistant Chief Financial Officer for Budget.
| Assoc Dep Chief Financial Officer for Account.
| Dep Chief Financial Officer for Accounting.
| Dep Chief Financial Officer for Finance.
| Deputy Chief Financial Officer.
Office of the Chief Procurement Officer | Director, Office of Procurement & Contracts Senior Advisor for Procurement Planning and Program Liaison.
Departmental Enforcement Center | Chief Counsel Deputy Director, Departmental Enforcement Center Associate Director.
Departmental Real Estate Assessment Center | Deputy Director for Finance.
Assistant Secretary for Administration | Deputy Director, Office of Human Resources Special Advisor/Comptroller.
Assistant Secy for Housing | Director Office of Financial Services.
| Dir Ofc of Multifamily Asset Management Dispo.
| Housing/Fed Housing Adm Comptroller.
| Dir of Multifamily Housing Development.
| Housing—FHA Deputy Comptroller.
| Program Systems Project Officer.
Asst Secy for Fair Housing and Equal Opportunity. | Director, Office of Investigations.
| Dir, Ofc of Fair Housing I&V Programs.
| Director, Office of Enforcement.
| Director, Office of Programs.
Office of Departmental Equal Employment Opportunity | Dep Dir Ofc of Equal Employment Opportunity. Dir, Ofc of Departmental Equal Employ Opport.
Asst Secy for Community Planning and Development | Director, Office of Economic Development.
| Director, Ofc of Community Viability.
| Comptroller.
| Deputy Assistant Secretary for Special Needs Programs.
Government National Mortgage Association | Vice President for Finance.
| Vice President, Ofc of Pol, P&R Management.
| Vice President Ofc of Customer Service.
| VP Office of Multifamily Programs.
Asst Secy for Public and Indian Housing | Gen Dep Asst Secy for Public & Indian Housing.
| Public & Indian Housing-Comptroller.
| Dep Asst Secry for Public & Asst Housing Oper.
| Deputy Public & Indian Housing Comptroller.
| Dir, Ofc of Public Housing Partnership.
| Director Office of Troubled Agency Recovery.
Department of Interior:
Office of the Inspector General | Assistant Inspector General for Auditing.
| Asst Inspector General for Investigations.
| Assistant Inspector General for Management and Policy.
| Assistnat Inspector Genral for Strategic Initiatives.
| General Counsel.
| Deputy Asst Inspector General for Audits.
Office of Special Trustee for American Indians | Special Assistant (Special Projects Officer).
Office of the Solicitor | Deputy Assoc Solicitor, General Law.
| Asst Solicitor Bureau of Parks and Recreation.
| Deputy Associate Solicitor—Mineral Resources.
| Associate Solicitor for Administration.
| Dep Assoc Solicitor Land & Water Resources.
| Dep Associate Solicitor—Indian Affairs.
Assistant Secretary—Policy, Management and Budget | Asst Dir for Economics.
| Manager, Science and Engineering.
| Natural Resource Damage Assessment Prog Mgr.
| Dir, Ofc of Fin Mgmt & Dep Chf Fin Officer.
| Chief Div of Budget & Program Review.
| Chief Div of Budget Admin.
| Deputy Agency Ethics Staff Officer.
National Park Service | Park Manager—Grand Canyon.
Field Offices | Park Manager—Yosemite (Superintendent).
| Park Manager Everglades.
| Park Manager—Yellowstone (Superintendent).
| Asst Dir, Design & Construction (Mgr, Dsc).
| Park Manager—Independence Natl Historic Park
Field Offices | Executive Dir Regional Ecosystem Office.
Field Offices | Research Director.
Field Offices | Director, Technical Services Center. Spec Asst to the Dir, Reclamation Serv Center. Project Manager/Arizona Projects Office. Director, Management Services Office.
U.S. Geological Survey | Assoc Chief Geologist for Operations.
| Associate Chief Geologist for Science.
| Regional Geologist Western Region.
| Regional Geologist, Eastern Region.
| Regional Chief Biologist, Eastern Region.
National Mapping Division | Chief, National Mapping Division. Assoc Chief Programs & Finances. Associate Chief for Operations.
Field Offices | Chief, EROS Data Center.
| Chief Mid-Continent Mapping Center.
| Chief Rocky Mountain Mapping Center.
| Chief Mapping Applications.
Water Resources Division | Chief Hydrologist.
| Assoc Chief Hydrologist.
| Asst Chief Hydrologist for Operations.
| Chief, Natl Water Quality Assessment (NAWQA).
| Asst Chief Hydrologist for Tech Support.
| Asst Chief Hydrologist for Water Information.
| Chf, Ofc of Hydrologic Research.
| Chf, National Water Data Exchange Program.
Field Offices | Regional Hydrologist Central Region.
| Regl Hydrologist Southeastern Region.
| Regional Hydrologist, Western Region.
| Regional Hydrologist, Northeastern Region.
Geologic Division | Chief Geologist.
| Chief, Ofc of Scientific Publications.
| Assoc Chf Geologist.
| Chf Ofc of Mineral Resources.
| Assistant Chief Geologist for Programs.
Biological Resources Division | Asst Dir, Budget and Administration. Associate Chief Biologist for Operations. Asst Dir for Information & Technology Service.
Field Offices | Spec Asst to the Reg Dir Research & Develop. Assistant Director for Inventory & Monitoring.
Bureau of Land Management | Director National IRM/Center. International Tech Asst Program Manager. Helium Program Administrator.
Office of Surface Mining | Regional Director. Regional Director. Regional Director.
Minerals Management Service | Associate Dir for Policy and Mgmt Improvement. Assistant Assoc Dir for Offshore Minerals Mgt. Special Assistant to the Director.
Field Offices | Regional Director, Gulf of Mexico OCS Region.
| Regional Director, Alaska OCS Region.
| Regional Director, Pacific OCS Region.
| Dir Program Reengineering Office.
| Dep Assoc Dir for Audit.
| Dep Assoc Dir for Valuation & Operations.
| Deputy Assoc Director for Administration.
| Deputy Assoc Dir for Royalty Mgmt.
Bureau of Indian Affairs | Deputy Director, Office of Indian Education Programs.
Department of Justice:
Office of the Attorney General | Counsel on Professional Responsibility. Dep Counsel on Professional Responsibility.
Ofc of the Legal Counsel | Special Counsel. Special Counsel.
Office of the Inspector General | Asst Inspector General for Inspections.
| Assistant Inspector General for Audit.
| Assistant Inspector General for Investigation.
| Asst Inspector Gen for Management & Planning.
| Deputy Inspector General.
| General Counsel.
| Dir, Special Investigational Review.
Office of the Deputy Attorney General | Director, Office of Legal Education. Director, Professional Responsibility Advisory Office. Correctional Prog Ofcr/Sr Dep Asst Dir Prd.
Justice Management Division | Asst Attorney General for Administration.
| Deputy Asst Attorney General.
| Dir, Security & Emergency Plnng Staff.
| Dep Asst Attorney Gen Human Res/Admin.
| Dir Library Staff.
| Dir, Facilities and Administrative Svc Staff.
| Dir Telecommunications Services Staff.
| Director Management and Planning Staff.
| Director, Budget Staff.
| Senior Policy Advisory.
| Dep Asst Attorney General, Info Res Mgt.
| Dir Procurement Services Staff.
| Dir, Systems Technology Staff.
| General Counsel.
| Dir, Equal Employment Opportunity Staff.
| Senior Counsel.
| Director, Department Ethics Office.
| Deputy Director, Budget Staff.
Office of the Controller | Dir Finance Staff. Dep Asst Attorney General; Controller. Director, Debt Collection Management Staff. Asst Dir, Management & Planning Staff.
Office of Human Resources and Administration | Director Personnel Staff. Director, Ofc of Atty Pers Mgmt.
Office of Info & Admin Services | Director, Computer Services Staff. Director, Information Mgmt & Security Staff.
Executive Office for Immigration Review | Chief Immigration Judge.
| Assistant to the Director.
| Chairman, Board of Immigration Appeals.
| General Counsel.
| Attorney-Examiner (Immigration).
| Chief Admin Hearing Officer.
Antitrust Division | Senior Litigator.
| Executive Officer.
| Chief Computers and Finance Section.
| Senior Litigator.
| Senior Litigator, Atlanta Field Office.
| Deputy Chief, Litigation II Section.
Office of Litigation | Dep Dir of Operations. Chief, Competition Policy Section.
Civil Division | Director of Management Programs. Deputy Director, Commercial Litigation Branch. Appellate Litigation Counsel. Deputy Director, Tobacco Litigation Team. Deputy Director, Appellate Staff.
Commercial Litigation Branch | Spec Litigation Counsel (Foreign Litigation). Spec Litigation Coun, C/L Branch. Deputy Branch Director/Commercial Litigation. Deputy Branch Dir Civil Frauds. Deputy Branch Director.
Federal Programs Branch | Special Litigation Counsel (Federal Programs). Deputy Branch Director.
Torts Branch | Spec Litigation Counsel.
| Spec Litigation Counsel.
| Deputy Branch Director.
| Deputy Branch Director.
| Deputy Branch Director.
| Director Office of Consumer Litigation.
Civil Rights Division | Special Litigation Counsel.
Environment and Natural Resources Division | Executive Officer.
Office of Environmental Resources | Senior Litigation Coun Attorney-Examiner. Dep Chf, Environmental Enforcement Section. Principal Deputy Chief Environ Enforce Sec.
Tax Division | Chief Civil Trial Section Southwestern Region. Executive Officer.
Deputy Assistant Attorney General—I | Special Litigation Counsel. Sr Trial Attorney. Special Litigation Counsel. Spec Litigation Counsel.
Immigration and Naturalization Service | Asst Commissioner for Detention & Deportation.
| Asst Commissioner for Adjudication & Natural
| Assistant Commissioner for Border Patrol.
| Director of Internal Audit.
| Director of Security.
| Asst Comr, Budget.
| Regional Director Central Region.
| Asst Commissioner Administration.
| Chief Patrol Agent.
| District Director.
| Chief Patrol Agent.
| District Dir, Western Reg, Phoenix District.
| Asst Commissioner Data Systems.
| Deputy General Counsel.
| Chief Patrol Agent, El Paso, TX.
Associate Commissioner for Examinations | Asst Comm for Inspections.
Associate Commissioner for Enforcement | Assistant Commissioner for Investigations.
Executive Associate Commissioner for Management | Assistant Comr, Human Resources & Development.
Regional Offices—INS | District Director Newark District. District Director, Newark, District.
Ofc of the Associate Attorney General | Executive Officer (Principal Assoc Director). Deputy Director for Support Services.
Executive Ofc for U.S. Attorneys | Dir Ofc of Mgnt Information Systems Support.
| Dir, Office of Administration & Review
| Dep Dir for Operations.
| Deputy Director, Financial Management Staff.
Criminal Division | Senior Counsel to the Assistant Attorney General.
| Deputy Chief, Fraud Section.
| Dir Ofc of Asset Forfeiture.
| Senior Appellate Counsel.
| Senior Counsel.
| Executive Officer.
| Dir Intl Criminal Invest Train Asst Program.
| Chief, General Litigation & Legal Advice Sect.
| Senior Counsel for Natl Security Matters.
| Dep Chief Terrorism & Violent Crime Section.
| Chf of International Training & Dev Programs.
| Senior Counsel to the Assistant Attorney General.
Ofc of Senior Counsels | Sr Counsel for Litigation.
Ofc of Deputy Asst Attorney General I | Counsel to the Office Fraud Section.
Ofc of Deputy Asst Attorney General II | Chf Public Integrity Section. Deputy Chief Public Integrity Section.
Federal Bureau of Prisons | Asst Dir for Planning and Development
| General Counsel.
| Assoc Commr, Fed Prisons Industries, Unicor.
| Dep Assoc Commr Fed Prison Industries.
| Warden Ft. Worth Texas.
| Warden Marianna FL.
| Asst Director for Human Res Mgmt
| (Warden) Miami, FL.
| Senior Deputy Asst Dir Health Services Div.
| Regional Director Mid Atlantic Division.
| Asst Dir., Community Corrections & Detention.
| Asst Dir, Info, Pol, & Public Afrs Div.
| Gen Counsel, Fed Prison Industries (Unicor)
| Warden, Allenwood, Pennsylvania.
| Sr Mgt Counsel, (Federal Bureau of Prisons).
| (Warden) Fort Dix, NJ.
| (Warden) FCC, Floren, CO.
| Correctional Inst Admr (ARD) SCR, Dallas, TX.
| Corrl Inst Admr (SDAD), CC & D Div, Wash, DC.
| Warden, USP, Florence, CO.
| CIA (Warden) Fed Medical Center, Carswell, TX.
| CIA (Warden) U.S. Penitentiary, Allenwood, PA.
| (Warden) FTC, Oklahoma, OK.
| Senior Dep Asst Dir (Administration).
| CIA (Warden) Fed Cortl Inst/El Reno, OK.
| CIA (Warden) Fed Medical Center/Miami, FL.
| Correctional Prog Offcr/Sr Dep Regl Dir.
| Correctional Inst Admr (Warden) FCI.
| Correctional Program Officer.
| Correctional Prog Officer (WFCI, Estill, SC).
| Correctional Prog Officer (Warden Fed CI, SC).
| Correctional Institution Admin (W, FMC, FTC, MA).
| Correctional Institution Administrator.
| Correctional Institution Admr (Warden).
| Correction Institution Administrator (Warden, U.S. Penitentiary, Beaumont, TX).
| Correctional Program Officer (Assistant Director).
| Deputy Assistant Director.
| Correctional Program Officer.
Office of Correctional Program | Asst Dir Correctional Program Div.
Northeast Region | Regional Director, Northeast Region.
| Warden, Lewisburg, PA.
| Warden, McKean, PA.
| (Warden), Oakdale, LA.
| Correctional Institution Admr (Warden).
| Warden.
Southeast Region | Regional Director, Southeast Region.
| Warden Atlanta.
| Warden, Lexington, Kentucky.
| Warden, Butner, North Carolina.
North Central Region | Regional Director, North Central Region.
| Warden, Leavenworth, Kansas.
| Warden, Springfield, MO.
| Warden, Marion, IL.
| Warden, Terre Haute, IN.
| Correctional Institution Admr.
South Central Region | Regional Director, South Central Region.
| Warden, El Reno, Okla.
Western Region | Regional Director, Western Region.
| Warden, Lompoc, CA.
| Warden, Phoenix, AZ.
| Warden Federal Correctional Institution.
| Correctional Institution Admr (Warden).
Ofc of Justice Programs | Director of Administration.
| Dep Director, National Institute of Justice.
| General Counsel.
| Comptroller.
| Deputy Director, Office for Victims of Crime (Policy and International Programs).
Ofc of Juvenile Justice and Deliquency Prevention | Deputy Administrator, Office Discretionary Grants.
Bureau of Justice Statistics | Supervisory Statistician.
U.S. Marshals Service | Assistant Director for Human Resources.
| Assoc Director for Operational Support.
| Senior Management Advisor.
| Assistant Director for Prisoner Services.
| Assistant Director for Business Services.
| Associate Director for Mgmt and Budget.
| Assistant Director for Executive Service.
| Assistant Director for Investigative Servs.
| Assistant Director for Judicial Security.
| Asst Director for Organizational Development.
| Assistant Director for Training.
Department of Labor:
Office of the Secretary | Deputy Assistant Secretary for Information Technology.
Ofc of the Inspector General | Deputy Inspector General.
| Asst Inspector General for Investigations.
| Asst Inspector Gen for Audit.
| Deputy Assistant Inspector General for Audit.
| Asst Inspector Gen for Labor Racketeering.
| Asst Inspector Gen for Mgmt & Counsel.
| Asst Inspector Gen/Analysis Complaints/Eval.
Office of the Solicitor | Associate Solicitor for Labor-Management Laws.
| Assoc Solicitor for Plan Benefits Security.
| Assoc Solicitor for Civil Rights.
| Assoc Solicitor for Occupational Safety & Hlt.
| Assoc Solicitor for Mine Safety & Health.
| Assoc Solicitor for Fair Labor Standards.
| Assoc Solicitor for Employee Benefits.
| Deputy Solicitor (Regional Operations).
| Assoc Sol for Spec Appel & Sup Court Lit.
| Dep Solicitor for Planning and Coordination.
| Associate Solicitor for Black Lung Benefits.
Regional Solicitors | Regional Solicitor.
| Regional Solicitor Region IV—Atlanta.
| Regl Solicitor Boston.
| Regl Solicitor New York.
| Regional Solicitor Philadelphia.
| Regl Solicitor Dallas.
| Regl Solicitor Kansas City.
| Regl Solicitor San Francisco.
Chief Financial Office | Deputy Chief Financial Officer.
OAS for Administration and Management | Das for Admin & Mgmt/Chf Information Ofcr.
| Director of Human Resources.
| Director of Information Technology.
| Director Office of Budget.
| Deputy Assistant Secy for Budget.
| Director Business Operations Center.
| Director of Civil Rights.
| Dir of Program Devel for Human Resources.
| Dir Div of Agency Programs.
| Director of Safety and Health.
| Deputy Assistant Secretary for Administration and Management.
Office of Management, Administration and Planning | Dir Ofc of Mgmt, Administration and Planning.
Ofc of Federal Contract Compliance Programs | Director Division of Programs Operations.
Wage and Hour Division | Asst Admin for Policy Planning & Review. Dep Wage & Hour Admin. Dep Natl Ofc Program Administrator.
Ofc of Workers Compensation Programs | Dir Federal Employees Compensation. Dir Coal Mine Workers Compensation.
Pension & Welfare Benefits Administration | Dir of Regulations & Interpretations.
| Dep Asst Secy for Program Operations.
| Director of Exemption Determinations.
| Senior Policy Advisor.
| Regional Director.
| Regional Director.
| Regional Director.
| Regional Director.
| Dir of Enforcement.
| Director of Health Plan Standards Compliance and Assistance.
Bureau of Labor Statistics | Associate Commissioner for Field Operations.
| Deputy Commissioner.
| Assoc Commr for Publications & Spec Studies.
| Asst Commr for Consumer Prices/Price Indexes.
| Asst Commr for Fedl/State Coop Stat Programs.
Data Analysis | Assoc Commissioner for Employment Projections.
| Assoc Comr for Prices and Living Conditions.
| Assoc Commr Productivity & Technology.
| Assoc Commissioner/Survey Methods Research.
| Assoc Comm for Employment & Unempl Statistics.
| Asst Commr for Industrial Prices & Price Indexes.
| Asst Commr for Indust Prices & Price Indexes.
| Assistant Commissioner for Economic Research.
| Asst Commissioner for Federal-State Programs.
| Asst Commissioner for Current Employ Analysis.
| Asst Comr for Compensation Levels & Trends.
| Asst Comr for Safety, H&W Conditions.
| Assoc Comr Compensation & Working Conditions.
| Asst Comm for Survey Methods Research.
| Asst Comm for International Prices.
Administrative and Internal Operations | Associate Commissioner for Administration.
| Director of Survey Processing.
| Dir of Technology & Computing Svcs.
| Asst Comr for Technology & Survey Processing.
| Dir Quality & Info Management.
Office of Financial & Administrative Management | Comprtroller. Admr, Ofc of Financial & Administrative Mgmt.
Administrative Programs | Dir, Adm Progs.
Health Standards Programs | Dir Health Standards Programs.
Safety Standards Programs | Director Safety Standards Programs.
Federal/State Operations | Director, Federal/State Operations.
Technical Support | Director, Technical Support.
Mine Safety and Health Administration | Chf of Standards, Regulations & Variances. Director of Administration and Management. Director of Technical Support. Director of Prog Evaluation & Info Resources.
Merit Systems Protection Board:
Office of the Board, Chairman | Director, Information Resources Management. Director, Financial and Administrative Management.
Office of the General Counsel | Deputy General Counsel.
Office of the Clerk of the Board | Clerk of the Board.
Office of Policy and Evaluation | Director, Office of Policy & Evaluation.
Office of Planning & Resource Management Services | Director, Office of Administration.
Office of Regional Operations | Director, Office of Regional Operations.
Atlanta Regional Office | Regional Director, Atlanta.
Central Regional Office | Regional Director, Chicago.
Northeastern Regional Office | Regional Director, Philadelphia.
Washington Office | Regional Director, Washington, D.C.
Western Regional Office | Regional Director, San Francisco.
National Aeronautics and Space Administration:
National Aeronautics and Space Administration | Technical Assistant to the Director, Office of Space Science.
| Manager, Earth Sciences Department.
| Director, Aviation Safety Program Office.
| Associate Director for Program Integration.
| Dep Dir of Safety and Mission Assurance.
| Director, for Systems Engineering.
| Senior Program Executive, Advanced Technology Program Management.
| Senior Systems Engineer.
| Director, Aerospace Proj Directorate.
| Dep, Director, Aerospace Projects.
| Aerospace Engineer (Ch Engineer).
Office of the Chief Financial Officer/Comptroller | Deputy Chief Financial Officer. Director, Financial Management Division. Director, Resources Analysis Division. Deputy Dir, Financial Management Division.
Office of Headquarters Operations | Chief, Information Syst & Technol Office. Director Headquarters Acquisition Division.
Office of Equal Opportunity Programs | Director, Discrimination Complaints Division. Director, Multicultural Prog & Support Div.
Office of Human Resources & Education | Associate Administrator for Human Resources. Director, Education Division. Director, Personnel Division.
| Director, Management Systems Division.
| Dep Assoc Adm for Human Res & Education.
| Special Asst to the Associate Admr.
Office of Procurement | Asst Admr for Procurement.
| Director, Program Operations Division.
| Director, Contract Management Division.
| Dep Assistant Administrator for Procurement.
| Dir Contract Management Division.
| Director Analysis Division.
Office of External Relations | Dep Assoc Admin for External Relationships.
Defense Affairs | Director, Space Flight Division.
Policy Coordination | Manager, International Technol Transfer Pol.
Office of Management Systems & Facilities | Special Assistant to the Assoc Administrator.
Environmental Management | Dir Environmental Management Division.
Security, Logistics & Industrial Relations | Dir, Logistics & Security Division.
Aircraft Management | Director, Aircraft Management Office.
Information Resources Management | Director, Information Resources Mgmt Division.
Facilities Engineering | Deputy Director, Facilities Engineering Div. Dir Environmental Management Division. Director, Facilities Engineering Division.
Office of Small & Disadvantaged Business Utilization | Assoc Admr for S&D Business Utilization.
Office of Legislative Affairs | Dep Assoc Admin. Dep Assoc Admin for Programs.
Office of Space Flight | Spec Asst to Dep Assoc Adm for Space Shuttle.
| Director, Advanced Project Office.
| Senior NASA Representative.
| Dep Assoc Administrator for Space Flight Dev.
| Deputy Assoc Admr for Space Communications.
Institutions | Deputy Associate Admr for Business Mgmt. Techn Asst to the Dep Assoc Adm for Bus Mgmt.
Chief Engineer | Tech Asst to the Chief Engineer. Deputy Chief. Senior Engineer.
Mission Director | Asst Mission Dir Mir.
Space Flight Operations | Manager Space Shuttle Syst Integration. Mgr, Natl Space Trans Syst Integration & Ops. Manager, Safety & Obsolescence.
Space Flight Development | Manager Strategic Utilization & Ops Office. Deputy Director, Space Station Program. Senior Engineer Space Station Program.
Center Operations Directorate | Dir Environmental Engineering & Mgnt Office.
Johnson Space Center | Chief Financial Officer.
| Director of Human Resources.
| Dir of Tech Transfer & Commercialization.
| Chief Information Officer.
| Deputy Chief Information Officer.
| Manager, Phase One Program Office.
| Associate Director (Technical).
| Assistant Director, Space Operations.
| Manager Advanced Communications Operations.
| Technical Assistant for External Reviews.
| Associate Director (Management).
| Assistant Director for University Research and Affairs.
| Manager EVA Project Office.
| Business Manger.
| Director, Public Affairs Office.
Space Operations Office | Manager, Space Operation Mgmt Office.
| Manager, Space Ops Engineering Office.
| Director, Space Operations Office.
| Deputy Dir, Space Operations Office.
| Director Space Operations.
| Space Operations Commercialization Manager.
Space Station Program Office | Space Station Program Manager.
| Space Station Vehicle Manager.
| Director, Management Operations.
| Deputy Space Station Vehicle Manager.
| Manager International Partners Office.
| Tech Asst to the Mgr, Space Station Program.
| Dep Program Manager for Business Management.
| Deputy Program Mgr for Technical Development.
| Manager, Research Programs.
| Manager, Space Station Payloads Office.
| Space Station Program Manager.
Space Shuttle Program Office | Mgr, Space Shuttle Vehicle Engineer Ofc.
| Mgr, Space Shuttle Mgmt Integration Office.
| Manager, Shuttle Projects Office (MSFC)
| Mgr, Launch Integration (KSC).
| Director, Space Shuttle Operations.
| Mgr, Space Shuttle Business Office.
| Asst Mgr, Space Shuttle Prog Space Flight o/c.
| Asst Manager Space Shuttle Program.
| Manager for Space Shuttle Program Development.
| Manager, Space Shuttle Program Integration.
Mission Operations | Director, Mission Operations.
| Chief Flight Director Office.
| Deputy Director, Mission Operations.
| Asst Dir for Operations.
| Chief Integrated Planning System Office.
| Chief Simulator & Operations Technology Div.
| Chief Engineer, Mission Operations Directorate.
| Flight Director.
Flight Crew Operations | Chief, Aircraft Operations Division. Dep Dir, Flight Crew Operations.
| Asst Chief, Aircraft Operations Division.
Engineering | Chief Structures and Mechanics Division.
| Chief, Crew & Thermal Systems Division.
| Deputy Director, Engineering.
| Chief, Automation, R & S Division.
| Director, Engineering.
| Chief Engineer Space Station Program.
| Chief Avionic Systems Division.
| Assistant to the Director, Engineering.
| Deputy Chief, Avionic Systems Division.
| Chief, Aeroscience & Flight Mechanics Div.
| Manager, Advanced Development Office.
| Deputy Mgr, Advanced Development Office.
| Asst Mgr, Advanced Development Office.
| Deputy Manager for Exploration.
| Special Assistant for Program Planning.
| Chief Energy Systems Division.
| Chief, Manufacturing, Materials, & Process Tech Div.
| Deputy Director of Engineering for Flight.
Space & Life Sciences. | Chief, Medical Sciences Division.
| Assistant Director for Engineering.
| Assistant to the Director for Russian Progs.
| Chief, Flight Crew Support Division.
| Associate Director, Space & Life Sciences.
| Deputy Director, Space and Life Sciences.
| Manager Science Payloads Management Office.
| Chief, Solar System Exploration Division.
| Deputy Director, Space and Life Sciences.
| Assistant Director for Flight Programs.
| Assistant Director for Space Medicine.
| Asst Director, Space and Life Sciences.
Information Systems | Director, Business Manager.
| Director, Information Systems.
| Manager Management Configuration Office.
| Dep Dir Information Systems.
| Director, Information Systems.
Business Management | Procurement Officer.
| Assistant Director, Business & Info Systems.
| Special Assistant to the Director.
| Manager Space Station Business Office.
| Asst Dir Business Management.
| Deputy director, Business Management.
Center Operations | Special Assistant for Facility Management. Dir Center Operations. Deputy Director, Center Operations.
Safety, Reliability & Quality Assurance. | Dir, Safety, Reliability & Quality Assurance Dep Dir, Safety, Reliability & Qual Assurance. Deputy Director for Russian Projects. Deputy Director SR&QA.
White Sands Test Facility | Manager, NASA White Sands Test Facility.
Kennedy Space Center | Dir Public Affairs.
| Associate Director.
| Assdir for Advanced Devel & Shuttle Upgrades.
| Dir, Space Station Hardware Integration OFC.
| Director, Safety Assurance.
| Deputy Director for Planning and Projects.
| Manager Launch Integration (KSC).
| Dep Mgr Elv & Payload Carriers Program Office.
Shuttle Management & Operations | Dir of Shuttle Operations. Director Process Integration Deputy Dir of Shuttle Processing. Director Process Engineering.
Installation Operations | Director, Installation Operations. Deputy Dir, of Installation Mgmt & Operations.
Payload Processing | Director, Expendable Vehicles. Director Logistics Operations. Dir Inter Space Station Launch Site Support.
Procurement | Director, Procurement.
Biomedical Office | Director, Biomedical Office.
Marshall Space Flight Center | Chief Financial Officer.
| Director, Safety & Mission Assurance Office.
| Associate Director.
| Assistant to the Center Dir for Space Station.
| Associate Director (Technical).
| Manager, Space Transportation Prog Office.
| Manager X-34 Program.
| Assistant to the Manager, X-34 Program.
Science Directorate | Deputy Manager for Space Station Research. Deputy for Management. Assistant Director for Space Propulsion Systems.
Program Development | Deputy Director, Program Development. Deputy Manager, Technology Transfer Office. Dir, Research & Technology Office.
Engineering Directorate | Director, Space Sciences Lab.
| Director, Propulsion Laboratory.
| Director, Syst Anal & Integration Laboratory.
| Dep Dir Structures & Dynamics Laboratory.
| Deputy Dir, Materials & Processes Laboratory.
| Dep Dir, Mission Operations Laboratory.
| Dep Dir, Syst Anal & Integration Laboratory.
| Deputy Director, Propulsion Laboratory.
| Dir Astrionics Laboratory.
| Dir Structures Dynamics Laboratory.
| Deputy Director, Structures & Dynamics Lab.
| Chief Engineer Space Shuttle Main Engine Proj.
| Asst Director Science & Engineering.
| Manager Space Station Furnace Facility.
| Director, Mission Operations Laboratory.
| Dep Manager Super Lightweight External Tank.
| Deputy Director, Space Sci Laboratory.
| Chf Eng, Reusable Launch Vehicle Project.
| Assistant Director, Science Engineering Dir.
| Assistant to the Director, Engineering.
| Deputy Director, Engineering.
| Deputy Manager, Materials, Processes and Manufacturing Dept.
Center Operations Directorate | Director, Information Systems Services Office.
| Dir Center Operations.
| Director, Procurement Office.
| Dep Dir, Institutional & Program Support.
| Director, Facilities Office.
| Director Center Operations.
| Deputy Director, Center Operations.
Space Shuttle Projects | Manager, External Tank Project.
| Mgr Solid Rocket Booster Project.
| Manager Space Shuttle Main Engine Projects.
| Manager, Reusable Solid Rocket Motor Project.
| Chief Engineer Space Shuttle Main Engine Prog.
Global Hydrology Research Office | Manager, Global Hydrology Research Office.
| Dep Dir Science & Engineering.
| Dir. Materials & Processes Laboratory.
| Manager Microgravity Projects.
| Manager Microgravity Research Program Office.
Chandra X-Ray Observatory Program Office | Manager, Observatory Projects Office. Dep Mgr, Observatory Projects Office.
Flight Projects Directorate | Assistant to the Director, Flight Projects. Manager, Ground Systems Department. Manager, Flight Systems Department.
Space Transportation Directorate | Director, Advanced Transportation Syst Office.
| Dep Manager Space Transportation Prog Ofc.
| Manager X-33 Program.
| Manager, Vehicles and Systems Development Department.
| Manager, Technology Evaluation Department.
Technology Transfer | Director, Technology Transfer Office. Mgr. Earth & Space Sciences Projects.
Customer and Employee Relations Directorate | Director, Customer and Employee Relations. Deputy Dir, Customer and Employee Relations.
Stennis Space Center | Director Center Operations & Support Director.
| Deputy Director, NASA Stennis Space Center.
| Dep Dir NASA Stennis Space Center.
| Assoc Director for Institution.
| Director, Propulsion Test Directorate.
| Deputy Director, Propulsion Test Directorate.
| Manager, Test Management Support.
| Chief Financial Officer.
| Director, Commercial Remote Sensing Program Office.
Office of Space Communications | Chief, Communications Systems Branch.
Ground Networks | Assistant Associate Administrators (Plans).
Communications & Data Systems | Dep Dir, Ground Network Division.
Office of Public Affairs | Senior Public Affairs Advisor.
Office of Safety & Mission Assurance | Dep Assoc Adm for Safety & Mission Quality.
| Director, Programs Assurance Division.
| Mgr Intl Sp Stn Indep A & O Act.
| Technical Advisor for Sr M QA Initiatives.
| Dir, Human E & D of Space (HEDS) Indep Assur.
Safety & Risk Management | Director, Safety & Risk Management Division.
Payloads & Aeronautics | Dir, Enterprise Safety & Mission Assurance.
Engineering & Quality Management | Director, Quality Management Office.
Office of Aerospace Technology | Dep Assoc Admin for Aeronautics Mgmt.
| Dir Space Transportation Division.
| Senior Engineer.
| Director, Inter-Enterprise Operations.
Resources & Management Systems | Director, Resources Management Office.
High Performance Aircraft | Assistant Director for Program Evaluation.
High Speed Research | Director, Alliance Development Office.
National Aero-Space Plane | Assistant Dir for Aircraft Certification Serv.
Ames Research Center | Chief Financial Officer.
| Dir, National Rotorcraft Technology Center.
| Deputy Director of Information Systems.
| Manager, NASA Consolidated Supercomputing Ops.
| Deputy Director Ames Research Center.
| Assistant Director for Planning.
| Deputy Director for Space.
| Chief Systems Engineering Division.
| Assistant Director for Information Technology.
| Director, Office of Safety, Environment & Mission Assurance.
| Assistant to the Director.
| Chief, Wind Tunnel Operations Division.
| Chief, Computational Sciences Division.
| Associate Director for Astrobiology & Space Programs.
| Chief Counsel.
| Associate Director for Systems Management and Planning.
| Director of Aviation Systems Capacity Program.
Aerospace Systems | Dep Dir Flight Projects Office.
| Chief Aeronautical T & S Division.
| Chief Flight Mgmt & Human Factors Division.
| Associate Director for Aeronautics.
| Deputy Director of Aeronautics.
| Chief, Applied Aerodynamics Division.
| Chief, Aviation Systems Research Technology & Simulation.
Flight Operations | Deputy Chf, Airborne Science & Flight Res Div. Chief, Flight Operations Office.
Aerophysics | Dir Software Independent Vertication Facility. Chief, Space Technology Division. Chief, NAS Systems Division.
Space Research | Chief, Information Sciences Division. Director of Space. Chief, Life Sciences Division.
Administration | Deputy Director of Center Operations (Adm). Chief, Airborne Science & Flight Res Div. Dep Director, Center Operations Directorate.
Engineering & Technical Services | Director, Research and Development Services.
Dryden Flight Research Center | Asst Chief, Flight Operations Division.
| Director, Intercenter Aircraft Operations.
| Asst Dir for Program Integration.
| Assistant Director of Research Facilities.
| Associate Director for Operations.
| Chief Information Officer.
Flight Operations | Chf, Flight Operations Division.
Aerospace Projects | Dir Aerospace Projects Directorate. Director, Airborne Science Directorate.
Langley Research Center | Chief Atmospheric Sciences Division.
| Dir Independent Prog Assess Office.
| Dir of Education Programs.
| Assistant Director for Planning.
| Chief, Power & On-Board Propulsion Techn Div.
| Special Assistant for Outreach.
| Manager, Hyper-X Phase One Program.
| Dep Dir Indep Progr Assessment Office.
| Associate Director.
| Director.
| Special Assistant to the CFO
Aeronautics | Chief, Aeronautics Systems Analysis Div. Deputy Director, Airframe Systems Prog Office.
Space & Atmospheric Sciences | Deputy Dir, S&A Sciences Program Group. Dir, Aerospace Transportation Program Office. Chief, Space Systems and Concepts Division.
Research & Technology | Director.
| Chief Structures Division.
| Chief Information & Electromagnetic Tech.
| Chf, Flight Dynamics & Controls Division.
| Chief, Fluid Mechanics Division.
| Deputy Dir, Research & Technology Group.
| Chief Aerodynamics Division.
| Director, Research & Technology Group.
| Chief, Aero & Gas Dynamics Division.
| Chief, Materials Division.
Technology Applications | Manager Space Technologies Thrust Office.
Internal Operations | Deputy Dir, Internal Ops Group (FE & O).
| Chief Aerospace Mechanical Systems Division.
| Chief Experimental Testing Technology Div.
| Special Asst, Internal Operations Group.
| Special Assistant.
| Procurement Officer.
| Chief Aerospace Mechanical Systems Division.
| Director, Internal Operations Group.
| Chief, Simulation and Research Aircraft Div.
High-Speed Research Project | Director for High-Speed Res Project Office. Chief Engineer, High-Speed Research.
Aerospace Transportation Technology Office | Dep Dir Aerospace Trans Technol Office Dep Dir Aerospace Transportation Tech Ofc. Dir Aerospace Transport Technology Office.
Safety, Environmental & Mission Assurance | Dir, Ofc of Safety, E&M Assurance.
Comptroller | Chief Financial Officer.
Lewis Research Center | Chief, Turbomachinery & Propulsion Syst Div.
| Chief, Materials Division.
| Chief Microgravity Division.
| Special Assistant to the Director for Policy.
| Chief Financial Officer.
| Deputy Director for Operations.
| Chief, Systems Engineering Division.
| Assistant Deputy Director for Policy.
| Chief, Ultra Efficient Engine Technology Office.
Aeronautics | Chf, Internal Fluid Mechanics Division. Chf, Aeropropulsion Analysis Office. Deputy Director of Aerospace Technology. Chief, High-Speed Systems Office. Chief, Subsonic Systems Office.
Aerospace Technology | Chief, Space Propulsion Technology Division.
| Chief, Structures Division.
| Chief, Space Communications Division.
| Chief, Interdisciplinary Technology Office.
Space Flight Systems | Chief, Space Experiments Division. Deputy Director of Space Flight Systems. Chief Power Systems Project Office. Senior Advisor for Advanced Concepts.
Engineering | Chf, Electronics & Control Systems Division. Director of Engineering & Technical Services. Chief Engineer.
Technical Services | Deputy Dir of Engineering & Tech Services.
Administration & Computer Services | Chief, Computer Services Division. Dir, Adm & Computer Services Directorate.
External Programs | Director, External Programs.
Mission Safety & Assurance | Dir, Ofc of Sfty, Environml & Mission Assur.
Office of Space Science | Special Asst to the Deputy Assoc Admin. Asst Associate Admr for Technology.
Solar System Exploration | Science Program Director. Director, Mission & Payloa Development Div. Senior Program Executive for JPL Programs. Dir, Advanced Technol & Mission Studies Div.
Space Physics | Senior Program Executive for GSFC/APL Progs. Science Program Dir, Sun-Earth Connection. Sr Sci Prog Executive for Review & Evaluation. Director, Research Program Management.
Technology & Information Systems | Sr Sci Program Executive for Information Syst.
Astrophysics | Science Program Director, Galaxy & Universe. Deputy Dir Astrophysics Division. Asst Assoc Admr for Education & Outreach. Science Prog Dir, Origins & Planetary Systems.
Office of Life & Microgravity Sciences & Applications | Dir, Space Processing Division. Dir, Microgravity Sciences & Applications Div.
Life & Biomedical Sciences | Manager, Life Sciences and Technology. Dir Life & Biomedical Science & Applics Div.
Flight Systems | Chief Mission Management Branch.
Office of Inspector General | Assistant Inspector General for Auditing.
| Assist Inspector General for Investigation.
| Manager, Advanced Technology Programs.
| Assistant Inspector General for Inspections, Administrative Investigations, and Assessments.
| Counsel to the Inspector General.
| Assistant Inspector General, Network and Advanced Technology Protections Office.
Office of Space Access & Technology | Manager Systems Integration.
| Manager, Communications Experiments.
| Director, Commercial Dev & Technol Transfer.
| Manager for Propulsion Technology.
| Special Assistant for Special Projects.
Office of Earth Science | Dep Assoc Admr for Mission to Planet Earth.
| Senior Science Advisor for Intl Programs.
| Director, Mission to Planet Earth.
| Senior Engineer, Program Integration.
| Dir Applications & Outreach Division.
| Director, Business Division.
Science | Director Science Division
Goddard Space Flight Center | Dir of University Programs.
| Chief, NASA Somo Mission Services Offices.
| Associate Director/Program Manager for Explorers.
| Deputy Associate Director for EOS-G Development
| Associate Director/Program Manager for the Hubble Space Telescope (HST).
| Deputy Associate Director for Hubble Space Telescope (HST) Development.
| Deputy Director of Applied Engineering and Technology for Planning and Development.
Human Resources | Director, Management System Division. Director of Human Resources.
Comptroller | Chief Financial Officer/Comptroller.
Management Operations | Dep Dir of Management Operations. Associate Director for Acquisition.
Flight Assurance | Director of Flight Assurance. Dep Dir of Flight Assurance.
Flight Projects | Deputy Director of Flight Projects.
| Project Mgr, OPNS & Ground Systems.
| Project Mgr, Earth Observing Syst AM Project.
| Geostationary OPL Environmental Satellite PM.
| Dir of Flight Projects.
| Tracking & Data Relay Satellite TDRS Proj Mgr.
| Assoc Dir for Earth Sci Data & Info System.
| Proj Mgr, EOS-PM Proj Flight Proj Direct.
| Project Mgr, Earth Sci D&I Syst Project.
| Dep Dir Flight Projects for Plan & Bus Mgnt.
| Project Manager, POES.
| Associate Director of Flight Projects for EOS.
Applied Engineering & Technology Directorate | Deputy Asso Dir of Flight Proj Cor Net & Miss Serv Proj. Asso Dir of Flight Proj for Network & Miss Serv Proj. Deputy Director of Applied Eng & Technology. Chief Information Systems Center.
Systems, Technology and Advanced Concepts | Dep Dir of Systems, Tech & Advanced Concepts.
Space Sciences | Chief, Lab for Astronomy and Solar Physics.
| Chief, Lab for Extraterrestrial Physics.
| Director of Space Sciences.
| Chief, Goddard Institute for Space Studies.
| Chief Laboratory for High Energy Astrophysics.
| Deputy Director of Space Sciences.
Engineering | Chief Engineer. Associate Director of Flight Projects. Chief, Mechanical System Center. Chief, Systems Engineering Division. Chief Technology Commercialization Office.
Earth Sciences | Chief Lab for Hydrospheric Processes.
| Chief, Space Data and Computing Division.
| Asst Dir of Earth Sci for Projects Eng.
| Chf, Laboratory for Atmospheres.
| Deputy Director for Earth Sciences.
| Director for Earth Sciences.
| Chief Laboratory for Terrestrial Physics.
| Deputy Assoc Dir for Earth Sci D & I Syst.
| Asst Dir of Mission to P/E Prog for Globe.
Office of Policy and Plans | Director of Special Studies. Director of Special Projects.
National Archives & Records Administration:
Archivist of US Dep Archivist of the US/Chf of Staff | Deputy Archivist of the United States.
Office of Administrative Services | Assistant Archivist for Administrative Serv.
Office of the Federal Register | Director of the Federal Register.
Office of Regional Records Services | Asst Archivist for Regional Records Services.
Office of Human Resources and Information Services | Asst Archivist for Human Resources & Info Ser.
Office of Records Services—Washington, DC | Asst Archivist for Records Services.
Office of Presidential Libraries | Asst Archivist for Presidential Libraries. Director, Lyndon B. Johnson Library.
National Capital Planning Commission:
National Capital Planning Commission Staff | Executive Director. Assistant Executive Director (Management). Deputy Executive Director. Assistant Executive Director (Programs). General Counsel.
National Endowment for the Arts:
National Endowment for the Arts | Deputy Chairman for Guidelines, Panel and Council Operations. Deputy Chairman for Management and Budget. Chief Information Officer.
National Endowment for the Humanities:
National Endowment for the Humanities. | Dir, Office of Planning & Budget. Director, Office of Strategic Planning.
National Labor Relations Board:
Ofc of the Board Members | Executive Secy. Deputy Executive Secretary. Inspector General.
Div of Enforcement Litigation | Deputy Assoc. Gen. Counsel Appellate Court Br. Director, Office of Appeals.
Div of Advice | Associate Gen Counsel, Div of Advice. Deputy Assoc Gen Counsel.
Div of Administration | Director of Administration. Deputy Director of Administration. Chief Information Technology Branch.
Div of Operations Management | Assoc General Counsel, Div of Operation—Mgmt.
| Dep Asso Gen Counsel, Div of Operations—Mgmt.
| Assistant General Counsel.
| Assistant General Counsel.
| Assistant General Counsel.
| Assistant General Counsel.
| Assistant General Counsel.
| Assistant General Counsel.
Regional Offices | Regl Dir Reg 1 Boston.
| Regional Director, Reg. 2, New York.
| Regional Director, Reg. 3, Buffalo.
| Regl Dir Reg 4 Philadelphia.
| Regional Director, Reg. 5, Baltimore.
| Regional Director, Reg. 6, Pittsburgh.
| Regl Dir, Region 7, Detroit Mich.
| Regional Director, Reg. 8, Cleveland.
| Regional Director, Reg. 9, Cincinnati.
| Regl Dir Reg 10 Atlanta.
| Regl. Dir., Reg. 11, Winston Salem.
| Regional Director, Reg 12, Tampa.
| Regional Director, Reg 13, Chicago.
| Regl Dir Reg 14 St Louis.
| Regl Dir Reg 15 New Orleans.
| Regl Dir Reg 16 Ft Worth.
| Regl Dir Reg 17 Kansas City.
| Regl Dir Reg 18 Minneapolis.
| Regl Dir Reg 19 Seattle.
| Regional Dir, Reg. 20, San Francisco.
| Regional Director, Reg 21, Los Angeles.
| Regional Director Reg 22 Newark.
| Regional Director Reg 24 Hato Rey Puerto Rico.
| Regl Dir, Reg 25, Indianapolis.
| Regl Dir Reg 26 Memphis.
| Regl Dir Reg 27 Denver.
| Regl. Dir, Reg. 28 Phoenix.
| Regl Dir Reg 29 Brooklyn.
| Regl Dir Reg 30 Milwaukee.
| Regl. Dir., Reg 32, Oakland.
| Regional Director, Reg. 33 Peoria, ILL.
| Regl Dir Reg 31 Los Angeles.
| Regional Director Reg 34 Hartford.
National Science Foundation:
Office of the Director | Senior Advisor.
Office of Integrative Activities | Senior Science Advisor. Senior Scientist.
Office of the General Counsel | Deputy General Counsel.
Office of Polar Programs | Head Polar Research Support Section.
Office of the Inspector General | Inspector General. Dep Inspector Gen & Senior Legal Advisor. Associate Inspector General for Efficiency. Associate Inspector General for Scientific Integrity.
National Science Board | Senior Policy Officer.
Directorate for Geosciences | Senior Science Associate for Spatial Data and Information. Sr Science Assoc for Geosciences Education.
Division of Atmospheric Sciences | Head, Upper Atmosphere Section. Head Lower Atmosphere Section.
Division of Earth Sciences | Head Major Projects Section. Head Research Grants Section.
Division of Ocean Sciences | Head Ocean Sciences Research Section.
Division of Engineering Education & Centers | Deputy Division Director (Education). Senior Staff Associate.
| Senior Engineering Advisor.
Division of Design, Manufacture & Industrial Innovation | Senior Advisor, Technology Integration. Senior Advisor.
Division of Civil and Mechanical Systems | Senior Advisor.
Directorate for Biological Sciences | Deputy Assistant Director.
Division of Environmental Biology | Deputy Division Director.
Directorate for Mathematical and Physical Sciences | Executive Officer. Special Assistant to the Assistant Director.
Division of Physics | Executive Officer.
Division of Astronomical Sciences | Executive Officer.
Division of Mathematical Sciences | Executive Officer.
Division of Materials Research | Executive Officer. Senior Staff Scientist.
Directorate for Education & Human Resources | Deputy Assistant Director. Dep Asst Dir for Integrative Activities.
Division of Research, Evaluation Communication | Senior Advisor for Research.
Directorate for Social, Behavioral and Economic Sciences | Executive Officer. Senior Advisor.
Division of International Programs | Deputy Division Director. Senior Staff Associate. Head, Office of Trans-Regional Affairs.
Directorate for Computer & Info Science & Engineering | Chief Science & Technology Officer. Executive Officer. Senior Scientist.
Division of Computer-Communications Research | Dep Division Director.
Office of Budget, Finance and Award Management | Director, BFZ and CFO. Deputy Chief Financial Officer Executive Officer.
Budget Division | Division Director.
Division of Financial Management | Division Director and Deputy CFO.
Division of Grants & Agreements | Division Director.
Division of Contracts, Policy & Oversight | Division Director.
Office of Information and Resource Management | Deputy Director, OIRM and Deputy CIO.
Division of Information Systems | Dep Dir, Div of Information Systems.
Division of Human Resource Management | Division Director. Deputy Division Director.
Division of Administrative Services | Division Director Deputy Division Director.
National Transportation Safety Board:
Office of the Managing Director | Deputy Managing Director. Assoc Managing Dir Safety & Development. Assoc Managing Director for Quality Assurance.
Office of Aviation Safety | Director Ofc of Aviation Safety. Dep Dir, International Aviation Safety Affairs. Deputy Director, Tech and Inv Operations.
Office of Research & Engineering | Dir Ofc of Research and Engineering. Deputy Dir Ofc of Research and Engineering.
Office of Chief Financial Officer | Chief Financial Officer.
Office of Safety Recommendations and Accomplishments | Dir Ofc of Safety Recommendations & Accomplis.
Nuclear Regulatory Commission:
Nuclear Regulatory Commission | Dir Division of Budget and Analysis.
Atomic Safety and Licensing Brd Panel | Chief Administrative Judge. Deputy Chief Administrative Judge (Executive).
Office of the Chief Information Officer | Dir, Applications Development Division. Dir, Information Technology Infrastructure. Director, Information Mgmt Division. Director, Plannning & Resource Mgmt Division.
Office of Chief Financial Officer | Dir, Division of Accounting and Finance. Special Assistant for Internal Controls. Deputy Chief Financial Officer.
Office of the Inspector General | Asst Inspector General for Audits. Deputy Inspector General. Assistant Inspector Gen for Investigations.
Deputy GC for Licensing & Regulation | Deputy Assistant GC/Legislative Counsel.
Dep GC for Hearings, Enforcement & Administration | Deputy Assistant GC for Administration.
Assistant GC for Hearing and Enforcement | Dep Asst GC for Mtrls, Antitrust, & Sp. Deputy Assistant General Counsel. Deputy Assistant GC for Mtrls, Antitrust & Sp. Chief Nuclear Waste Management Branch.
Office of Commission Appellate Adjudication | Dir Ofc of Comm Appellate Adjudication.
Division of Operational Assessment | Deputy Director, Div Incident Response. Special Assistant to the Director.
Division of Safety Programs | Chief Reactor Analysis Branch. Chf Reliability & Risk Assessment Branch.
Office of Administration | Director Div of Contracts & Prop Mgmt. Director, Div of Security. Dir, Div of Administrative Services.
Office of Human Resources | Special Assistant.
Ofc of Small and Disadv Bus Utilization/Civil Rights | Director.
Office of Nuclear Reactor Regulation | Proj Dir Project Directorate II 1.
Division of Inspection and Support Programs | Dir, Inspection & Support Programs. Chf, Inspection Program Branch. Chf, Special Inspections Branch.
Division of Reactor Projects I/II | Project Dir, Project Directorate I-1.
| Project Director, Project Directorate I-2.
| Project Director, Project Directorate I-4.
| Proj Dir Project Directorate II 2.
| Proj Dir Project Directorate II 2.
| Project Dir Project Directorate II 3.
| Deputy Dir, Div of Reactor Project I/II.
Division of Reactor Projects III/IV | Chf, Technical Specification Branch.
| Proj Dir Project Directorate III 1.
| Proj Dir Project Directorate III 2.
| Proj Director Project Directorate III 3.
| Proj Dir, Project Directorate IV-1.
| Chf, Events A & G Communications Sp Insp Brch.
| Proj Dir, N-P Reactor, D & E Proj Directorate.
| Project Dir, Proj Directorate IV-2.
| Chief, Generic Issues & Envir Proj Branch.
Division of Engineering | Chief, Materials & Chemical Engineering Br. Chf, Mechanical Engineering Branch. Chief Civil Eng & Geosciences Branch. Chief Electrical Engineering Branch.
Division of Systems Safety & Analysis | Chf, Plant Systems Branch. Chf, Reactor Systems Branch. Chief, Probablistic Safety Assessment Branch. Chief, Containment Sys & Severe Accident Branch.
Division of Reactor Controls and Human Factors | Chf, Human Factors Assessment Branch. Chf, Human Factors Assessment Branch. Chf, Operator Licensing Branch. Chf, Instrumentation & Control Branch. Chf, Quality Assur & Maint Branch. Project Dir Project Directorate I-3.
Division of Reactor Program Management | Chf, Chf, Emergency P & R Protection. Chf, Safeguards Branch. Project Dir, Standardization Proj Directorate. Proj Dir License Renewal & Environmental Rev. Special Assistant to the Director.
Office of Nuclear Material Safety and Safeguards | Deputy Director, Spent Fuel Project Ofc. Chief Transportation & Storage Safety.
Division of Fuel Cycle Safety & Safeguards | Chief,Operations Branch. Chief, Regl & Intl Safeguards Branch. Chief Special Projects. Chief, Licensing Branch.
Div of Industrial & Medical Nuclear Safety | Chief, Operations Branch Chief, Medical, Acod & Com Use Sfty Branch.
Division of Waste Management | Chf, High Level Waste & Uranium Recovery Proj. Chief, Perf Assess & Hydrology Branch. Chief, Engineering & Geosciences Branch. Deputy Dir, Prog Mgmt Policy Devel & Analysis. Chf, Low Level Waste & Decommissioning Proj.
Ofc of Nuc Regulatory Research | Director: Fin Mgt, Procurement & Admin Staff. Director for Inspector Special Projects.
Divison of Engineering Technology | Chief, Generic Safety Issues Branch. Chief, Elect, M & M Engineering Branch. Chief, Structural & Geological Eng Branch.
Division of Regulatory Applications | Chief, Regulation Development Branch. Chief Waste Management Branch.
Divison of Systems Technology | Chf, Chief Accident Evaluation Branch. Chf, Probabilistic Risk Analysis Branch. Chf, Radiation Protection & Health Effects Br. Chief, Reactor and Plant Systems Branch. Chief, Control Instr & Human Factors Branch.
Region I | Deputy Regional Administrator.
| Dir, Div of Nuclear Materials Safety.
| Deputy Director, Division of Reactor Projects.
| Director Division of Reactor Safety.
| Director, Division of Reactor Projects.
| Dep Dir, Div of Reactor Safety.
| Dep Dir, Div of Nuclear Materials Safety.
| Director, Millstone Inspection Directorate.
Region II | Deputy Regional Administrator Region II.
| Dir, Div of Nuclear Materials Safety.
| Deputy Director, Division of Reactor Projects.
| Director, Division of Reactor Projects.
| Director, Division of Reactor Safety.
| Dep Dir, Div of Reactor Safety.
Region III | Director, Division of Reactor Safety.
| Director, Division of Reactor Projects.
| Dep Regional Administrator Region III.
| Dir, Div of Nuclear Materials Safety.
| Deputy Director Division of Reactor Projects.
| Dep Dir, Div of Reactor Safety.
| Dep Dir, Nuclear Materials Safety.
Region IV | Deputy Regional Administrator Region IV.
| Deputy Director, Div of Reactor Projects.
| Director Div of Reactor Projects.
| Dir, Div of Nuclear Materials Safety.
| Dir, Division of Reactor Safety.
| Dep Dir, Division of Reactor Safety.
Office of Government Ethics:
Office of Government Ethics | Deputy, Director. Deputy Dir., for Government R & S Projects. Senior Assoc Director for Agency Programs.
Office of Management and Budget:
Office of the Director | Deputy, Associate Dir for Economic Policy. Senior Advisor to the Dep Dir for Management.
Legislative Reference Division | Asst Dir Legislative Reference. Chief, Economics, Science & Govt. Branch. Chief, Resources-Defense-International Branch. Chief, Labor, Welfare, Personnel Branch. Associate General Counsel for Budget.
Office of Federal Procurement Policy | Dep Admin for Procurement Law & Legislation.
Office of Information and Regulatory Affairs | Chief, Information Policy & Technology Branch. Chief, Human Resources and Housing Branch. Chief, Commerce and Lands Branch. Chief Statistical Policy Branch. Chief, Natural Resources Branch. Senior Advisor.
Office of Federal Financial Management | Chief Management Integrity Branch. Deputy Controller. Chief Federal Financial Systems Branch. Senior Advisor to the Director.
Budget Review Division | Dep Asst Dir for Budget Review & Concepts.
| Dep Chief Budget Analysis Branch.
| Chief Budget Analysis Branch.
| Asst Dir for Budget Review.
| Dep Asst Dir for Budget Analysis & Systems.
| Chief, Budget Concepts Branch.
| Chief, Budget Systems Branch.
International Affairs Division | Chief, State—USIA Branch. Chief, Economic Affairs Branch. Dep Assoc Dir for Internatl Affairs.
National Security Division | Chief, Command, Ctrl, Coms, & Intellig Branch. Chief, Force Structure & Investment Branch. Dep Assoc Dir for National Security. Chief Operations Sup Branch.
Associate Director for Educ, Income Maintenance & Labor | Chief, Labor Branch. Chief, Education Branch. Dpt Assoc Dir for Ed, Income Maint & Labor. Chf, Income Maintenance Branch.
Transportation, Commerce, Justice & Services Division | D/A for Transp Commerce, Justice & Services. Chief Commerce Branch, Chief Transport Branch. Chief, Justice/GSA Branch.
Housing, Treasury and Finance Division | Deputy Assoc Dir for Housing Treasury Finance. Chief, Treasury Branch. Senior Advisory for Cash & Credit Mgmt. Chief, Financial Institutions Branch. Chief, Housing Branch.
Assoc Dir for Natural Resources, Energy, and Science | Senior Advisor.
Natural Resources Division | Dep. Associate Dir. for Natural Resources. Chief, Agricultural Branch. Chief, Environmental Branch. Chief Interior Branch.
Energy and Science Division | Chief, Water and Power Branch. Chief Science and Space Programs Branch. Dep. Assoc. Dir for Energy & Science. Chief, Energy Branch.
Health Division | Deputy Associate Director for Health. Chief Health Programs & Services Branch. Chief Health & Financing Branch. Chief, Health & Human Services Branch.
VA/Personnel Division | Chf Veteran Affairs Branch. Deputy Assoc Director for VA & Personnel. Chief, Personnel, Portal, EXOP Branch.
Office of the Chief Financial Officer | Chief Financial Officer. Dep Chf Fin Ofc/Asst Dir for Financial Mgmt.
Office of the Inspector General | Deputy Inspector General. Asst Inspector General for Audits. Assistant Inspector Gen for Investigations. Deputy Aig for Audits.
Retirement and Insurance Service | Asst Dir for Retirement Programs. Director, Office of Acturaries. Asst Dir for Insurance Program.
Employment Service | Director, Personnel Res & Development Center. Director, Staffing Automation. Senior Advisor. Special Assistant to the Associate Director.
Office of Workforce Relations | Director, Office of Workforce Relations. Dir Ctr for Partnership/Labor Mgmt Relations. Assistant Dir for Human Resources Development.
Investigations Service | Director, Fed Investigation Systems.
Office of the Chief Information Officer | Chief Information Officer.
Office of Contracting and Administrative Services | Director of Contracting & Administrative Serv.
Office of Merit Systems Oversight and Effectiveness | Asst Dir for Merit Systems Oversight.
Office of Special Counsel:
Headquarters, Office of Special Counsel | Assoc Special Counsel (Prosecution). Assoc Spec Counsel (Investigation). Deputy Associate Spec Counsel for Prosecution. Assoc Special Counsel for Disclosure and Complaints Examination. Director for Management. Assoc Special Counsel Planning and Oversight. Associate Special Counsel for Plan & Advice.
Railroad Retirement Board:
Board Staff | Chief of Technology Service.
| Director of Hearings and Appeals
| Chief Actuary
| Director of Field Service.
| Director of Administration.
| Deputy General Counsel.
| Asst Inspector General for Investigations.
| Chief Financial Officer.
| Assistant Inspector General for Audit.
| Director of Taxation.
| General Counsel.
| Director of Programs.
| Chief Information Officer.
| Dir of Operations.
| Dir of Policy & Systems.
| Director of Fiscal Operations.
Securities and Exchange Commission:
Office of the Chief Accountant | Dep Chf Accountant.
Office of the Executive Director | Associate Executive Director (Finance). Associate Executive Director (Administration).
Div of Corporation Finance | Associate Director (Operations). Associate Director (Legal).
Small Business Administration:
Office of the Inspector General | Asst Inspector General for Auditing. Asst Inspector for Investigations. Deputy Inspector General. Assistant Inspector Gen/Inspection & Eval. Asst Inspection General for Magnt Legal Cousl.
Office of the General Counsel | Associate General Counsel for General Law. Assoc Gen Counsel Litigation. Assoc Gen Counsel for Financial Law.
Office of Equal Employment O & C Rights Compliance | Asst Admr for Equal Employ O & C Right Compl.
Office of Hearings and Appeals | Asst Administrator for Hearings and Appeals.
Office of the Chief Financial Officer | Deputy Chief Financial Officer.
Office of Economic Development | Dep to the Admin for Capital Access.
Office of Financial Assistance | Assoc Administrator for Financial Assist. Dep Assoc Admr for Financial Assistance. Asst Admr for Borrower and Lender Servicing.
Office of Surety Guarantees | Assoc Administrator for Surety Guarantees.
Office of Government C & M Enterprise Development | Associate Administrator for Procurement Policy and Liaison.
Office of Minority Enterprise Development | Assoc Admin for Minority Small Bus Cap Owners.
Office of Entrepreneurial Development | Deputy to the Ada for Entrepreneurial Dev.
Office of Information Resource Management | Chief Information Officer.
Office of Human Resources | Asst Administrator for Human Resources.
District Directors | District Director. District Director. District Director. District Director. District Director. District Director. District Director. District Director.
Social Security Administration:
Office of the Inspector General | Deputy Inspector General. Counsel to the Inspector General.
Office of Investigations | Asst Inspector General for Investigations. Dep Asst Inspector General for Investigations.
Office of Audits | Asst Inspector Gen for Audits. Dep Asst Inspector General for Audits.
Office of Actuary | Chief Actuary. Deputy Chief Actuary (Long-Range). Deputy Chief Actuary (Short-Range).
Office of Human Resources | Dir Ofc Labor-Management Employee Relations.
Office of Finance, Assessment & Management | Senior Financial Executive.
Office of Financial Policy and Operations | Assoc Comr, Office of Fin Policy & Operations. Dep Assoc Comm Financial Policy & Operations.
Office of Acquisition and Grants | Assoc Commissioner for Acquisition & Grants.
Office of Telecommunications and Systems Operations | Assoc Comm for Telecommunications & Sys Oper. Deputy Associate Commissioner for T&SO. Dep Assoc Commr for T & S Ops (Telecomm).
Division of General Law | Associate General Counsel for General Law.
Department of State:
Office of the Inspector General | Assistant Inspector General for Audits.
| Asst Inspector General for Investigations.
| Counsel to the Inspector General.
| Dep Asst Inspector General for Audits.
| Asst Insp Gen for Policy, Plng and Management.
| Dep Asst Inspector Gen for Inspections.
| Deputy Inspector General.
| Asst Inspector Gen for Security Oversight.
| Senior Inspector—Thematic Review.
Bureau of Intelligence and Research | Executive Director.
Bureau of Administration | Director, Office of Acquisitions.
Bureau of Personnel | Director, Ofc of Civil Service Personnel Mgmt. Ses Long Term Training.
Bureau of Arms Control | Office Director. Office Director. Office Director. Office Director. Deputy Asst. Secretary.
Bureau of Nonproliferation. | Office Director.
Department of Transportation:
Office of Inspector General | Deputy Inspector General. Senior Counsel. Associate Deputy Inspector General. Assistant Inspector General for Rail, Transit, and Special Program Audits.
Assistant Inspector General for Auditing | Asst Insp General for Auditing.
Office of Finance, Economic and Information Technology | Depty Asst Inspector General.
Office of Aviation | Dep Asst Inspector General.
Office of Highways and Highway Safety | Deputy Assistant Inspector General for Highways & Highway Safety.
Assistant Inspector General for Investigations | Asst Inspector General for Investigations. Dep Asst Inspector General for Investigations.
Assistant Inspector General for Maritime & Departmental Programs | Deputy Asst Inspector General.
Asst Secretary for Budget & Programs | Deputy Chief Financial Officer.
Asst Sec for Administration | Asst Secy for Administration. Senior Procurement Executive.
Assoc Admr for Safety | Assoc Admr for Safety.
Office of Safety Enforcement | Director, Office of Safety Enforcement.
Associate Administration for Pipeline Safety | Assoc Admr for Pipeline Safety.
Office of Shipyard Revitalization | Dir Ofc of Shipyard Revitalization.
Ofc of Assoc Admr for Ship Financial A & C Prefernce | Assoc Admr for Ship fin A & C Preference.
Office of the Administrator | Senior Advisor.
Federal Highway Administration | Executive Director.
Office of Fiscal Services | Dir Ofc of Budget & Finance.
Office of Motor Carrier Standards | Director, Office of Research and Standards.
Office of Real Estate Services | Dir Ofc of Real Estate Services.
Motor Carrier and Highway Safety | Director, Office of Motor Carrier Enforcement.
Research, Development and Technology | Director, Office of Safety RD&T.
Associate Administrator for Safety Assurance | Associate Administrator for Safety Assurance.
Ofc of Defects Investigation | Dir-Ofc of Defects Investigation.
Ofc of Vehicle Safety Comp | Dir-Ofc of Vehicle Safety Compliance.
US Coast Guard | Deputy Assistant Commandant for Acquisition.
Office of the Chief of Staff | Director of Finance and Procurement.
Surface Transportation-Board | Director of Economics, Environmental A & A.
Office of Proceedings | Deputy Director—Legal Analysis.
Department of Treasury:
Assistant Secretary (International Affairs) | Dir Ofc of Foreign Exchange Operations.
Under Secretary for Domestic Finance | Director, Office of Procurement.
Fiscal Assistant Secretary | Fiscal Assistant Secretary. Deputy Assistant Secretary for Fiscal Operations and Policy Dep Asst Secretary Accouting Operations
Financial Management Service | Dir, Regional Financial Center (Chicago).
| Director, Regl Fin Ctr (San Francisco).
| Director, Regl Fin Ctr (Austin).
| Comptroller.
| Director Platform Services Directorate.
| Assistant Commissioner, Governmentwide Accounting.
| Commr of Financial Management Service.
| Asst Commissioner, Information Resources.
| Assistant Commissioner, Federal Finance.
| Director Operations Group.
| Dep Com Financial Management Service.
| Asst Comr, Management (Chief Fin Ofcr).
| Director Systems 90 Implementation.
| Director, Systems Management Directorate.
| Assistant Commissioner (Agency Services).
| Deputy, Chief Information Officer.
| Chief Accounting Officer.
| Assistant Commissioner, Financial Operations.
| Assistant Commissioner Debt Management Sercs.
Bureau of the Public Debt | Commissioner.
| Dep Commr of the Public Debt.
| Asst Commissioner (Savings Bond Operations).
| Asst Commr (Financing).
| Asst Commr (Administration).
| Executive Director.
| Government Securities Policy Advisor.
| Asst Commr/Securities & Accounting Services.
| Assistant Commissioner (Office of Informaiton Technology).
| Asst Commissioner (Public Debt Accounting).
Assistant Secretary (Enforcement) | Dep Dir, Financial Crimes Enforcement Network
| Director Fincen.
| Executive Assistant Director, Fincen.
| Assoc Dir, Ofc of Mgmt/Chf Fin Ofcr, Fincen.
| Senior Advisor to the Asst Secy (Enforcement).
| Dir Exe Ofc for Asset Forfeiture.
Bureau of Alcohol, Tobacco and Firearms | Special Agent in Charge (NY Field Division)
| Spec Agen in Charge (Washington Field Div).
| Assistant Director (Inspection).
| Dep Asst Dir (Liaison & Public Information).
| Dep Assoc Dir Reg Enforcement Field Operation.
| Deputy Asst Director (Inspection).
| Deputy Asst Dir (CE Field Operations)—East.
| Deputy Asst Dir (CE Field Operations)—West.
| Asst Dir (Science & Technology).
| Asst Dir (Field Operations).
| Deputy Asst Dir (Field Operations).
| Deputy Asst Dir (Science & Technology).
| Director Laboratory Services.
| Deputy Director.
| Asst Dir (Firearms Explosives & Arson).
| Asst Dir (Alcohol & Tobacco).
| Deputy Asst Director (Alcohol & Tobacco).
| Dep Asst Dir (Firearms Explosives Arson).
| Asst Dir (Liaison & Public Information).
Chief Counsel | Associate Chief Counsel (Admin & Ethics).
US Customs Service | Dir, International Trade Compliance Division.
| Dir Ofc of Regulatory Audit.
| Special Agent in Charge, Miami.
| Director, Investigative Operations Division.
| Dir, Applied Technology.
| Special Agent in Charge—New York.
| Special Agent in Charge—Los Angeles.
| Deputy Assistant Commissioner, Internal Affairs.
| Regional Special Agent in Charge (SAIC).
| Regional Special Agent in Charge (SAIC).
| Regional Special Agent in Charge (SAIC).
| Dir Customs Management Center New York.
| Area Dir, Newark.
| Dir Customs Management Center N Atlantic.
| Asst Commissioner, Field Operations.
| Dir Customs Management Center Gulf.
| Dir Customs Management Center Mid-America.
| Dir Customs Management Center—S. Texas.
| Dir Customs Management Center—Mid Pacific.
| Project Executive.
| Asst Commissioner, Regulations & Rulings.
| Dir Strategic Trade Center Chicago.
| Deputy Asst Commissioner (Investigations).
| Area Director, JFK Airport.
| Asst Commissioner Chief Information Officer.
| Dir Customs Management Center South Florida.
| Special Agent in Charge (New Orleans).
| Director, Public Affairs.
| Dep Dir, Ofc of Regulatory Audit.
| Director, Investigative Programs.
| Asst Commissioner, Investigations.
| Director Strategic Trade Center-Plantation.
| Dir Laboratories & Scientific Services.
| Project Executive.
| Chief Operations Officer.
| Special Agent in Charge—Boston.
| Deputy Assistant Commissioner, Field Operations.
| Director Budget.
| Exec Dir The Interdiction Committee.
| Assistant Commissioner, Finance.
| Executive Director, Mission Support Service.
| Project Executive.
| Dir Tariff Classification Appeals Division.
| Dir Strategic Trade Center Long Beach.
| Processes and Policy Executive.
| Director, OFC of Air Interdiction.
| Special Agent in Charge (Houston).
| Dir Customs Management Center—S California.
| Dir Office of Planning.
| Director, Strategic Trade Center Operations.
| Director, Budget Division.
| Executive Dir4ector Customs Management Center.
| Dir Customs Management Center South Pacific.
| Director, Strategic Trade Center.
| Project Exec (Dir Intervention Management).
| Associate Executive Director (West).
| Director, Administration Policy & Planning.
| Asst Commissioner, Strategic Trade.
| Special Agent-In-Charge (San Diego).
| Technology Manager.
| Asst Commissioner, Human Resources Mgmt.
| Regional Special Agent in Charge.
| Director, Ofc of Automated Commercial Systems.
| Associate Executive Director, East.
| Assistant Commissioner, Office of Training and Development.
| Director, Infrastructure Division.
| Director, Management Inspection.
| Special Agent-in-Charge—Dallas.
| Associate Executive Director, Central.
| Deputy Chief Financial Officer.
| Special Agent in Charge—El Paso.
| Special Advisor (Enforcement).
Customs Chief Counsel | Associate Chief Counsel (Miami).
| Associate Chief Counsel (Chicago).
| Associate Chief Counsel (New York).
| Associate Chief Counsel Enforcement.
| Assoc Chief Counsel (Trade Tariff & Leg).
| Associate Chief Counsel (Houston).
| Assoc Chief Counsel (Administration).
| Associate Chief Counsel (Los Angeles).
Secret Service | Director of the Secret Service.
| Deputy Director U.S. Secret Service.
| Asst Director, Investigations.
| Asst Dir (Protective Operations).
| Asst Dir (Protective Research).
| Assistant Director, Administration.
| Assistant Director Inspection.
| Dep Asst Dir (Protective Operations).
| Spec Agent in Charge—Presidential Protective.
| Special Agent in Charge, New York Office.
| Special Agent in Charge, Chicago.
| Special Agent in Charge, Los Angeles Office.
| Dep. Asst. Dir. (Protective Research).
| Assistant Director—Training.
| Asst Director—Govt Liaison and Public Aff.
| Spec Agent in Charge—VP Protect Div.
| Spec Agent in Charge—Tech Sec Div.
| Spec Agent in Charge—Intelligence Div.
| Spec Agent in Charge—Washington Field Office.
| Spec Agent in Charge—Philadelphia Field Office.
| Special Agent in Charge, Dallas Field Office.
| Deputy Asst Dir Investigations.
| DAD—Administration.
| Deputy Special Agent in Charge Pres Prot Div.
| DAD (Uniformed Forces, F & E Dev), Ofc Trng.
| Dep Special Agent in Charge—PPD White House.
| Special Agent in Charge—Houston Field Ofc.
| Deputy Assistant Director—Technology.
| Deputy Asst Director Office of Inspection.
| Spec Agent in Charge—Miami Field Office.
| Deputy Special Agent in Charge—VP Prot Div.
| Dep Asst Dir Protective Operations.
| Chf, Info Resources Management Division.
| Spec Agent in Charge—Atlanta Field Office.
| Deputy Asst Dir Protective Operations.
| Special Agent in Charge.
Ofc of the Inspector General | Dep Asst Inspector Gen for Audit (Fin Mgmt).
| Dep Insp Gen Investigation (DAIGI) Tid.
| Counsel to the Inspector General.
| Assistant Inspector General for Management Services.
| Assistant Inspector General for Audit.
| Dep Asst Inspect General for Audit Prog Audit.
| Dep Asst Inspector Gen for Investigations.
| Asst Inspector General for Investigations.
Office of the General Counsel | Chief Counsel.
Inspector General for Tax Administration | Regional Inspector, Southwest Reg.
| Regional (Inspector General for Tax Administration—SE).
| Assistant Inspector General for Management Services.
| Associate Inspector General for Audit.
| Associate Inspector General for Audit (Wage and Investment).
| Associate Inspector General for Audit (Small Business and Tax Exempt).
| Deputy Inspector General for Audit.
| Deputy Inspector General for Tax Administration.
| Associate Inspector General for Investigation (Investigative Support).
Assistant Secretary (Economic Policy) | Sr Economist.
Assistant Secretary (Tax Policy) | Dir (Economic Mod & Computer Applications).
Assistant Secretary (Management) | Director, Office of Procurement. Deputy Chief Financial Officer.
United States Mint | Assiciate Dir. Information Resources/CIO. Chief Technology Officer. Associate Director for Circulating. Dep Assoc Dir for Financial & Dep Chief Fin Ofc. Associate Director for Marketing. Assoc Dir For Pol & Mgmt Chf Fin Officer.
Internal Revenue Service | Regional Commissioner, Northeast.
| Regional Commissioner, Southeast.
| District Dir, Los Angeles.
| District Director, New Jersey.
| District Director, Illinois.
| District Dir, Manhattan.
| District Dir, Brooklyn.
| District Director, New England.
| District Director, S Texas.
| District Director, N Texas.
| District Director, Kansas-Missouri.
| District Director, Michigan.
| District Director, N California.
| District Director, Georgia.
| National Director, Tax Forms and Publications.
| Dir Martinsburg Computing Center.
| Dir, IRS Data Center Detroit.
| Service Center Director, Memphis.
| Dir Service Ctr Cincinnati.
| Service Center Dir, Philadelphia.
| Service Center Director, Andover, Mass.
| Srvc Ctr. Dir, Brookhaven.
| Srvc Ctr. Dir., Kansas City.
| Service Center Dir, Ogden.
| SRVC Ctr Dir, Atlanta.
| District Director, Connecticut-Rhode Island.
| District Director, N Central.
| District Director, Upstate NY.
| District Director, North-South Carolina.
| District Director, Indiana.
| District Director, Kentucky-Tennessee.
| District Director, Pacific-Northwest.
| District Director, Arkansas-Oklahoma.
| District Director, Gulf Coast.
| District Director, Ohio.
| District Director, Midwest.
| District Director, Virginia-West Virginia.
| District Director, Southwest.
| District Director, Rocky Mountain.
| Assistant District Director, Illinois.
| Assistant District Director, Manhattan.
| Asst District Dir, Los Angeles.
| Assistant District Director, N California.
| Asst District Director, New England.
| Assistant District Director, N Texas.
| Assistant District Director, Delaware-Maryland.
| Regional Dir of Appeals North Atlantic Region.
| Regional Director of Appeals-Western Region.
| Regional Inspector Western Region.
| Natl Dir, Equal Opportunity & Diversity.
| Assistant District Director, Georgia.
| Controller National Dir for Financial Mgmt.
| Director, Technical Contract Management Division.
| Deputy Assistant Commissioner (Procurement).
| Director, Submission Processing Division.
| National Director, Commissioner's Review Group.
| Assistant to the Commissioner.
| Director, Exempt organizations Rulings and Agreements.
| Commissioner, Tax Exempt & Government Entities Division.
| District Director, Delaware-Maryland.
| Assistant Commissioner (Service Center Operations).
| Asst Deputy Commissioner (Modernization).
| Dir Exempt Organizations Technical Division.
| D/Employee Plans Tech & Actuarial Division.
| District Director, South Texas.
| National Director for Financial Management.
| Director, Legislative Affairs Division.
| Director, Statistics of Income Division.
| Dep Asst Commr (Criminal Investigation).
| Director, Submission Processing Center, Memphis.
| Director, Customer Service Center—Cincinnati.
| Assistant Service Center Director, Fresno.
| Director, Customer Service Center—Brookhaven.
| Director, Submission Processing Center—Kansas City.
| Director, Customer Service Center—Ogden.
| Deputy Chief, Customer Service Field Operations (Atlanta).
| Asst District Director Buffalo.
| Deputy Division Commissioner, Large and Mid-size Business.
| Regional Director of Appeals.
| Regional Director of Information Systems, Mid States.
| Asst Comr (Electronic Tax Administration).
| National Director for Financial Analysis.
| Assistant District Director—New Jersey.
| Assistant District Director, Southwest.
| Project Director.
| Regional Chief Customer Service, Northeast.
| Privacy Advocate.
| Assistant Commissioner (Is National Operations).
| District Director, Central-California.
| Assistant Service Center Director, Austin.
| Asst Service Center Director, Philadelphia.
| National Director of Appeals.
| Director of Investigations, Eastern Area OPS.
| Dir of Investigations.
| Dir of Investigations, Southern Area of OPS.
| Director, Office of National Operations.
| Director of Support Services, Northeast.
| Director of Support Services, Midstates.
| Director of Support Services, Southeast.
| Natl Dir for Communication Education Quality.
| Asst District Director, Kentucky-Tennessee.
| Chief Compliance, Northeast.
| Chief Compliance.
| Dir, Customer Serv Compliance & Mgmt Sys Div .
| Associate Inspector General for Audit (Information System and Financial Mgmt).
| District Director, Pennsylvania.
| Assistant Service Center Director, Ogden.
| National Dir, Customer Service Operations.
| Regional Director of Information Systems—Western.
| Assistant District Director, Houston.
| Service Center Director, Austin.
| District Director, Houston.
| Dir of Investigations, Central Area of Ops.
| Deputy Executive Officer for Customer Service.
| Project Director.
| Deputy Chief Financial Officer.
| Chief Communications and Liaison.
| Special Assist to Chief Mgmt & Administration.
| Exec Asst to the Natl Dir Ofc of Quality.
| Director of Procurement.
| Dean School of Information Technology.
| Dean School of Professional Development.
| Deputy Commissioner (Operations).
| Dir Ofc of Media Relations.
| Natl Director, Strategic Planning Division.
| District Director, North Florida District.
| Deputy National Taxpayer Advocate.
| National Director, Telephone Operations.
| Project Dir Disciplinary Action Review.
| Natl Dir, Submission Processing Division.
| Assistant District Director, S California.
| Asst Commissioner (Collections).
| Director, Submission Processing Center, Fresno.
| Executive Ofcr for Service Center Operations.
| Natl Dir Real Estate Planning & Management.
| Assistant District Dir, Central California.
| Director, Collection Redesign.
| Regional Director of Information Systems-Southeast.
| Director, of Systems Life Cycle S&E.
| Director, Systems Support Division.
| Executive Director, Modernization Design.
| Assistant Commissioner (is Field Operations).
| Project Director, Customer Service Site.
| Director, Customer Service Center—Andover.
| Natl Director Corporate Examinations.
| Regional Director of Information Systems, Ne.
| Assistant Director Dir, north-South Carolina.
| Regional Chief Customer Service, Midstates.
| Regional Chief Customer Service, Western.
| Director, Chief Customer Service Western.
| Director, Customer Service Center—Atlanta.
| Director, Submission processing Center—Philadelphia.
| National Dir, Customer Serv Planning & Syst.
| Director, Tennessee Computing Center.
| National Director, Tax Refund Fraud.
| Asst District Director, Ohio.
| National Director Personnel.
| District Director, S Florida.
| Project Director.
| Assistant Service Center Director, Cincinnati.
| Director, Submission Processing Center—Brookhaven.
| Assistant Commissioner (Product Assurance).
| Assistant Commissioner (International).
| Project Director.
| Asst District Director, Rocky Mountain.
| Executive for Service Center Customer Service and Support.
| Asst Dist Dir, Virginia-West Virginia.
| Assistant Disrict Director—Pennsylvania.
| Assistant District Director—Manhatan.
| Director, Submission Processing Center—Ogden.
| Assistant Director Operations (Customer Service Center—Atlanta).
| Deputy National Dir of Appeals.
| Regional Commissioner, Midstates.
| Project Director.
| Director, Program and Project Manager Division.
| Deputy Chief Operations Officers.
| Director, Architecture Division.
| Dep Chief Info Officer (Infro Resources Mgmt).
| Chief Compliance, Western.
| National Director of Quality.
| Asst Comr (Forms & Submission Process).
| Diector, Submission Processing Center—Austin.
| Regional Director of Appeals Midstates.
| National Director, Compliance Specialization.
| Dean School of Taxation.
| National Director Speciality Taxes.
| Regional Chf Compliance, Midstates.
| Customer Service Transition Executive.
| Assistant Commissioner Office of Program E&R Analysis.
| National Dir, Electronic Program Operations.
| National Director, Communications.
| Director, Security Standards and Evaluation Office.
| Project Director.
| Director, Telecommunications and Operations Division.
| Dir. Office of System Standards & Evaluation.
| District Director, S California.
| Deputy Division Counsel and Deputy Associate Chief Counsel (Tax Exempt & Government Entities).
| Project Director.
| Deputy Chief, Management and Finance.
| Project Director.
| Director, Customer Service Center, Philadelphia.
| Director, Submission Processing Center—Atlanta.
| Project Director.
| Program Executive for Organizational Performance Management.
| National Dir, Multimedia Production Division.
| Deputy Chief, Customer Service Field Operations (Dallas).
| Deputy Chief Information Officer (Systems).
| National Dir, Collection Field Operations.
| Assistant District Director—N. Florida.
| Modernization Support Program Management Executive.
| Director, Customer Service Center—Memphis.
| Executive for Service Center Submission Processing.
| Regional Commissioner, Western.
| Director, Corporate Processing Division.
| Director of Support Services, Western.
| Director, Information Resources Management Office.
| Asst to the Senior Dep Commissioner.
| National Director Compliance Research.
| Chief Human Resource Officer.
| Director, Submission Processing Center—Cincinnati
| Deputy Division Commissioner, Tax Exempt and Government Entities.
| Director, International District Operations.
| National Director for Systems & Account Stds.
| Deputy Asst Commissioner (International)
| Project Director.
| Director, Business Systems Requirements.
| Asst Commissioner (Support Services).
| Chief of Operations Officers.
| Assistant District Director, S Florida.
| Project Director.
| Project Coordinator for Criminal Investigation Division Review.
| Program Executive for TT&SI
| Asst Commr (Examination & Govntl Liaison)
| Assistant Service Center Director—Andover.
| Chief, Customer Service Field Operations.
| Director, Customer Service Center—Kansas City.
| Service Center Director, Fresno.
| Asst Comr (Procurement).
| Natl Director, Electronic Prog Enhancement.
| National Director for Budget.
| Chief Management and Administration.
| Electronic Tax Administration Modernization Executive.
| Deputy Assistant Commissioner (Program Management & Architecture).
| Assistant Commissioner (Systems Development).
| Director, Submission Processing Center—Andover.
| Director, Customer Service Center—Fresno.
| Deputy Chief, Agencywide Shared Services.
| Assistant District Director, Michigan.
| Project Director.
| Project Director.
| Asst Chief Counsel (General Litigation).
| Asst Chief Counsel (Criminal Tax).
| Asst Chief Counsel (General Legal Services.)
| Asst Chief Counsel (Disclosure Litigation).
| Assistant Chief Counsel (International).
| Assistant Chief Counsel (Corporate).
| Dep Asst Chf Coun (Income Tax & Accounting).
| Dep Asst Chf Coun (Passthroughs/Spec Indust).
| Asst Chief Counsel (Field Service).
| Asst Chf Coun (Passthroughs/Spec Industries).
| Deputy Asst Chief Counsel (Corporate).
| Dep Assoc Chief Counsel (Fin & Management).
| Dep Asst Chief Counsel (Field Service).
| Dep Asst Chief Coun (Financial Inst & Prod).
| Dep Assoc Chf Coun (Enforcement Litigation).
| Deputy Assoc Chief Counsel (International).
| Asst Chf Coun (Fin Institutions & Products).
| Dep Asst Chief Coun (Income Tax & Accounting).
| Dep Assoc Chief Counsel (EBEO).
| Asst Chief Counsel (Income Tax & Accounting).
| Special Counsel to the National Taxpayer Advocate.
| Assistant Chief Counsel (International)(Technical).
| Assoc Chief Counsel (Enforcement Litigation).
| Assoc Chief Coun (Emp Benefits Exempt Org).
| Special Counsel (Modernization & Strat Plnng).
| Deputy Chief Counsel (Technical).
| Asst Chief Counsel (EBEO).
| Dep Assoc Chief Counsel (Domestic)(Technical).
| Associate Chief Counsel (International).
| Assoc Chf Counsel (Finance & Management).
| Associate Chief Counsel/Operating Division Counsel (TEGE).
| Dep Assoc Chief Coun (Domestic)(Field Serv).
| Deputy Chief Counsel (Operations).
| Assoc Chief Counsel (Domestic).
Regional Counsels | Regional Counsel SE Region.
| District Counsel, New England.
| District Counsel, Los Angeles.
| District Counsel, Ohio.
| District Counsel, Pennsylvania.
| District Counsel, New Jersey.
| District Counsel, Illinois.
| District Counsel, Manhattan.
| District Counsel, N Texas.
| District Counsel, N California.
| District Counsel, S California.
| District Counsel, S Florida.
| Regional Counsel, Western.
| Deputy Regional Counsel, Northeast.
| District Counsel, Midstates.
| District Counsel, Northeast.
| Deputy Regional Counsel (Southeast).
| Deputy Regional Counsel, Western Region.
| District Counsel, Pacific Northwest.
| District Counsel, Delaware-Maryland.
| District Counsel, Brooklyn.
| Deputy Regional Counsel, Midstates.
| District Counsel, Houston.
| District Counsel, Rocky Mountain.
Comptroller of the Currency | Deputy Associate Inspector General for Investigations. Deputy Inspector General for Investigations. Counsel to the Treasury Inspector Genral for Tax Administration. Associate Inspector General for Investigations (Field Operations).
Regional Operations | Assistant Commissioner, Regional Operations.
US Agency for International Development:
Office of the Administrator | Counselor to the Agency.
Office of the General Counsel | Deputy General Counsel. Asst General Counsel for Ethnic & Adm.
Office of the Inspector General | Counsel to the Inspector General. Deputy Inspector General.
Office of Security | Director, Office of Security.
Office of Equal Opportunity Programs | Dir Ofc Equal Opportunity Programs.
Bureau for Global Programs, Field Support and Research | Assoc Asst Admr Center for Economic Growth Senior Deputy Assistant Administrator. Dep Asst Admr Ctr for Pop, H/N BFGP, FS/Res. Associate Assistant Administrator.
Bureau for Europe and the New Independent States | Deputy Asst Administrator.
Bureau for Management | Chf Fin Ofcr, Office of Financial Management.
| Dir Office of Information Resource Management.
| Deputy Director Ofc of Procurement.
| Deputy Director, Office of Human Resources.
| Dir, Ofc of Admin Services.
| Deputy Director, Ofc of Procurement.
| Deputy Asst Admr Bureau for Management.
| Dep Director, Office of Financial Management.
US Arms Control and Disarmanent Agency:
Strategic and Eurasian Affairs Bureau | Chief, Strategic Transition Division.
Broadcasting Board of Governors:
Bureau of Management | Director, Office of Personnel. Director, Office of the Comptroller. Director, Office of Technology.
International Broadcasting Bureau | Dir Engineering and Technical Operations. Deputy for Engineering Resource Control. Deputy for Network Operations. Director for Spectrum Management. Senior Advisor.
Office of Information Resources | Director, Ofc of Information Resources.
OFC of the Gen Counsel | Deputy General Counsel.
US International Trade Commission:
Office of Industries | Dir Ofc of Industries.
Office of Investigations | Dir, Ofc of Investigations.
Department of Veterans Affairs:
Office of the Secretary and Deputy | Director, Office of Edca.
Office of the Inspector General | Assistant Inspector General for Auditing.
| Asst Inspector General for Investigations.
| Dep Inspector General.
| Asst Inspector Gen for Dept Rev & Magnt Sup.
| Dep Asst Inspector General for Investigations.
| Counseling to the Inspector General.
| Asst Inspector General for Healthcare Inspect.
| Dep Asst Inspector General for Auditing.
| eputy Assistant Inspector General for Healthcare Inspections.
| Deputy Assistant Inspector General for Management and Administration.
Board of Veterans Appeals | Vice Chairman.
Office of Finance | Deputy Assistant Secretary for Finance. Assoc Dep Asst Secy for Financial Operations. Director, Financial Services Center.
Office of Acquisition and Material Management | Dep Asst Sec for Acquisition & Material Mgmt. Assoc Dep Assistant Secy for Acquisitions. Assoc Dep Asst Secy for Prog Mgmt & Oper. Executive Director/Chief Operating Officer.
OFCC Asst Secy for Planning and Analysis | Chief Acturay.
Office of Human Resources Management | Assoc Dep Asst Secy for Human Res Management. Assoc Dep Asst Secy for Human Res Management.
Office of Security and Law Enforcement | Dep Asst Secy for Security & Law Enforcement.
Office Asst Secretary for Information and Technology | Dir, VA Automation Ctr, Austin, TX. Assoc Dep Asst Secy for Telecommunications. Assoc Dep Asst Secy for Pol & Prog Assistance.
Veterans Benefits Administration | Deputy Chief Financial Officer. Dep Dir Compensation & Pension Service. Chief Financial Officer.
Veterans Health Administration | Director, Resource Formulation Office.
| Dir, Office of Real Property Management.
| Dir VA/Dod Medical Sharing Office.
| Dir, Medical Care Cost Recovery Office.
| Dir Emergency Medical Preparedness Office.
| Deputy Director Emergency Medical Prep Ofc.
| Chief Financial Officer.
| Director, Western Area Office.
| Director, Eastern Area Office.
| Director, Facilities Quality Office.
| Dir Consulting Support Office.
| Director, Financial Management Office.
| Associate Chief Financial Officer for Compliance.
| Deputy Chief Financial Officer.
Veterans Inegrated Service Network Directors | Dir Canteen Service.

[FR Doc. 00-4690 Filed 2-29-00; 8:45 am]

BILLING CODE 6325-01-M